OFFICE OF PERSONNEL MANAGEMENT

Report On 1998 Surveys Used to Determine

Cost-of-Living Allowances in Nonforeign Areas

AGENCY: Office of Personnel Management.

ACTION: Notice.

SUMMARY: This notice publishes the “Report on 1998 Surveys Used to Determine Cost-of-Living Allowances in Nonforeign Areas.” The Federal Government uses the results of these surveys to set cost-of-living allowance (COLA) rates for General Schedule, U.S. Postal Service, and certain other Federal employees in Alaska, Hawaii, Guam and the Commonwealth of the Northern Mariana Islands, Puerto Rico, and the U.S. Virgin Islands. Based on the survey findings, the Office of Personnel Management is increasing the local retail COLA rate for the Guam and Commonwealth of the Northern Mariana Islands allowance area in an interim regulation published with this notice. This increase is a result of cost-of-living surveys conducted in October and November 1998 using our current methodology for calculating COLA rates. A settlement agreement that is currently awaiting court approval calls for OPM to use a new methodology in conducting future surveys and in calculating future COLA rates. Therefore, the survey results reflected in this rule are not an indication of what survey results or COLA rates would be under the new methodology.

DATES: We must receive comments on or before November 14, 2000.

ADDRESSES: Send or deliver comments to Donald J. Winstead, Assistant Director for Compensation Administration, Workforce Compensation and Performance Service, Office of Personnel Management, Room 7H31, 1900 E Street NW., Washington, DC 20415-8200; fax: (202) 606-4264; or email: COLA@opm.gov.

FOR FURTHER INFORMATION CONTACT: Donald L. Paquin, (202) 606-2838; fax: (202) 606-4264; or email: COLA@opm.gov.

SUPPLEMENTARY INFORMATION: Section 591.206(c) of title 5, Code of Federal Regulations, requires the Office of Personnel Management (OPM) to publish nonforeign area cost-of-living allowance (COLA) survey summaries and calculations in the Federal Register. We are publishing the complete “Report on 1998 Surveys Used to Determine Cost-of-Living Allowances in Nonforeign Areas” with this notice. In the report, we explain the methodologies, calculations, and findings of the 1998 COLA surveys.

Results of Surveys

Using an index scale with the living costs in the Washington, DC, area equal to 100, we computed index values of relative living costs in each of the allowance areas. (See the final cost comparison indexes in the Executive Summary of the report.) The results of the surveys show that the local retail COLA rate for the Guam and Commonwealth of the Northern Mariana Islands allowance area should increase from 22.5 percent to 25 percent, the COLA rates for two other areas are currently at the appropriate level, and the COLA rates in eight areas are above the levels indicated by the living-cost indexes. However, the Treasury, Postal Service, and General Government Appropriations Act, 1992 (Pub. L. 102-141), as amended, prohibits reductions in COLA rates through December 31, 2000. Therefore, the interim regulation contains no COLA rate reductions.

Corrections to the 1997 Report

In preparing our report on the 1998 surveys, we discovered three errors in the 1997 survey report. We discuss these errors below, and we have corrected them in the 1998 analyses and report. We note that these corrections did not affect the COLA rates for any allowance area.

Median values for housing. We further analyzed our data on 1997 median housing values and discovered an error that resulted in our publishing incorrect values for Anchorage and Fairbanks in appendix 9. We made these corrections. Although these changes had no effect on the Anchorage index, the Fairbanks index decreased from 107.57 to 107.53. The original and corrected home sales values are as follows:

| Original | Corrected
Anchorage:
Lower | $86,859 | $86,733
Middle | 119,561 | 119,236
Upper | 149,073 | 149,124
Fairbanks:
Lower | 78,804 | 76,086
Middle | 97,110 | No change
Upper | 122,196 | 112,128

Guam indexes. We had inadvertently omitted cellular phone service when calculating telephone expenses for the homeowner and renter indexes in Guam. We had also used an incorrect value for the Guam personal insurance and pensions index. While correcting these increased the Guam local retail total comparative cost index to 122.63 and the Guam commissary and exchange index to 119.09, these increases did not increase the actual COLA rates for Guam.

Renter characteristics and survey communities. In Table 4-2, Housing Profiles, we should have shown one bath instead of two for middle income renters. For upper income renters, we should have shown the rooms as 2-3 bedrooms and 4-5 rooms total. Also, in appendix 11, we should have noted in the footnotes that we relaxed the community specifications for the broker data. We have made these corrections in the 1998 survey report. None of these changes affected the indexes.

Comments on 1997 Survey Report

OPM published the report on the 1997 surveys for comment in the Federal Register on October 21, 1998 (63 FR 56432). We received five written comments and additional oral comments.

Generally, the commenters believed the surveys did not fully consider all expenses incurred in the allowance areas. Some commenters felt the surveys did not account for dissimilarities between the allowance areas and the Washington, DC, area, and that this affected the accuracy of the survey results.

OPM recently participated in a major initiative under a memorandum of understanding with plaintiffs in certain COLA litigation. That initiative studied many of these issues. We also engaged in a 2-year partnership pilot project that looked into many of the same issues. We describe these two efforts below, then discuss the substantive comments we received in response to the 1997 survey report.

Memorandum of Understanding and Report to Congress

In 1996, OPM entered into a memorandum of understanding (MOU) with litigants in the cases of Alaniz v. Office of Personnel Management and Karamatsu v. United States. The MOU committed OPM and the litigants to a “Safe Harbor” process for conducting studies relating to the COLA program and the compensation of Federal employees in the allowance areas. The purpose of the Safe Harbor process was to resolve long-contested COLA issues and to assist OPM in preparing a report to Congress on the COLA program. This report, required by the Treasury, Postal Service, and General Government Appropriations Act, 1992 (Pub. L. 102-141), as amended, was due by March 1, 2000. However, the Government and plaintiffs are currently negotiating to settle the contested issues. If the parties achieve settlement, OPM will make many substantive changes in the COLA methodology. Therefore, we have notified Congress that we will report after we conclude the settlement process.

During the Safe Harbor process, we avoided making substantive policy changes in the COLA program. We made administrative changes as necessary and implemented other improvements in response to the comments we received. We list these changes in the survey report.

COLA Partnership

In November 1996, we established a 2-year pilot project to involve agency and employee representatives in a partnership with OPM to help us administer the nonforeign area COLA program. Our goal was to introduce a cooperative effort to help us plan and conduct COLA surveys, explore ways to improve the COLA program, and help everyone, including OPM, better understand issues related to the compensation of Federal employees in the COLA areas.

OPM worked with committees established under the pilot project to plan and conduct both the 1997 and 1998 living-cost surveys in the COLA areas. Although the pilot project expired in November 1998, OPM continued to work informally with interested committee members in the analysis of the 1998 survey results.

Goods and Services

One commenter suggested that we survey costs for building materials such as plywood, framing lumber, cabinets, carpet, and roofing materials. The commenter noted that delivery of these materials to Juneau takes a minimum of 2 weeks, resulting in project delays and higher costs. We currently survey various building material items, including paint, electrical outlets, area rugs, and caulking. We also survey the cost for interior painting and an electrical project, which should reflect higher costs due to material supply delays. Based on this suggestion, we collected prices for plywood on a test basis during the 1998 surveys. We obtained usable data and included these prices in our analysis.

The same commenter suggested that OPM consider surveying the cost of an oil change, appliance repair, and dry cleaning. In this and previous surveys, we surveyed both the cost of oil changes and dry cleaning. This year, we added appliance repair as a test item and found that we were able to collect comparable data across areas. Therefore, we used the results of this test item.

The commenter also suggested that OPM survey landfill charges for trash and recyclable material disposal. Consumer trash removal is often a tax-supported service or is included in the water-sewer bill. We believe the extent to which consumers pay landfill fees in lieu of higher taxes or utility fees probably differs significantly by area, and we have no information that would allow us to take these differences into consideration. Therefore, we are not adopting this suggestion.

One commenter suggested that OPM consider pricing both basic cable TV service and the next higher level of service, at least on a test basis. We adopted the change as a test item for the 1998 survey, but found we could not obtain comparable data across areas. Therefore, we did not use prices for level 1 cable TV service in any area.

The same commenter noted that some hospitals in Hawaii have only private rooms, not semi-private rooms as OPM surveyed in 1997. The commenter suggested pricing both private and semi-private hospital rooms. We adopted this change for the 1998 survey.

A commenter suggested surveying the price of specially formulated paints that inhibit mildew or pricing mildew additive. For the 1998 survey, we priced mildew additive in each area and added it to the price of a gallon of paint.

A commenter suggested OPM add personal computers to the survey. We researched this, but found that it was not feasible to survey comparable brands and models across areas. However, we plan to reconsider surveying this item, perhaps on a test basis, in future surveys.

One commenter noted that sales taxes were increasing in Juneau to cover various new facilities and services. We include the local sales tax in the price of items we survey; therefore, the data we use in our price comparisons reflect sales tax increases.

The same commenter remarked that the closing of a department store and a pharmacy in Juneau reduced the availability of certain items. The extent to which fewer goods or services leads to higher costs is reflected in the item prices we collect. The availability of goods and services in the allowance areas was one of the research topics under the MOU.

One commenter remarked on the frequency of sales in the Washington, DC, area compared to Juneau. In the 1998 and previous surveys, we compared only non-sale prices of identical items from similar outlets. In future surveys, however, we plan to survey the price of the item at the time of the survey. If we adopt this change, we will collect both sale prices and regular prices, depending on whether the item is on sale at the time we visit the outlet.

Housing

One commenter felt that the median price used by OPM for upper income house sales in Anchorage was too low to be an accurate reflection of prices for upper income homes. The commenter believed that the lower priced homes could not have been in liveable condition or in a safe neighborhood. We used data provided by an Anchorage real estate broker on homes that were sold during the period August 1, 1996, through July 31, 1997. We looked at over 750 upper income home sale prices in south Anchorage, and we believe these produced a representational median.

The same commenter recommended that we examine earthquake and flood insurance needs by individual allowance area. In 1992, OPM's contractor for the cost-of-living surveys, Runzheimer International, investigated homeowner/renter insurance coverage for floods and earthquakes in each individual allowance area. Runzheimer found that less than 10 percent of the population in each of the allowance areas purchased these coverages. Because most homeowners and renters do not purchase an earthquake rider, we do not include it in our surveys. Furthermore, whether lenders require homeowners to buy flood insurance depends on where the property is located, and this can be an insurance requirement in any area, including for properties along the rivers and streams in the Washington, DC, area. We are not aware of any data source that would allow us to determine for each survey area the percent of properties in a flood zone.Therefore, we do not survey the cost of this type of coverage. However, we do survey the cost of hurricane and typhoon insurance in tropical COLA areas, where lenders typically require this coverage.

Another commenter noted that housing costs are high in Juneau. Our survey of home sales data and other housing expenses in Juneau should capture these costs.

A commenter from the Virgin Islands noted that many employees live on the island of St. John. Recognizing that it was not feasible to price all survey items on St. John, the commenter suggested that OPM survey home sales and rental prices and combine these data with the St. Thomas data. We adopted this change for the 1998 survey.

Transportation Component

Two commenters suggested that OPM reconsider the models of automobiles it prices in the COLA surveys. One commenter suggested that OPM survey more sports utility vehicles. The other suggested that OPM survey a luxury brand, such as BMW. We did not adopt either of these suggestions. We survey three models—Honda Civic, Ford Taurus, and Chevrolet Blazer. These are popular brands and models, although their popularity differs from one area to the next. It was not feasible for us to vary the brands and models by area with the 1998 survey. However, it may be possible to do this in future surveys. As with all survey items, we will consider changing models and brands in future surveys in response to changes in consumer preferences.

One commenter believed we should include the cost of windshield repairs in our survey of vehicle repair costs for Alaskans. In the 1997 survey, we surveyed the frequency and cost of windshield replacement in all of the COLA areas and in the DC area. We found that frequency of windshield replacement was greater in Alaska than in the DC area, but that the frequency of windshield replacement in the other COLA areas was about the same as in the DC area. We also found that the cost of windshield replacement in Alaska was greater than the automobile insurance deductible priced in the COLA surveys. Since consumers pay only the deductible for these repairs, we do not need to survey this item. Instead, we add the cost of the deductible to the annual private transportation costs for the Alaska areas. This was done for both the 1997 and 1998 surveys.

One commenter suggested that we use the NADA or Kelly Blue Book for the Pacific region to determine the used car values we use in the COLA model. We use the residual value of a car after 4 years to calculate the annual depreciation expense associated with owning an automobile. We currently use books covering the Eastern region. We researched this issue and found that prices in the Pacific region books tend to be slightly higher than in the Eastern region books. However, for administrative simplicity, we did not adopt the proposal because using different residual values for some areas and not others would have significantly complicated the COLA model. The effect of retaining the current practice may slightly overstate living costs in the COLA areas.

One commenter noted that airline competition decreased in Juneau. Our survey of airfare costs should capture any higher ticket prices that result from reduced competition.

Another commenter suggested that OPM price the cost of an airline ticket purchased 2 weeks in advance. As used in the COLA model, airfares reflect the cost of vacation travel. We researched the availability and prices of airline tickets and found that generally the best deals were available if the ticket was purchased at least 3 weeks in advance and the traveler flew mid-week (i.e., Tuesday through Thursday). Therefore, for the 1998 surveys in both the COLA areas and the Washington, DC, area, we priced the lowest airfares available 3 weeks in advance, departing on a Tuesday and returning on a Thursday, because this best reflects likely vacation travel.

Miscellaneous Component

Medical care. One commenter felt that medical care in Juneau was limited, resulting in higher health care costs and inferior health care. The commenter said there was a need for costly travel outside the area to obtain some medical services. We currently price a range of medical services within each area, and the COLA model captures any higher local prices.

Travel outside the area for medical service is another issue. Some travel may result from an employee's perceptions about the quality of local medical services. We know of no source that allows us to compare objectively the quality of medical services across areas. Therefore, we do not take into account the cost of unreimbursed travel for medical services or any differences in the quality of health care.

A commenter from Puerto Rico believed that a major health benefits plan in that area provided a lower level of coverage than most plans in the DC area. The commenter also said the service covered was inconvenient because it required the employee to use preferred providers who often did not accept appointments. Employees had to show up and wait to be seen. The commenter suggested that OPM review and compare the various Federal health benefits plans. We were unable to do this because it would require us to make subjective decisions about what employees do. For example, if an employee chooses a plan that is less convenient or provides a lower level of coverage, the employee accepts inconvenience and lower coverage as a trade-off for the lower insurance premium, presumably with the expectation that the service/coverage may not be necessary. It is a highly subjective decision that each employee makes. We know of no objective way to quantify this.

Another commenter suggested that OPM price psychiatric counseling. We believe it might be feasible to collect prices for this service in each area, but under the current methodology, the weight we would assign it would be very small. (We discuss how we derive and assign weights in section 2.3 of the report.) Therefore, we did not add this item to the survey because it would have increased the administrative and public burden of the survey with little chance of affecting the results.

Other Comments

Locality pay. One commenter noted that Federal employees in Juneau do not receive the locality pay increases received by employees in the Washington, DC, area. The locality pay law (5 U.S.C. 5304) prohibits the Government from providing locality pay to employees outside the 48 States and the District of Columbia.

Retirement. The same commenter was concerned that COLAs do not count for retirement purposes for employees in the allowance areas. Federal law excludes allowances (including COLAs) from basic pay in the computation of retirement annuities. (See 5 U.S.C. 8331(3) and 8401(4).)

Office of Personnel Management.
Janice R. Lachance,
Director.

Report on 1998 Surveys Used to Determine Cost-of-Living Allowances in Nonforeign Areas

Table of Contents

Executive Summary

1. Introduction

1.1 Report Objectives

1.2 The COLA Partnership Pilot Project

1.3 The Safe Harbor Process

1.4 Changes in the 1998 Survey

1.5 Pricing Period

2. The COLA Model

2.1 Measurement of Living-Cost Differences

2.2 Step 1: Identifying the Target Population

2.2.1 Federal Salaries

2.2.2 Federal Employment Weights

2.3 Step 2: Estimating How People Spend Their Money

2.3.1 Consumer Expenditure Survey

2.3.2 Expenditure Categories and Components

2.4 Step 3: Selecting Items and Outlets

2.4.1 Item Selections—The Market Basket

2.4.2 Geographic Coverage and Outlet Selection

2.4.2.1 Geographic Areas

2.4.2.2 Similarity of Outlets

2.4.2.3 Catalog Pricing

2.5 Step 4: Surveying Prices

2.5.1 Data Collection

2.5.2 Inclusion of Sales and Excise Taxes

2.5.3 Surveying the Washington, DC, Area

2.6 Step 5: Analyzing Data and Computing Indexes

2.6.1 Indexes

2.6.2 Item Weights

2.6.3 Category and Component Weights

2.6.4 Computing the Overall Index

3. Consumption Goods and Services

3.1 Categories and Category Weights

3.2 Goods and Services Survey Results

3.2.1 Exchange and Commissary Expenditure Research

4. Housing

4.1 Component Overview

4.2 Housing Model

4.2.1 Expenditure Research

4.2.2 Housing Profiles

4.2.3 Living Community Selection

4.2.4 Housing-Related Expenses

4.2.4.1 Utilities

4.2.4.2 Real Estate Taxes

4.2.4.3 Owners/Renters Insurance

4.2.4.4 Home Maintenance

4.3 Housing Data Collection Procedures

4.3.1 Homeowner Data Collection

4.3.2 Renter Data Collection

4.4 Housing Analysis

4.4.1 Homeowner Data Analysis

4.4.2 Rental Data Analysis

4.5 Housing Survey Results

5. Transportation

5.1 Component Overview

5.2 Private Transportation Methodology

5.2.1 Vehicle Selection and Pricing

5.2.2 Vehicle Trade Cycle

5.2.3 Fuel Performance and Type

5.2.3.1 Impact of Temperature upon Fuel Performance

5.2.3.2 Impact of Road Surface upon Fuel Performance

5.2.3.3 Impact of Gradient Upon Fuel Performance

5.2.3.4 Overall Impact upon Fuel Performance

5.2.4 Vehicle Maintenance

5.2.5 Tires

5.2.6 License and Registration Fees and Miscellaneous Taxes

5.2.7 Depreciation

5.2.8 Finance Expense

5.2.9 Vehicle Insurance

5.2.10 Overall Annual Costs

5.3 Other Transportation Costs—Air Fares

5.4 Transportation Component Analyses

6. Miscellaneous Expenses

6.1 Component Overview

6.2 Component Weights

6.3 Component Categories

6.3.1 Medical Expense Category

6.3.2 Private Education (K-12) Category

6.3.3 Contributions Category

6.3.4 Personal Insurance and Retirement Category

6.4 Miscellaneous Expense Analyses

7. Final Results

7.1 Total Comparative Cost Indexes

List of Appendices

Appendix 1: Publication in the Federal Register of Prior Survey Results: 1990-1998

Appendix 2: Federal Employment Weights

Appendix 3: Consumer Expenditure Surveys

Appendix 4: CES Category and Component Expenditures

Appendix 5: Item Descriptions

Appendix 6: Principal Pricing Changes

Appendix 7: Consumption Goods and Services Analysis

Appendix 8: OPM Living Community List

Appendix 9: Historical Home Market Values and Interest Rates

Appendix 10: Historical Housing Data

Appendix 11: Summary of Rental Data Analyses

Appendix 12: Housing Cost Analysis

Appendix 13: Housing Analysis

Appendix 14: Private Transportation Cost Analysis

Appendix 15: Auto Insurance Calculation Worksheet Special Limits Adjustments

Appendix 16: Air Fares Cost Analysis

Appendix 17: Transportation Analysis

Appendix 18: Transportation Summary

Appendix 19: Miscellaneous Expense Analysis—Total Index Development

Appendix 20: Miscellaneous Expense Summary

Appendix 21: Component Expenditure Accounts

Appendix 22: Total Comparative Cost Indexes

Executive Summary

The Government pays cost-of-living allowances (COLAs) to Federal employees in nonforeign areas in consideration of living costs higher than in the Washington, DC, area. The Office of Personnel Management (OPM) conducts living-cost surveys in order to set the COLA rates. This report provides the results of the 1998 living-cost surveys and compares living costs in the nonforeign COLA areas to those in the Washington, DC, area.

We conducted surveys in Alaska, Hawaii, Guam, Puerto Rico, the U.S. Virgin Islands, and the Washington, DC, area. We then analyzed the survey data and produced this report. For the surveys, we contacted about 4,000 outlets and collected approximately 26,000 prices on about 252 items representing typical consumer purchases. We then combined the data using consumer expenditure information developed by the Bureau of Labor Statistics. The final result is a series of living-cost indexes, shown in Table E-1, that compare living costs in the allowance areas to those in the Washington, DC, area. The index for the DC area (not shown) is 100.00 because it is, by definition, the reference area.

Table E-1.—Final Cost Comparison Indexes
Allowance area | Index
Anchorage, Alaska | 105.65
Fairbanks, Alaska | 109.19
Juneau, Alaska | 110.46
The rest of the State of Alaska | 131.58
City and County of Honolulu, Hawaii | 124.51
Hawaii County, Hawaii | 110.89
Kauai County, Hawaii | 117.19
Maui County, Hawaii | 120.32
Guam/CNMI*, Local Retail | 125.23
Guam/CNMI, Commissary/Exchange | 121.12
Puerto Rico | 105.93
U.S. Virgin Islands | 116.33
*CNMI=Commonwealth of the Northern Mariana Islands

1. Introduction

1.1 Report Objectives

This report provides the results of the 1998 surveys. Appendix 1 lists previous survey reports and their publication dates. The analyses show the comparative living-cost differences between the Washington, DC, area and the allowance areas listed below. By law, Washington, DC, is the base or “reference” area for the nonforeign area cost-of-living allowance program.

1. Anchorage, Alaska

2. Fairbanks, Alaska

3. Juneau, Alaska

4. The rest of the State of Alaska

5. City and County of Honolulu, Hawaii

6. Hawaii County, Hawaii

7. Kauai County, Hawaii

8. Maui County, Hawaii

9. Guam and the Commonwealth of the Northern Mariana Islands (CNMI)

10. Puerto Rico

11. U.S. Virgin Islands

1.2 The COLA Partnership Pilot Project

In November 1996, OPM established the COLA Partnership Pilot Project, a 2-year pilot project designed to assist us in administering the COLA program. (See 61 FR 59173.) The pilot project established COLA Partnership Committees and Subcommittees in Alaska, Hawaii, Guam, Puerto Rico, and the U.S. Virgin Islands. Members of the committees and subcommittees included representatives from local area unions and agencies, as well as representatives from OPM.

The Committees and Subcommittees worked with OPM in varying degrees to plan the COLA surveys, observe the data collection, and advise OPM on the COLA program and on compensation issues relating to the COLA areas. We have adopted a number of the changes recommended by the Committees and Subcommittees since the start of the project. However, OPM did not renew the COLA Partnership Pilot Project when it expired because we were involved in discussing the nature of future employee involvement in the COLA program as part of the MOU process. The pilot project ended on November 23, 1998.

1.3 The Safe Harbor Process

In 1996, we entered into a memorandum of understanding (MOU) with litigants in the cases of Alaniz v. Office of Personnel Management and Karamatsu v. United States. Under the MOU, we committed to a “Safe Harbor” process with the litigants to conduct studies relating to the COLA program and the compensation of Federal employees in the allowance areas. The Safe Harbor process had two primary goals: (1) To resolve long-contested issues in the COLA program and (2) to assist OPM in preparing a report to Congress on the COLA program.

This report, required by the Treasury, Postal Service, and General Government Appropriations Act, 1992 (Pub. L. 102-141), as amended, was due by March 1, 2000. However, since the Government is currently negotiating to settle several pending court cases in the COLA areas, we will not report to Congress until after the Government concludes these negotiations.

1.4 Changes in the 1998 Survey

During the course of the COLA Partnership Pilot Project and the Safe Harbor process, we generally avoided making substantive changes in the COLA program. As with previous surveys, we did make a few non-substantive changes in the 1998 surveys. The majority of these changes related to items or outlets surveyed. (See Appendix 6.)

One of the changes was in the Goods and Services Component that involved obtaining more price quotes for each item. In previous surveys, we attempted to get three price quotes (one for each item at three different suitable outlets) for most items in each survey area. In the 1998 survey, we attempted to obtain up to nine price quotes for many items. This significantly increased the number of price observations we used in this survey.

1.5 Pricing Period

We traveled to the COLA areas in October and November 1998 to collect the living-cost data. During the same time frame, we collected data in the Washington, DC, area. We collected the prices of some items—those dependent upon the pricing of other items—later. Because we conducted the surveys in October and November, we were not able to collect prices for some winter items, such as downhill skiing.

As in previous surveys, we priced some catalog items. We used only catalogs that sell merchandise in both the allowance areas and the Washington, DC, area. To ensure consistent catalog pricing, we used only current catalogs for all catalog items surveyed.

2. The Cola Model

2.1 Measurement of Living-Cost Differences

The COLA model measures living-cost differences between the allowance areas and the Washington, DC, area by—

—Selecting typical items that people purchase in these locations,

—Calculating their respective cost differences, and

—Combining costs according to their relative importance to each other (as measured by relative percentage of expenditures).

This involves the following major steps:

Step 1: Identify the segment of the population for the target analysis (i.e., typical Federal white-collar employees).

Step 2: Estimate how these people spend their money.

Step 3: Select items to represent the types of expenditures people usually make and outlets at which people typically make purchases for each selected item.

Step 4: Conduct pricing surveys of the selected items in each area.

Step 5: Compute price ratios for the surveyed items and aggregate them according to the relative importance of each item.

2.2 Step 1: Identifying the Target Population

The study estimates living-cost differences for typical white-collar Federal employees who have annual base salaries between approximately $13,000 and $94,300, the range of the 1998 General Schedule. Because living costs may vary depending on an employee's income level, we analyze living costs at three income levels.

2.2.1 Federal Salaries

To determine the appropriate income levels, we—

1. Analyzed the 1998 distribution of salaries for General Schedule employees in all of the allowance areas combined;

2. Divided this distribution into three income groups of equal size and identified the minimum, maximum, and median salary in each group;

3. Rounded the median values to the nearest $100 to produce the three representative income levels of $23,300, $35,300, and $52,700;

4. Compared living costs at each of these three income levels to produce three sets of estimated expenditures for each allowance area and for the Washington, DC, area; and

5. Combined these estimated expenditures into a single overall index for each allowance area using the employment weights described below.

2.2.2 Federal Employment Weights

We used the minimum and maximum values of each income group and the 1998 distribution of General Schedule employees by salary in each allowance area to derive employment weights. We combined these with similar data from 1995 and 1996 to produce a moving average. (We use moving averages to lessen index changes caused by the introduction of new weights over time.) From these averages, we calculated the percentage of the General Schedule workforce in each income group in each area. These percentages became the weights we used to combine estimated expenditures to compute the final index. Appendix 2 shows the General Schedule employment distributions and how we derived the percentage weights. Appendix 21 shows how we used the weights in the final calculations.

2.3 Step 2: Estimating How People Spend Their Money

2.3.1 Consumer Expenditure Survey

We base expenditure patterns used in the calculations on national data from the Consumer Expenditure Survey (CES). We obtained from the Bureau of Labor Statistics (BLS) “prepublished” CES results for 1994, 1995, and 1997. BLS has advised us that “prepublished” CES data may not be statistically significant. To our knowledge, however, it is the only source of comprehensive consumer expenditure information by income level. Therefore, we use it in the model.

We use CES data in two ways: (1) To identify appropriate items for the survey and (2) to derive item, category, and component weights. The item weights are not income-sensitive. We analyze aggregated CES data by income level to derive category and component weights. These weights are income-sensitive. Appendices 3 and 4 show the CES data we used in this study. As with the Federal employment weights, we combined the 3 years of CES data to produce a moving average.

2.3.2 Expenditure Categories and Components

BLS groups CES items into small, logical families. For example, BLS groups CES pre-published data for beef into four subcategories: Ground beef, roast, steak, and other. BLS further separates the steak and roast groupings into smaller clusters of items (e.g., sirloin and round steak, chuck and round roast). We separated the CES items into the four main cost components specified in our regulations: Consumption Goods and Services, Transportation, Housing, and Miscellaneous Expenses. To develop weighting patterns for the three income levels, we performed linear regression analyses on the CES data shown in Appendix 3.¹ These analyses produced estimated expenditures at the three income levels identified in section 2.2.1, above. We converted these expenditures to percentages of total expenditures for the four components to produce the values shown in table 2-1. These were the weights we used to combine the expenditures for each of the components into an overall value for each income level in each allowance area and the Washington, DC, area.

¹ The midpoint of the moving average of CES data was 1995. Therefore, for the purpose of these regressions, we adjusted Federal salaries to reflect 1995 pay rates. We used the pay increases for 1996 (2.0%), 1997 (2.3%), and 1998 (2.3%) to deflate the 1998 salaries. This produced adjusted Federal salaries of $21,826, $33,071, and $49,326 for use in the regression equations.

TABLE 2-1.—Component Expenses Expressed as a Percentage of Total Expenses
1998 income level | 1995 adjusted income level* | Goods and services (percent) | Housing (percent) | Transportation (pecent) | Misc. (percent) | Total (percent)
$23,300 | $21,826 | 38.07 | 26.42 | 19.24 | 16.27 | 100.00
35,300 | 33,071 | 37.48 | 25.00 | 19.12 | 18.40 | 100.00
52,700 | 49,326 | 36.96 | 23.72 | 19.01 | 20.68 | 100.00
Note: Values may not total 100 because of rounding.
*Income levels are adjusted as described in footnote 1.

We further separated Goods and Services Component items into 10 categories and used linear regression techniques to estimate expenditures on these 10 categories by income level. Section 3.1 shows the weights for these categories. We also used the same technique to compute category weights for the Transportation and Miscellaneous Expense Components and to produce ratios of renters to homeowners at each income level.

2.4 Step 3: Selecting Items and Outlets

2.4.1 Item Selections—The Market Basket

As noted above, we grouped CES items into “clusters” of expenses to determine which items to survey. We chose these clusters so that no market basket item would have an overwhelmingly large or an insignificantly small item weight.

For each of these clusters, we identified a set of items to price. Collectively, we call these items a “market basket.” Because it would have been impractical to survey each of the thousands of items consumers might buy, the market basket contains representative items. For example, cheddar cheese represents itself and the many other cheeses and related products that consumers purchase. The market basket that we used had approximately 250 items ranging from table salt to new cars to home purchases.

Whenever practical, we included in the item description the exact brand, model, type, and size, so that we could price exactly the same items in all areas if possible. For example, we selected a 10.5-ounce can of Campbell's vegetable soup for the survey because it is typical of canned soups, consumers commonly purchase it, and we find it in all areas. Appendix 5 lists the items we survey and their descriptions.

Changes in the item list and descriptions are an important aspect of the COLA survey. These changes are necessary to improve the survey and keep the item descriptions current. For this survey, we changed several of the items and descriptions. Appendix 6 lists the major changes and the reason for each.

2.4.2 Geographic Coverage and Outlet Selection

Just as it is important to select commonly-purchased items and survey the same items in all areas, it is important to select outlets frequented by consumers and find equivalent outlets in all areas. This involves deciding which geographic areas to survey and which outlets to survey within these geographic areas.

2.4.2.1 Geographic Areas

For some areas, the choice of which area(s) to survey was obvious. On St. Thomas, for example, we survey essentially the whole island because the island is not that large, and Federal employees live throughout the island. For other areas, we had to identify specific communities. To do this, we relied mainly on the results of the 1992 Federal Employee Housing and Living Patterns Survey. Among other things, that survey obtained information on where Federal employees lived. We used this information, in consultation with the COLA Partnership Committees and Subcommittees, to select the living communities for pricing housing costs. Again in consultation with the Committees and Subcommittees, we identified outlets within a normal shopping radius of these housing communities. We generally considered outlets within a living community or within an adjoining living community to be within a normal shopping radius.

2.4.2.2 Similarity of Outlets

Whenever possible, we (and the Committees/Subcommittees) selected outlets that were popular with consumers and that were comparable to outlets in other areas. For example, we surveyed grocery items at supermarkets in all areas because most people purchase their groceries at such stores and because supermarkets exist in nearly all areas.² The selection of comparable outlets is particularly important because of the significant price variations that may occur between dissimilar outlets (e.g., comparing supermarket prices with convenience store prices).

² We surveyed groceries at two kinds of supermarkets (i.e., full-service supermarkets and “warehouse-type” supermarkets) in areas where both types of supermarkets were common and within a normal shopping radius of the living communities surveyed. We note, however, that some areas do not have warehouse-type supermarkets. We did not survey mebership stores, such as Costco, in any area.

Although major supermarkets, department stores, and discount stores represented a sizable portion of the survey, we also selected outlets to represent the diversity of consumer shopping options. For example, we could have used department stores for pricing all clothing items. However, this would not have reflected the range of consumer choices. Therefore, we priced some clothing items in department stores, others in shoe stores, others in discount stores, and still others via mail order. For each item, we selected the same type of outlet (e.g., clothing store, discount store, department store) in each area whenever possible.

2.4.2.3 Catalog Pricing

We collected 13 item prices by catalog in the survey to reflect this common purchasing option. Catalog pricing also allowed the comparison of items that we would have had difficulty pricing otherwise. We included in the catalog prices any charges for shipping and handling and all applicable taxes.

2.5 Step 4: Surveying Prices

As noted earlier, we obtained approximately 26,000 prices on about 250 items from about 4,000 outlets. The 26,000 price observations represents a significant increase over the 1997 survey. In prior surveys, we attempted to get three price quotes (one for each item at three different suitable outlets) for most items in each survey area. In the 1998 survey, we attempted to obtain up to nine price quotes for many items, although we frequently were not able to achieve this goal. Also, there were certain exceptions. For example, we obtained essentially all of the available home sales and rental data meeting the survey specifications. For other items, such as utilities and real estate tax rates, we obtained only one quote in each area because these items have uniform rates within an area. Because the Washington, DC, area has six survey areas, we attempted to get up to nine price quotes for many items in each survey area.

2.5.1 Data Collection

To avoid possible conflicts of interest, OPM central office staff collected the price data in each area. In many of the COLA areas, data collection observers, usually designated by the local COLA Partnership Committee or Subcommittee, accompanied our staff. The observers advised and assisted us in contacting outlets, matching items, and selecting substitutes. The observers also advised us on living costs and related compensation issues in their areas. We found this to be a very informative process.

We collected most data onsite in stores, repair shops, etc. However, we priced many items, such as insurance, home maintenance services, and private education expenses, by telephone. We collected some items, such as property tax rates, from websites on the Internet. We also purchased home sales and some rental data from various sources.

2.5.2 Inclusion of Sales and Excise Taxes

For all items subject to sales and/or excise taxes, we added the appropriate amount of tax prior to analysis. We gathered applicable information on taxes by contacting appropriate sources of information in the allowance areas and the Washington, DC, area.

2.5.3 Surveying the Washington, DC, Area

As noted above, we attempted to get more price quotes in the DC area than in the allowance areas because of the size and diversity of the DC metropolitan area and because DC is the basis for all comparisons. For the purposes of the COLA surveys, we divided the DC area into six survey areas: two in the District of Columbia, two in Maryland, and two in Virginia. We surveyed outlets within a normal shopping radius of the housing communities identified in Appendix 8. We combined survey data from each of the six DC survey areas using equal weights.

As in the COLA areas, OPM central office staff collected data onsite and by phone in the DC area. Due to funding limitations, allowance area data collection observers did not travel to the DC area to observe and assist in data collection.

2.6 Step 5: Analyzing Data and Computing Indexes

2.6.1 Indexes

We derive nonforeign area COLAs from living-cost indexes. These indexes are mathematical comparisons of living costs in the allowance areas to living costs in the Washington, DC, area. An index is a way to state the difference between two prices (or sets of prices). For example, if a can of green beans costs $1.00 in the allowance area and 80 cents in the DC area, canned green beans are 25 percent more expensive in the allowance area than in DC. We can state that difference as a price index of 125.

2.6.2 Item Weights

We computed indexes for hundreds of items. As briefly described in section 2.3, we used weights derived from the CES to combine these indexes. These weights reflected the relative amount consumers normally spend on different items. For example, the price of a can of green beans has a lower weight than the price of a pound of apples because, according to the CES, people generally spend less on canned green beans than on apples. (People typically buy more apples than green beans.)

The COLA model uses a fixed-weight indexing methodology. The model bases the weights used on the expenditure patterns of consumers nationwide as reported by the CES. This is the only source we are aware of that provides expenditure information by income level.

2.6.3 Category and Component Weights

As described in section 2.3.2, we also computed income sensitive category and component weights. This allowed us to combine comparative price data in a manner that reflected the spending patterns of people at each income level. The way we combined data varied among the components.

For the Goods and Services and Miscellaneous Expense Components, we combined indexes within each category using the CES weights to derive an overall index for the category. We then combined the category indexes into an overall component index using the income-sensitive category weights described above. For the Transportation and Housing Components, we used the same approach in combination with a cost-build-up approach. For example, we computed the annual cost of owning and operating an automobile by taking individual prices (e.g., automobile financing, insurance, gas and oil, and maintenance) and computing an overall dollar cost for each area. We compared these costs with those in the DC area to compute the Private Transportation Category index. We then combined this index with the Other Transportation Category index using income sensitive category weights to compute an overall Transportation Component index for each area.

2.6.4 Computing the Overall Index

We combined the item, category, and component indexes using the process prescribed in section 591.205(c) of title 5, Code of Federal Regulations. This is a five-step process that involves converting the indexes to dollar values, which we then weight, combine, and compare to compute a final weighted-average index. We describe the process in detail below.

First, we used the CES data and the income ranges described in section 2.2.1 to determine how much money consumers typically spend on each component at each income level. These amounts appear in the table below and in Appendix 21. We derived the amounts by taking the component weights shown in Table 2-1 and multiplying them times the representative income levels described in section 2.2.1.

Table 2-2.—Typical Consumer Expenditures by Income Level and Component
Income level | Goods and services | Own/rent | Transportation | Misc. | Total
Lower | $8,870 | $6,156 | $4,483 | $3,791 | $23,300
Middle | 13,230 | 8,825 | 6,749 | 6,495 | 35,300
Upper | 19,478 | 12,500 | 10,018 | 10,709 | 52,700
Note: Values may not total because of rounding here and in Table 2-1.

Second, for each allowance area, we multiplied the dollar values above by the component indexes for the allowance area. Because the housing component consisted of two indexes (one for owners and another for renters), we produced total relative costs separately for owners and renters.

Third, for each allowance area and income level, we combined the total relative costs for owners and renters using as weights the proportion of owners and renters as identified in the CES. (See section 4.2.1.) This produced an overall expenditure dollar amount for each income level in each allowance area.

Fourth, we computed a single overall average expenditure for each allowance area by combining the income level expenditures using the allowance area General Schedule employment distribution as weights. This produced a single overall dollar expenditure value for the allowance area. Using the same General Schedule employment weights, we also computed a single overall dollar expenditure value for the DC area.

The final step was to divide the overall dollar expenditure for the allowance area by the overall dollar expenditure for the DC area to compute a final index. The last section of this report and Appendix 22 show these indexes.

3. Consumption Goods and Services

3.1 Categories and Category Weights

Based on the CES data, we identified 10 categories of expenses within the Goods and Services Component. Using linear regression analyses and the CES data, we identified the portion of total Goods and Services expenditures that the typical consumer spends in each category at various income levels. Table 3-1 shows the categories and the relative expenditures.

Table 3-1.—Category Weights Expressed as a Percentage of Goods and Services Expenditures By Income Level
Category | Income levels: Lower | Income levels: Middle | Income levels: Upper
Food at home | 27.03 | 24.05 | 21.30
Food away from home | 13.43 | 14.18 | 14.87
Tobacco | 2.82 | 2.34 | 1.90
Alcohol | 2.33 | 2.40 | 2.47
Furnishings & household operations | 15.36 | 16.64 | 17.82
Clothing | 13.02 | 13.50 | 13.94
Domestic service | 1.73 | 1.95 | 2.15
Professional services | 7.09 | 6.82 | 6.57
Personal care | 3.91 | 3.77 | 3.64
Recreation | 13.27 | 14.35 | 15.34 &radic
Totals | 100.00 | 100.00 | 100.00
Note: Values may not total 100 because of rounding.

3.2 Goods and Services Survey Results

Section 2.6 of this report provides a detailed explanation of the economic model used to analyze the price data. As it applies to Goods and Services, the approach involved comparing the average prices of market basket items in each allowance area with those in the Washington, DC, area. We aggregated the resulting price ratios into subcategory and then category indexes using the moving-average expenditure weights derived from the CES data.

Appendix 7 shows for each allowance area 10 category indexes, the weights used at each of the 3 income levels, and the overall Goods and Services Component indexes. The appendix does not include the Washington, DC, area because it is, by definition, the reference area. Therefore, the DC indexes are 100.

3.2.1 Exchange and Commissary Expenditure Research

Executive Order 10000, as amended, requires OPM to adjust COLA rates when employees have special purchasing privileges, such as unlimited access to commissaries and exchanges. In Guam, some employees have such access, so we priced the same market basket of Goods and Services items at the commissaries and exchanges in Guam as we used for the local retail pricing. We obtained one price quote for each market basket item found in these facilities.

Employees who have access to military facilities make some of their purchases in these facilities and make other purchases elsewhere. Therefore, we used the results of a survey of Federal employees to determine the percentage of purchases that families typically make in military facilities versus local outlets. For example, as Table 3-2 shows, we estimated that employees with commissary/exchange access in Guam purchase approximately 70 percent of their Food at Home items at a commissary and purchase the remaining 30 percent in local retail outlets.

Table 3-2.—Percentages of Purchases Made at the Commissaries and Exchanges in Guam
Category | Percentage
Food at home | 70.0
Food away | 0.0
Tobacco | 64.0
Alcohol | 76.0
Furnishings & hsld. oper | 64.5
Clothing | 43.7
Domestic service | 0.0
Professional services | 0.0
Personal care | 49.3
Recreation | 49.7

We used these percentages to aggregate the local retail and commissary/exchange prices into one set of appropriate, blended prices, which we refer to as the Commissary/PX prices. We compared the blended prices to the local retail prices in the Washington, DC, area to compute Commissary/PX Goods and Services Category indexes. We then combined these indexes using CES weights to derive an overall Commissary/PX Goods and Services Component index. Just as with the Guam Local Retail Goods and Services Component index, we combined the Guam Commissary/PX Goods and Services Component index with the indexes for the Housing, Transportation, and Miscellaneous Expense Components to derive a single, overall Commissary/PX index for the Guam allowance area.

4. Housing

4.1 Component Overview

The Housing Component consists of the following expenses related to owning or renting a dwelling:

• Mortgage or rent payments,

• Utilities,

• Real estate taxes,

• Homeowner's or renter's insurance,

• Home maintenance, and

• Telephone expenses.

At each of the three income levels, we measured the annual housing costs for homeowners and renters separately. We then combined the results using as weights the percentages of owners and renters reported by the CES.

4.2 Housing Model

4.2.1 Expenditure Research

We used the CES to determine the national average ratio of families who own, as opposed to rent, their residences at each income level. Using the tenure data by income range as input into a linear regression analysis, we calculated the owner and rental weights shown in Table 4-1 and in Appendix 22. We excluded data for homeowning families without a mortgage because they were not typical of Federal homeowners in the base area or in the allowance areas.

Table 4-1.—Owner/Renter Weights
Category | Income levels: Lower (percent) | Income levels: Middle (percent) | Income levels: Upper (percent)
Homeowner with mortgage | 37.96 | 47.26 | 60.70
Renter | 62.04 | 52.74 | 39.30
Totals | 100.00 | 100.00 | 100.00

We also used the CES data to identify which home-maintenance items to price and to establish the relative importance of those items.

4.2.2 Housing Profiles

To compare housing costs in all locations, we used six typical housing profiles—three for homeowners and three for renters. Table 4-2 shows these profiles. We assigned one owner and one renter profile to each income level. We attempted to collect information on the living area, numbers and types of rooms, and other information that might influence home sale or rental prices. This information was rarely available for rental units, so we relied on bedroom count and living community to segregate rental prices by income level. We used the additional information shown in Table 4-2, however, during the interview of rental brokers to collect broker data.

Information about characteristics of houses sold was also difficult to collect on a consistent basis across all areas. Although detailed information about the houses sold was available for many areas, it was not available for other areas, including the District of Columbia and the Maryland suburbs of the Washington, DC, area. The only housing characteristics that were consistently available across all areas were house type and size. We surveyed only the prices of single family detached houses in each area and relied mainly on house size and living community to segregate home sales by income level. As shown in Table 4-2, these size ranges overlap. Therefore, when we priced housing in the same living community at two or more income levels, we used the additional information to separate home sales observations into the appropriate income level so that no single home sale observation appeared at more than one income level.

Table 4-2.—Housing Profiles
Income level | Renters: Key characteristic | Renters: Additional information | Owners: Key characteristic | Owners: Additional information
Lower | 1 bedroom apartment | 3 rooms total, 1 bath; reference size: 600 sq. ft | Detached house, 600 to 1,200 sq. ft | 4 rooms total, 2 bedrooms, 1 bath; reference size: 900 sq. ft.
Middle | 2 bedroom apartment | 4 rooms total, 1 bath; reference size: 900 sq. ft | Detached house, 1,000 to 1,600 sq. ft | 5 rooms total, 3 bedrooms, 1 bath; reference size: 1,300 sq. ft.
Upper | 2 bedroom townhouse or detached house | 4 rooms total, 2 baths; reference size: 1,100 sq. ft | Detached house, 1,400 to 2,300 sq. ft | 7 rooms total, 3 bedrooms, 2 baths; reference size: 1,700 sq. ft.

We use the reference sizes in Table 4-2 for the calculation of utility costs in the model. (See section 4.2.4.1.) As noted above, they are not the only sizes surveyed for each profile.

4.2.3 Living Community Selection

As discussed briefly in section 2.4.2.1, we identified the living communities for the survey based on the results of the 1992 Federal Employee Housing and Living Patterns Survey and in consultation with the COLA Partnership Committees and Subcommittees. Appendix 8 identifies the survey communities. As with previous surveys, we identified nine homeowner and nine renter communities for the Washington, DC, area—one for each income level in each of the three areas (DC, Maryland, and Virginia). In the allowance areas, we identified up to three homeowner and three renter communities—one for each income level.

We could not achieve the three-community owner/renter goal in many of the allowance areas because of the relatively few home sales and rental opportunities or data availability in these areas. In such areas, we collected prices for the entire survey area or allowance area rather than in specific communities. We did this in Fairbanks, Juneau, Nome, Hilo, Kailua Kona, Kauai, Maui, Guam, St. Croix, and St. Thomas/St. John. In these areas, we included all home sales and/or rental rates meeting the housing characteristics for the particular income group in the analysis.³

³ In Puerto Rico we were able to obtain relatively few broker rental quotes for the communities identified in the survey specifications. Therefore, we relaxed the community specifications and used broker rental data for all communities in the greater San Juan metropolitan area.

For most areas in which we identified discrete living communities, we used zip code boundaries. The exceptions were Anchorage and San Juan. In Anchorage, we used the multiple listing service location codes that realtors commonly use in that area. In San Juan, we used the name of the municipio or community.

4.2.4 Housing-Related Expenses

Based on the CES data, we categorized housing-related expense items into one of five groups in the COLA model. These groups were—

—Utilities,

—Real estate taxes,

—Owners/renters insurance,

—Maintenance, and

—Telephone expenses.

4.2.4.1 Utilities

Electricity, oil, gas, and water. Many utility companies were able to provide current charges per unit of consumption and average consumption patterns for all households. The companies were not, however, able to provide separate consumption patterns by the size or type of housing.

Because many utility costs vary by size of house, we needed a factor to derive the utility rates at each of the home profiles. Table 4-3 shows the standard square foot sizes and utility factors used for each home profile. We calculated the factors by assuming that utility use increases or decreases at half the rate that square footage increases or decreases.

Table 4-3.—Utility Factors
Income level | Renter profile: Sq. ft. | Renter profile: Factor | Owner profile: Sq. ft. | Owner profile: Factor
Lower | 600 | .73 | 900 | .85
Middle | 900 | .85 | 1,300 | 1.00
Upper | 1,100 | .92 | 1,700 | 1.15

In each area, we obtained the price of each of the types of utilities noted above. Where available, we also gathered from local utility companies information on average annual consumption data per household. We used the local rates and consumption information to compute average annual utility costs. We then used the above factors to adjust the total annual utility costs for each of the various housing profiles.

In the DC area, we were unable to obtain estimates for electricity usage for houses heated by gas or oil. However, we were able to obtain kilowatt usage for all-electric houses. In order to avoid potential double counting of utility costs, we used the all-electric data for the DC area. Double counting utility costs was not a problem in the warm-area COLA areas, where there is little heat expense. It also was not a problem in Alaska, where most consumers use gas or oil heat, not electric heat. In the Alaska surveys, we price gas or oil in addition to electricity.

Telephone. Telephone expenses consisted of local service charges, additional charges for local calls (if applicable), charges for long distance calls, and basic cellular phone service. To measure estimated expenses for local service and local calls, we surveyed the cost of touch-tone service with unlimited calling in each area. To estimate long distance charges in all areas, we priced from a major long distance provider the cost of three 10-minute direct dial calls per month to large U.S. mainland cities (Los Angeles, Chicago, and New York). As in previous surveys, we priced a call placed in the survey area at the time of day necessary to be received in the respective city at 8:00 p.m. local time. In many areas, this resulted in pricing a combination of daytime and evening-rate calls.

We also priced the basic monthly plan for cellular phone service in each area. We derived weights from CES data to account for the portion consumers spend on regular phone service and cellular phone service. We then used these weights to combine the prices of these two types of phone service.

4.2.4.2 Real Estate Taxes

For this study, we contacted the local tax assessors or municipal websites on the Internet to obtain real estate tax information on the living communities surveyed. We applied these real estate tax formulas to the median home values for each income level to estimate annual real estate taxes.

4.2.4.3 Owners/Renters Insurance

We gathered homeowners' insurance rates for each of the survey areas for both renter and owner profiles. For renters, we used the following estimated content values: $25,000 at the lower income level, $30,000 at the middle income level, and $35,000 at the upper income level. We raised the values for the middle and upper income levels this year after examining test data collected during the 1997 surveys at the request of the Guam COLA Partnership Committee.

For homeowners, the cost of insurance was dependent on the median home values calculated as part of this survey. In most areas, we assumed that the structure was equal to 80 percent of the total home value. In Hawaii, where the land represents a greater proportion of property value, we used 50 percent.

We priced hurricane insurance in all of the Hawaii allowance areas, Guam, Puerto Rico, and the U.S. Virgin Islands. In research previously conducted for OPM, the contractor found that homeowners and renters rarely purchased insurance coverage for other disasters, such as floods and earthquakes, in any of the allowance areas. (See section 4.2.4.3 of the Report to OPM on Living Costs in Selected Nonforeign Areas and in the Washington, DC, Area, December 10, 1992, at 57 FR 58556.) Insurers we contacted in the 1998 survey indicated that this is still the case. Therefore, we did not survey additional riders for flood or earthquake insurance.

4.2.4.4 Home Maintenance

We computed estimated home maintenance expenses for each of the homeowner and renter profiles. We derived separate home maintenance expenditure amounts for both owners and renters from the CES. Not surprisingly, the CES indicates that renters spend relatively little on home maintenance compared with homeowners.

As done in previous surveys, we priced both home maintenance services as well as home maintenance commodities using the CES information to identify items to price and the weights associated with these items. The maintenance service items priced were interior painting, plumbing repair, electrical repair, and pest control. In the Nome area, however, we did not price pest control because local sources indicated it is not necessary. The maintenance commodities priced were bathroom caulking, a kitchen faucet set, an electrical outlet, latex interior paint, and a fire extinguisher.

To compute home maintenance cost differences between each allowance area and the Washington, DC, area for the homeowner and renter profiles, we computed an index for each maintenance item by comparing the allowance area price to the DC area price. As with the Goods and Services Component items, we used the CES data to weight these maintenance indexes into an overall home maintenance index for each area.

To combine the maintenance indexes with the other homeowner and renter costs, which were expressed in dollar amounts, we converted the indexes to dollars. We did this by multiplying the index for each area by the average maintenance expense reported in the CES for owners and renters. We assigned this cost to the middle-income homeowner and renter profile. Logically, maintenance costs for larger homes would generally be greater than costs for middle-sized homes, while costs for smaller homes would generally be less. Therefore, we applied the same owner and renter multipliers used in the utilities model to recognize differences in maintenance costs due to house size at the various income levels.

4.3 Housing Data Collection Procedures

We collected home sales information from multiple listing type services and rental information mainly from rental brokers and advertisements.

4.3.1 Homeowner Data Collection

We obtained the selling prices of homes that matched the housing profiles in each living community for home sales that occurred roughly during the 12-month period preceding and including the survey month. The amount of data obtained depended on the number of home sales in the community and the availability of square footage and other information on housing characteristics. This in turn depended on the size of the community, economic conditions, the quality and quantity of realty data available, and the willingness and ability of local realty professionals to provide data.

We obtained relatively large quantities of home sales data in all areas except Nome. In Nome, home sales were extremely limited because Nome is not very large. In previous surveys, we also obtained relatively little data in St. Thomas. This year, we obtained and used housing data for both St. Thomas and St. John. Also, with the assistance of the Virgin Islands Assessor's Office, we obtained significantly more data than we have been able to get in previous years. These data identified houses that had been significantly damaged by hurricanes or other factors, and we excluded these from our calculations.

Identifying houses that were uninhabitable, severely damaged, or otherwise in need of significant repairs was impossible for most areas, given the limited amount of information available from the listing services. As discussed in section 4.4.1 below, we use the median rather than the average home value to compute housing costs. (The median is the middle value in a rank-ordered set of observations and tends to be less sensitive than the average to unusually low or high values at the ends of a range of data.) Nevertheless, in some of the databases we purchased, the quantity of exceptionally low priced homes had a significant effect on the median. Therefore, in all areas, we trimmed home sale prices that were less than $30,000, recognizing that $30,000 was probably a conservative price threshold for most areas. We trimmed homes of $1,000,000 or more at the upper level. We also trimmed properties of 1 acre or larger.

4.3.2 Renter Data Collection

We also obtained rental data from a variety of sources, e.g., brokers, rental management firms, property managers, newspaper advertisements, and other listings. Analyses of these data revealed what appeared to be two separate rental markets: A broker market and a non-broker market. Rental rates and estimates provided by brokers generally exceeded those obtained from other sources. We discuss the methodology used to analyze these two data sets in section 4.4.2.

4.4 Housing Analysis

4.4.1 Homeowner Data Analysis

One of the most important factors relating to the price of a home is the number of square feet of living space. For each income profile in each allowance area and the Washington, DC, area, we computed price per square foot for each of the comparables and determined the median price per square foot. We use the median to reduce the volatility of the housing data from one survey to the next because a relatively few extremely high or low home prices could significantly influence average housing prices. We then multiplied the median price per square foot by the reference square footage for the income level to determine the home purchase price.

As was done in the last survey, we also used historical housing data in addition to data collected in this survey. Appendix 9 shows these data. For all areas except Oahu, the historical data are from previous living-cost surveys that were published in the Federal Register beginning with the 1990 report. (See Appendix 1 for a listing of these publications). The data for the period prior to 1990 were published with the results of the 1991-1992 living-cost surveys at 57 FR 58617 (December 10, 1992) . All housing values are based on the community selections and analytical methodologies used at the time of each respective survey.

For Oahu, we surveyed housing prices in new living communities beginning with the 1997 surveys. Because our historical data did not cover these communities, we obtained additional historical price data for use in our 1997 and subsequent survey analyses.

The historical housing data used were estimated annual principal plus interest payments by income level in each area. To combine these data, we used weights that we derived from the 1992 Federal Employee Housing and Living Patterns Survey. These weights reflect the proportion of Federal employee homeowners by year of purchase in all allowance areas and in the Washington, DC, area. Appendix 10 shows the historical housing weights and analyses.

4.4.2 Rental Data Analysis

We assigned each rental quote to a single income level based on the criteria shown in Table 4-2. As discussed earlier, we received rental data from both broker and non-broker sources. In each area, the quantity of data obtained from either source varied significantly. Therefore, we found that analyzing all of the rental data (both broker and non-broker) together for an area and income level was undesirable. Instead, we analyzed broker and non-broker data separately by income level.

As with the housing data analyses, we used the median rental values. For each income level, we separately ranked rental rates from low to high for broker and non-broker data. We determined the median values for broker and non-broker data for each group and then averaged them to compute a single rental value for each income level. Because we have no information on how the Federal employees who rent generally secure their lodgings, we applied equal weights to the broker and non-broker data to compute an overall average rental rate for the area and income level.

Because there was insufficient non-broker data in the unfurnished rental units category, we used partly furnished and unfurnished units in the Hawaii areas. Similarly, we used apartment and furnished units in St. Croix at the middle and upper income levels because no other data were available.

Appendix 11 shows the broker and non-broker medians and final results. As noted in the appendix, we found inexplicable rental price trends in some of the data, particularly in the broker data. Therefore, as we explain in the footnotes of the appendix, we adjusted the rental data to address these anomalies.

4.5 Housing Survey Results

In the above sections, we described the processes used for determining the costs for maintenance, insurance, utilities, real estate taxes, rents, and homeowner mortgages. Appendix 12 shows the cost of each of these items for renters and homeowners in each allowance area and in the Washington, DC, area. Appendix 13 compares the total cost of these items by income level in each allowance area with the total cost of the same items by income level in the DC area. Again, there are separate comparisons for renters and homeowners. The final housing-cost comparisons take the form of indexes that are used in Appendix 21 to derive the total, overall indexes for owners and renters.

5. Transportation

5.1 Component Overview

The transportation component consists of two categories: Automobile Expense and Other Transportation Costs. The Automobile Expense Category reflects costs relating to owning and operating a car in each area. The Other Transportation Costs Category is represented by the cost of air travel from each location to common points within the contiguous 48 States.

5.2 Private Transportation Methodology

As in previous surveys, we analyzed automobile transportation costs for three commonly purchased vehicles: A domestic auto, an import auto, and a utility vehicle. We used new car costs for these analyses because we believe pricing used vehicles of equivalent quality in each area would require value judgments that could introduce inconsistencies.

5.2.1 Vehicle Selection and Pricing

We surveyed the same three models of automobiles in all areas—

—Domestic: Ford Taurus SE 4-door sedan 3.0L 6 cyl.

—Import: Honda Civic DX 4-door sedan 1.5L 4 cyl.

—Utility: Chevrolet S10 Blazer 4X4 2 door 4.3L 6 cyl.

For each model car, we collected new vehicle prices at dealerships in each area. All vehicles had standard options, such as automatic transmission, AM/FM stereo radio, and air conditioning. In Alaska locations, we included special additional equipment (i.e., engine-block heaters and heavy-duty batteries) in new-vehicle prices. We also priced snow tires in Alaska. (See section 5.2.5.) In addition to the manufacturer's suggested retail price, the price included additional charges such as shipping, dealer preparation, additional dealer markup, excise tax, sales tax, documentation fees, and any other one-time taxes or charges.

We encountered problems in obtaining comparable car sales data in each area because of survey timing. As stated in section 1.5, we conducted the survey in October and November 1998, when the dealers were just beginning to receive shipments of the new 1999 models. However, not all dealers had the models we were surveying. Therefore, we obtained the prices of both the 1998 and 1999 models (to the extent the 1999 prices were available). Not surprisingly, we discovered that many dealers were charging significant markups for the 1999 models and significantly reducing or eliminating markups on the 1998 models. We found this in many areas, including the Washington, DC, area. Because we had only 1998 model prices across all areas, we used the 1998 model prices instead of the 1999 model prices. To overcome the problem caused by the usual dealer markups, we used the dealer markup for the same brands surveyed in the 1997 survey on the premise that these markups, which were obtained in the summer of 1997, were more typical.

5.2.2 Vehicle Trade Cycle

Calculating the cost of owning and operating a vehicle requires knowing the mileage and period of ownership. The automobile industry uses the term “trade cycle” to describe these two factors. The trade cycle is the length of time (in months or years) and the total number of miles driven in that time period. The OPM model uses this information to compute annual costs related to fuel, oil, tires, maintenance, and depreciation. As with the previous living-cost analyses, we used a 4-year, 60,000-mile trade cycle in all areas.

5.2.3 Fuel Performance and Type

All vehicles in the 1998 study used regular unleaded fuel. We collected self-service cash prices of unleaded regular gasoline at name-brand gas stations in the Washington, DC, area and in all allowance areas. In Alaska, we surveyed both self-serve and full-serve gas prices.

To establish average fuel-performance ratings, the COLA model uses the “city driving” figures published by the U.S. Environmental Protection Agency (EPA). The model uses the “city” figures instead of “highway” figures because all locations contained considerable stop-and-go driving conditions or required cautious driving because of poor road conditions. As in previous COLA surveys, we included in our analysis the following fuel-performance factors: temperature, road surface, and gradient.

OPM conducted previous research to determine these factors. We discuss this research and the factors below.

5.2.3.1 Impact of Temperature Upon Fuel Performance

Temperature affects gas mileage. The lower the temperature, the fewer miles-per-gallon achieved, and vice versa. According to EPA's Passenger Car Fuel Economy: EPA and Road, the temperature at which no adjustments to fuel performance occur is 77°F. Below that temperature, miles-per-gallon achieved drops. Above 77°F miles-per-gallon achieved improves. The model uses the average monthly temperatures for each allowance area and the DC area as reported in The Weather Almanac, published by Ruffner and Blair. For each location and month, the model uses the appropriate factor from the EPA study based on the average monthly temperature for the area. We then average these factors to derive a single overall factor for each location. Table 5-1 shows the results of these calculations.

5.2.3.2 Impact of Road Surface Upon Fuel Performance

The model assumes that Federally controlled roadways are typically composed of concrete and/or high-load asphalt and that locally controlled roadways are typically composed of low-load asphalt. EPA's research indicates that cars are generally more fuel-efficient on the firmer, high-load surfaces than on the softer, low-load surfaces. Although traffic patterns and road usage vary among areas, previous research conducted for OPM produced no relevant findings regarding this issue. Therefore, the model uses the assumption that Federally-controlled roadways generally support twice the traffic of, or are used at least twice as much as, locally controlled roadways.

In each allowance area, we collected the total mileage falling into either the Federal or local categories. For example, Alaska contains 5,512 miles of Federally controlled roads and 7,120 miles of locally controlled roads. The usage assumption increased Federal road mileage by a factor of two for the Alaska allowance areas.

We applied the average low-load asphalt factor (which reflects dry, wet, and snowy conditions) to the local mileage percentage and the average concrete and/or high-load asphalt factor to the Federal mileage percentage. This produced two weighted average factors—one for the Alaska allowance areas and another for the other allowance areas. Table 5-1 shows these factors. We assigned the Washington, DC, area a factor of 1.00 on the premise that the vast majority of traffic in that area travels on dry, high-load surfaces. Section 5.2.3.4 describes the application of these factors.

5.2.3.3 Impact of Gradient Upon Fuel Performance

We also estimated the effect of gradient on gas mileage from EPA's Passenger Car Fuel Economy: EPA and Road. Local topography (i.e., gradient) affects fuel efficiency. EPA provides mileage factors based upon various gradients ranging from less than 0.5 percent (essentially flat) to greater than 6 percent (steep).

In research previously conducted for OPM, the contractor reviewed the topographic features of each area and found a wide range of road conditions. However, the contractor was unable to find relevant information on the types of terrain drivers typically encounter in each area or the number of miles drivers travel in each type of terrain. Lacking such information, the contractor assumed that drivers in the allowance areas generally traveled roads having approximately the same gradients that are found on average in the United States.

Applying the information from EPA's research, we computed a fuel-performance factor of 0.98 for this type of driving.

We assigned this factor to each allowance area. For the DC area, we used a factor of 1.00 on the premise that the vast majority of traffic in that area travels on major freeways and highways that are relatively flat. The next section describes the application of these factors.

5.2.3.4 Overall Impact Upon Fuel Performance

We applied the factors described above to make adjustments in the average gas mileage ratings for each type of automobile surveyed for each allowance area and for the Washington, DC, area. The adjustment factors compound; that is, the total adjustment is the result of multiplying the three individual factors together for each area.

In Table 5-1, the factor 1.00 means that no adjustment in EPA fuel performance is appropriate. A factor of less than 1.00 means that the estimated gasoline mileage in the area is less than the EPA average. For example, the total adjustment factor for Juneau is 0.84. This means that the estimated gasoline mileage in Juneau is 84 percent of the EPA estimated average. Note that the adjustment factor for the DC area (0.94) indicates that average gasoline mileage in that area is also below the EPA estimate.

Table 5-1.—Summary of Fuel-Performance Adjustments
Location | Temperature | Road surface | Gradient | Total
Anchorage | 0.88 | 0.96 | 0.98 | 0.83
Fairbanks | 0.85 | 0.96 | 0.98 | 0.80
Juneau | 0.89 | 0.96 | 0.98 | 0.84
Nome | 0.85 | 0.96 | 0.98 | 0.80
Hawaii | 0.99 | 0.98 | 0.98 | 0.95
Virgin Islands | 1.01 | 0.98 | 0.98 | 0.97
Puerto Rico | 1.01 | 0.98 | 0.98 | 0.97
Guam | 0.99 | 0.98 | 0.98 | 0.95
Washington, DC | 0.94 | 1.00 | 1.00 | 0.94

5.2.4 Vehicle Maintenance

We surveyed the cost of common maintenance services and repairs performed on the vehicles surveyed. The services and repairs were:

• Tuneup

• Oil change

• Automatic transmission fluid change

• Flush/fill coolant

• Muffler/exhaust pipe replacement

• Constant velocity joint (CVJ) boot replacement

• Windshield replacement

We used the automobile manufacturers' recommended mainte-nance schedules to determine the frequency of performing each of the first five maintenance jobs. Maintenance schedules vary, depending on the driving conditions typically encountered.

Consistent with the assumptions used for fuel economy and tire mileage, we assumed that driving conditions in the allowance areas are generally severe, and the maintenance schedules used reflected that kind of driving. For the DC area, we assumed that driving conditions are normal, and the maintenance schedules used for that area reflected that kind of driving.

We combined the recommended frequency of performing each of these jobs with the prices charged by local dealers and service stations to compute an estimated annual maintenance expense. We collected the cost of the complete maintenance service or repair job for each vehicle. For example, we collected the cost of a complete oil change for each vehicle, including the total charge for parts and the total charge for labor.

Previous research conducted for OPM revealed varying replacement cycles for constant velocity joint (CVJ) boots among the Alaska allowance areas and between the Alaska areas and the DC area. These were: Anchorage and Juneau—every 45,000 miles (3 years), Nome—every 30,000 miles (2 years), Fairbanks—every 15,000 miles (1 year), and the Washington, DC, area—every 60,000 miles (4 years). We used the Washington, DC, area frequency of repair for the other (i.e., non-Alaska) COLA areas. In each area, we factored the cost of replacement for all three vehicle types into the indexes based upon the frequency of the replacement. In Fairbanks, for example, we included 100 percent of the cost because previous research indicated annual replacement was the norm.

To determine the frequency of replacement of windshields, we contacted local dealers and automobile repair shops. Based on the information obtained, we determined that windshield replacement was much more frequent in Alaska than in the other allowance areas or the Washington, DC, area. Therefore, we assumed that windshields had to be replaced every 2 years in the Alaska areas but rarely (i.e., never) in the other areas or in the DC area during the 4-year trade cycle used in the COLA model. The owner's automotive insurance normally covers windshield replacement. Therefore, we used the deductible rather than the surveyed price of windshield replacement, since the deductible was always less than the replacement prices.

5.2.5 Tires

Research previously conducted for OPM revealed that various factors (e.g., road quality/state of repair, road composition) appeared to reduce tread life (i.e., the average number of miles a tire is expected to last) in the allowance areas compared with the Washington, DC, area. Based on this research, the model uses tire expense based on a 40,000-mile tread life in allowance areas and a 55,000-mile tread life in the DC area.

We priced the cost of a new set of tires, including mounting and balancing and all applicable taxes, in each area. We converted this cost into an annual cost by dividing the estimated number of annual miles driven by the expected tread life and multiplying this by the new tire price. Previous research indicated that four extra studded snow tires would be required for all three vehicles in the Alaska allowance areas (but not in the DC area). Therefore, we surveyed the prices of studded snow tires for all vehicles in Anchorage, Fairbanks, Juneau, and Nome. We also priced the cost of rims and switching snow and street tires semi-annually in these Alaska areas.

5.2.6 License and Registration Fees and Miscellaneous Taxes

We obtained information regarding license and registration fees, miscellaneous taxes, and personal property taxes (where applicable). We included license and registration fees as part of the annual cost of owning an automobile. We computed miscellaneous and personal-property taxes for each year of the vehicle's 4-year trade cycle using the vehicle's estimated used-car value for each year. We then averaged the resulting four personal property tax values and included that average as part of the annual cost of owning an automobile.

As stated in section 5.2.1, we included sales and excise taxes in the purchase price of the vehicle and accounted for them under the annual vehicle purchase and finance costs. We also include vehicle inspection fees in any area that requires periodic vehicle inspections.

5.2.7 Depreciation

The single largest annual expense related to owning and operating a new car is depreciation—the lost value of the vehicle as it ages and is driven. The COLA model calculates total depreciation by subtracting from the purchase price the estimated residual value (used car value) 4 years later. The model then divides this value by four to produce an annual depreciation amount.

As described earlier, the new car price was the manufacturer's suggested retail price plus any additional charges, such as shipping, dealer prep, additional dealer markup, documentation fees, excise tax, and sales tax. We based the used car value on information from sources such as the Kelly Blue Book. Although such sources track prices of vehicles sold only in the contiguous 48 States, previous research performed by a contractor for OPM did not indicate that used cars in allowance areas were (on average) worth more or less than used cars in the DC area, except for Fairbanks and Nome. For Fairbanks and Nome, we used 90 percent of the projected residual values to reflect more severe conditions.

We note that identical residual values did not result in identical depreciation amounts. Depreciation amounts were generally higher in the allowance areas than in the Washington, DC, area because new car prices were generally higher in the allowance areas.

5.2.8 Finance Expense

The COLA model assumes that employees finance new car purchases. Therefore, we surveyed banks in all areas to obtain their auto-loan interest rates for a 48-month loan with 80 percent financing. We computed the finance cost for each vehicle in each area and included it in the annual cost of owning and operating an automobile.

5.2.9 Vehicle Insurance

We surveyed the cost of car insurance in each location using the following common coverages, limits, and deductibles:

—
— | —
Bodily Injury | $100,000/$300,000.
Property Damage | $25,000.
Medical | $15,000.
Uninsured Motorist | $100,000/$300,000.
Comprehensive | $100 Deductible.
Collision | $250 Deductible.

For the 1998 surveys, we adjusted the limits for Property Damage and Medical based on recommendations from insurance carriers during the 1997 surveys.

In each survey area, we identified the common automobile insurance companies and attempted to obtain three insurance price quotes for each type of car surveyed. We averaged these quotes by type of car to produce estimated insurance costs for each area.

As in previous surveys, we found that some insurance companies in Guam, Puerto Rico, and the Virgin Islands did not offer the coverages, limits, and deductibles shown above. To allow the comparison of the cost of these different policies with Washington, DC, area costs, we surveyed the cost of insurance in the DC area with comparable offerings in the three allowance areas. We then compared the costs of these equivalent policies to derive adjustment factors that could be applied to the cost of the standard coverage shown above. By applying these factors to the DC area average price, we estimated the cost of equivalent coverage for these particular allowance areas. Appendix 15 shows the factors and their derivation.

5.2.10 Overall Annual Costs

As described above, we surveyed the annual costs for fuel, maintenance and oil, tires, licensing, taxes, depreciation, finance, and insurance for three types of automobiles in each allowance area and in the Washington, DC, area. We then summed these costs to determine the overall annual costs by area for owning and operating each type of automobile. Appendix 14 shows these costs for each area by type of vehicle.

5.3 Other Transportation Costs—Air Fares

Air fare is the only item we price for the Other Transportation Costs Category. For this item, we surveyed the lowest priced round-trip air fare on a major carrier with a 3-week advance purchase, a 1-week stay over, and travel on Tuesdays and Thursdays. In the previous survey, we used Monday as the travel day. In this survey we used Tuesday (departure date) and Thursday (return date) to avoid peak business travel days and reflect choices consumers might make for recreational travel. While the selection of Tuesday and Thursday as travel days tended to reduce airfares for all areas, it greatly reduced airfares from the Washington, DC, area. This substantially raised the airfare index for each of the COLA areas.

We priced trips from each allowance area and the Washington, DC, area to Chicago, Los Angeles, Miami, New York, Seattle, St. Louis, and Omaha. We selected these cities to represent a range of travel destinations coast-to-coast for COLA-area and DC-area Federal employees. To compute the category indexes, we averaged the costs of the trips from each allowance area and then compared these average costs with the average cost of the trips from the DC area. Appendix 16 shows the fares.

5.4 Transportation Component Analyses

We compared the total cost of private auto transportation for each vehicle in each allowance area with the total cost for the same vehicle in the Washington, DC, area. We express these comparisons as indexes and show them in Appendix 17. Likewise, we compared the cost of air fares for each area with those for the DC area and computed a cost index. Appendixes 16 and 18 show these indexes. We used national average expenditure data to derive weights that reflected how much consumers typically spend to own and operate an automobile versus other transportation expenses. We used these weights, which vary by income level, to combine the Automobile Expense Category index with the Other Transportation Costs index by area to derive the overall Transportation Component index for the area. Appendix 18 shows the weights, computations, and final Transportation Component indexes.

6. Miscellaneous Expenses

6.1 Component Overview

The Miscellaneous Expense Component consists of four categories of expenses:

• Medical care.

• Private education (K-12).

• Contributions (including gifts to non-family members).

• Personal insurance and retirement contributions/investments.

6.2 Component Weights

We used CES data to determine the appropriate weights for each of the items and categories in the Miscellaneous Expense Component. We show the category weights in Table 6-1 and in Appendix 20. Appendix 19 shows item weights.

Table 6-1.—Miscellaneous Expense Categories and Weights
Categories | Income level: Lower (percent) | Income level: Middle (percent) | Income level: Upper (percent)
Medical care | 40.96 | 31.24 | 24.27
Private education (K-12) | 0.98 | 1.26 | 1.45
Contributions | 16.63 | 16.27 | 16.01
Personal insurance and retirement contributions | 41.44 | 51.24 | 58.27
Totals | 100.00 | 100.00 | 100.00
Note: Values may not total 100 because of rounding.

6.3 Component Categories

6.3.1 Medical Expense Category

We surveyed the price of medical care items using essentially the same approach we used for the Goods and Services Component items. We priced the following medical care items in each allowance area and in the Washington, DC, area:

• Nonprescription pain reliever

• Prescription drugs

• Contact lenses

• Dental service

• Doctor visit

• Hospital room

• Federal health insurance

In addition, we surveyed the price of hospital attendant services in Puerto Rico and air ambulance insurance in the U.S. Virgin Islands. We researched these services during the 1997 surveys, and we found that hospital attendant services were available only in Puerto Rico, where hospital services are significantly different from those in the Washington, DC, area. Therefore, we added the price of hospital attendant service to the price of a hospital room in Puerto Rico. We also found air ambulance insurance to be available only in the Virgin Islands, where on-island hospital services are limited. Therefore, we added the price of air ambulance insurance to the cost of health insurance in the Virgin Islands.

We used Federal employee health benefit enrollment information from OPM's Central Personnel Data File along with Federal health benefit premiums to compute average health benefit expense by areas. These expenses varied by area, and we used these averages rather than assuming that costs were constant among areas.

We surveyed the cost of the health care items in both the allowance areas and in the DC area. We compared the prices to produce an index for each item in each area, then combined these indexes using CES weights to produce a single Medical Care Category index for each area.

6.3.2 Private Education (K-12) Category

Since not everyone sends their children to private school, we derived use factors from the results of the 1992/93 Federal Employee Housing and Living Patterns Survey. Table 6-2 shows these factors and the resulting adjustment of price indexes by area. The factors reflect the relative extent to which Federal employees make use of private education in the COLA areas compared with the Washington, DC, area. For example, the table indicates a use factor of 4.1066 for Puerto Rico because about 54 percent of Federal employees with school age children there send at least one child to private school, compared with about 13 percent for the DC area.

Table 6-2.—Summary of Private Education Use Factors and Indexes
Location | Employees w/children in private schools: Local area | Employees w/children in private schools: DC area | Use factor | Price index | Price index w/use factor
Anchorage | 10.34 | 13.23 | 0.7816 | 55.53 | 43.40
Fairbanks | 8.56 | 13.23 | 0.6470 | 41.59 | 26.91
Juneau | 12.43 | 13.23 | 0.9395 | 57.30 | 53.84
Nome | 8.08 | 13.23 | 0.6107 | 38.42 | 23.46
Honolulu | 26.86 | 13.23 | 2.0302 | 113.03 | 229.48
Hilo* | 18.94 | 13.23 | 1.4316 | 44.23 | 63.32
Kona* | 18.94 | 13.23 | 1.4316 | 87.03 | 124.59
Kauai | 22.46 | 13.23 | 1.6977 | 95.72 | 162.50
Maui | 20.39 | 13.23 | 1.5412 | 89.05 | 137.24
Guam | 42.26 | 13.23 | 3.1943 | 90.95 | 290.52
Puerto Rico | 54.33 | 13.23 | 4.1066 | 66.85 | 274.52
St. Croix | 57.27 | 13.23 | 4.3288 | 90.26 | 390.72
St. Thomas | 51.90 | 13.23 | 3.9229 | 95.78 | 375.74
* Use data available only for Hawaii County.

6.3.3 Contributions Category

The index for the Contributions Category is the same as the Goods and Services Component index for the area. We use the Goods and Services index based on our assumption that the relative level of contributions is roughly equivalent to that reflected by the Goods and Services index.

6.3.4—Personal Insurance and Retirement Category

We assume the index for personal insurance and retirement contributions and investments to be constant among areas. The cost of Federal Employees Group Life Insurance is a matter of personal preference and is constant in all areas for the same age, salary, and benefit option combinations. Likewise, retirement contributions are a matter of personal preference, and the minimum contribution requirements are constant among areas for equivalent salary levels.

6.4 Miscellaneous Expense Analyses

As with the Goods and Services Component, we combined the indexes for each of the Miscellaneous Component categories using CES weights to produce component indexes by income level for each area. Appendix 20 shows these indexes. Section 2.6 describes how we combine miscellaneous expense component indexes with the other component indexes to derive the final index for each area.

7. Final Results

7.1 Total Comparative Cost Indexes

The total comparative cost indexes appear in Table 7-1. Appendix 22 shows how we derived each index from the component indexes.

Table 7-1.—Final Cost Comparison Indexes
Allowance area | Index
Anchorage, Alaska | 105.65
Fairbanks, Alaska | 109.19
Juneau, Alaska | 110.46
The rest of the State of Alaska | 131.58
City and County of Honolulu, Hawaii | 124.51
Hawaii County, Hawaii | 110.89
Kauai County, Hawaii | 117.19
Maui County, Hawaii | 120.32
Guam/CNMI, Local Retail | 125.23
Guam/CNMI, Commissary/Exchange | 121.12
Puerto Rico | 105.93
U.S. Virgin Islands | 116.33

Appendix 1—Publication in the Federal Register of Prior Survey Results: 1990-1998

Citation | Title | Contents
56 FR 7902 | Cost-of-Living Allowances and Post Differentials (Nonforeign Areas) | Results of summer 1990 living-cost surveys conducted in Alaska, Hawaii, Guam, Puerto Rico, and the U.S. Virgin Islands.
57 FR 58556 | Report on 1991/1992 Surveys Used to Determine Cost-of-Living Allowances in Nonforeign Areas | Results of summer 1991 and winter 1992 living-cost surveys conducted in Alaska, Hawaii, Guam, Puerto Rico, and the U.S. Virgin Islands.
58 FR 45558 | Report on 1992/1993 Surveys Used to Determine Cost-of-Living Allowances in Nonforeign Areas | Results of summer 1992 and winter 1993 living-cost surveys conducted in Alaska, Hawaii, Guam, Puerto Rico, and the U.S. Virgin Islands.
58 FR 27316 | Report on Summer 1993 Surveys Used to Determine Cost-of-Living Allowances in Nonforegin areas | Results of summer 1993 living-cost surveys conducted in Hawaii, Guam, Puerto Rico, and the U.S. Virgin Islands.
59 FR 45066 | Report on Winter 1994 Surveys Used to Determine Cost-of-Living allowances in Alaska. | Results of winter 1994 living-cost surveys conducted in Alaska.
60 FR 61332 | Report on Summer 1994 Surveys Used to Determine Cost-of-Living Allowances in Selected Nonforeign Areas | Results of summer 1994 living-cost surveys conducted in Hawaii, Guam, Puerto Rico, and the U.S. Virgin Islands.
61 FR 4070 | Report on Winter 1995 Surveys Used to Determine Cost-of-Living Allowances in Alaska | Results of winter 1995 living-cost surveys conducted in Alaska.
61 FR 14190 | Report on 1996 Surveys Used to Determine Cost-of-Living Allowances in Nonforeign Areas | Results of 1996 living-cost surveys conducted in Alaska, Hawaii, Guam, Puerto Rico, and the U.S. Virgin Islands.
63 FR 56432 | Report on 1997 Surveys Used to Determine Cost-of-Living Allowances in Nonforeign Areas | Results of 1997 living-cost surveys conducted in Hawaii, Guam, Puerto Rico, and the U.S. Virgin Islands.

Appendix 2.—Federal Employment Weights

Multiple Income Levels: 1998 Survey
[Data from multiple income levels within a single allowance area]
Location and income level | 1995 | 1996 | 1998 | Average | Weights
Anchorage:
Lower | 1,540 | 1,445 | 1,401 | 1,462 | 27.02
Middle | 1,754 | 1,719 | 1,500 | 1,658 | 30.64
Upper | 2,522 | 2,448 | 1,903 | 2,291 | 42.34
Totals |  |  |  | 5,411 | 100.00
Fairbanks:
Lower | 388 | 449 | 466 | 434 | 35.20
Middle | 446 | 456 | 386 | 429 | 34.79
Upper | 405 | 397 | 308 | 370 | 30.01
Totals |  |  |  | 1,233 | 100.00
Juneau:
Lower | 139 | 126 | 100 | 122 | 18.91
Middle | 203 | 199 | 174 | 192 | 29.77
Upper | 341 | 346 | 306 | 331 | 51.32
Totals |  |  |  | 645 | 100.00
Rest of Alaska:
Lower | 349 | 363 | 306 | 339 | 23.96
Middle | 703 | 687 | 543 | 644 | 45.51
Upper | 481 | 462 | 352 | 432 | 30.53
Totals |  |  |  | 1,415 | 100.00
Honolulu:
Lower | 4,140 | 4,453 | 3,919 | 4,171 | 33.01
Middle | 3,952 | 4,009 | 3,858 | 3,940 | 31.19
Upper | 4,514 | 4,476 | 4,580 | 4,523 | 35.80
Totals |  |  |  | 12,634 | 100.00
Hawaii:
Lower | 139 | 152 | 138 | 143 | 35.40
Middle | 164 | 163 | 160 | 162 | 40.10
Upper | 98 | 101 | 99 | 99 | 24.50
Totals |  |  |  | 404 | 100.00
Kauai:
Lower | 73 | 59 | 51 | 61 | 27.23
Middle | 76 | 80 | 64 | 73 | 32.59
Upper | 97 | 92 | 80 | 90 | 40.18
Totals |  |  |  | 224 | 100.00
Maui:
Lower | 35 | 35 | 23 | 31 | 22.79
Middle | 59 | 62 | 60 | 60 | 44.12
Upper | 51 | 51 | 33 | 45 | 33.09
Totals |  |  |  | 136 | 100.00
Guam/CNMI:
Lower | 947 | 873 | 763 | 861 | 45.15
Middle | 669 | 640 | 561 | 623 | 32.67
Upper | 464 | 430 | 375 | 423 | 22.18
Totals |  |  |  | 1,907 | 100.00
Puerto Rico:
Lower | 2,370 | 2,281 | 2,205 | 2,285 | 39.89
Middle | 2,166 | 2,177 | 2,073 | 2,139 | 37.34
Upper | 1,303 | 1,286 | 1,322 | 1,304 | 22.77
Totals |  |  |  | 5,728 | 100.00
Virgin Islands:
Lower | 98 | 123 | 88 | 103 | 32.49
Middle | 133 | 137 | 130 | 133 | 41.96
Upper | 83 | 76 | 84 | 81 | 25.55
Totals |  |  |  | 317 | 100.00

Multiple Survey Areas: 1998 Survey
[Data from multiple survey areas within a single allowance area]
Location | 1995 | 1996 | 1998 | Average | Weights
Hawaii County:
Hilo | 304 | 308 | 300 | 304 | 75.81
Kona | 97 | 96 | 97 | 97 | 24.19
Totals |  |  |  | 401 | 100.00
Virgin Islands:
St. Croix | 154 | 166 | 140 | 153 | 48.26
St. Thomas/St. John | 160 | 170 | 162 | 164 | 51.74
Totals |  |  |  | 31 | 100.00

Appendix 3_Consumer Expenditure Surveys

Pre-published Data for All Consumer Units Nationwide*
| Total complete reporting: 1994 | Total complete reporting: 1995 | Total complete reporting: 1997 | Total complete reporting: Average
Average before tax income | 36,838.00 | 36,948.00 | 39,926.00 | 37,904.00
Average annual expenditures | 32,762.99 | 33,610.38 | 36,145.95 | 34,173.11
Food | 4,526.94 | 4,690.51 | 4,902.06 | 4,706.50
Food at home | 2,764.21 | 2,885.98 | 2,970.28 | 2,873.49
Cereals and bakery products | 439.36 | 454.64 | 464.66 | 452.89
Cereals and cereal products | 166.94 | 169.16 | 165.56 | 167.22
Flour | 7.93 | 8.93 | 8.94 | 8.60
Prepared flour mixes | 13.20 | 13.29 | 16.51 | 14.33
Ready-to-eat and cooked cereals | 102.02 | 99.83 | 92.76 | 98.20
Rice | 15.47 | 19.43 | 18.21 | 17.70
Pasta, cornmeal and other cereal products | 28.32 | 27.68 | 29.13 | 28.38
Bakery products | 272.42 | 285.49 | 299.10 | 285.67
Bread | 77.20 | 78.18 | 86.16 | 80.51
White bread | 38.02 | 38.37 | 42.35 | 39.58
Bread, other than white | 39.17 | 39.81 | 43.81 | 40.93
Crackers and cookies | 64.36 | 70.09 | 70.06 | 68.17
Cookies | 43.78 | 46.76 | 45.86 | 45.47
Crackers | 20.58 | 23.33 | 24.19 | 22.70
Frozen and refrigerated bakery products | 22.16 | 22.42 | 23.43 | 22.67
Other bakery products | 108.70 | 114.79 | 119.45 | 114.31
Biscuits and rolls | 37.26 | 39.48 | 42.66 | 39.80
Cakes and cupcakes | 31.12 | 36.15 | 34.41 | 33.89
Bread and cracker products | 4.68 | 4.45 | 4.68 | 4.60
Sweetrolls, coffee cakes, doughnuts | 23.08 | 21.57 | 23.58 | 22.74
Pies, tarts, turnovers | 12.55 | 13.14 | 14.11 | 13.27
Meats, poultry, fish, and eggs | 728.89 | 758.30 | 756.18 | 747.79
Beef | 226.73 | 232.15 | 226.37 | 228.42
Ground beef | 89.79 | 87.81 | 84.79 | 87.46
Roast | 37.79 | 40.70 | 40.06 | 39.52
Chuck roast | 12.10 | 12.54 | 13.59 | 12.74
Round roast | 14.18 | 13.55 | 12.01 | 13.25
Other roast | 11.51 | 14.62 | 14.46 | 13.53
Steak | 85.81 | 87.57 | 89.04 | 87.47
Round steak | 16.44 | 18.92 | 17.82 | 17.73
Sirloin steak | 24.09 | 22.70 | 23.86 | 23.55
Other steak | 45.28 | 45.95 | 47.36 | 46.20
Other beef | 13.34 | 16.06 | 12.48 | 13.96
Pork | 154.66 | 157.51 | 161.13 | 157.77
Bacon | 23.01 | 20.26 | 26.23 | 23.17
Pork chops | 37.47 | 39.03 | 39.60 | 38.70
Ham | 36.74 | 38.51 | 38.45 | 37.90
Ham, not canned | 33.91 | 36.23 | 36.03 | 35.39
Canned ham | 2.84 | 2.28 | 2.43 | 2.52
Sausage | 22.63 | 21.35 | 25.09 | 23.02
Other pork | 34.80 | 38.36 | 31.75 | 34.97
Other meats | 94.34 | 105.31 | 98.81 | 99.49
Frankfurters | 19.13 | 22.78 | 23.52 | 21.81
Lunch meats (cold cuts) | 65.67 | 71.55 | 67.48 | 68.23
Bologna, liverwurst, salami | 23.25 | 25.15 | 23.88 | 24.09
Other lunch meats | 42.41 | 46.40 | 43.60 | 44.14
Lamb, organ meats and others | 9.54 | 10.98 | 7.80 | 9.44
Lamb and organ meats | 9.31 | 8.92 | 7.10 | 8.44
Mutton, goat and game | 0.24 | 2.06 | 0.70 | 1.00
Poultry | 135.32 | 136.43 | 145.61 | 139.12
Fresh and frozen chickens | 107.49 | 105.79 | 114.50 | 109.26
Fresh whole chicken | NA | NA | NA | NA
Fresh and frozen whole chicken | 29.05 | 28.37 | 29.94 | 19.44
Fresh and frozen chicken parts | 78.44 | 77.43 | 84.56 | 80.14
Other poultry, incl. whole frozen chickens | NA | NA | NA | NA
Other poultry | 27.83 | 30.64 | 31.11 | 20.58
Fish and seafood | 87.13 | 95.34 | 90.67 | 91.05
Canned fish and seafood | 15.60 | 17.95 | 14.42 | 15.99
Fresh and frozen shellfish | NA | NA | NA | NA
Fresh and frozen finfish | NA | NA | NA | NA
Fresh fish and shellfish | 48.29 | 50.11 | 51.69 | 50.90
Frozen fish and shellfish | 23.23 | 27.28 | 24.55 | 25.92
Eggs | 30.72 | 31.55 | 33.59 | 31.95
Dairy products | 297.87 | 311.48 | 328.97 | 312.77
Fresh milk and cream | 131.98 | 129.41 | 134.35 | 131.91
Whole milk | NA | NA | NA | NA
Other milk and cream | NA | NA | NA | NA
Fresh milk, all types | 123.44 | 119.84 | 124.37 | 122.10
Cream | 8.55 | 9.56 | 9.97 | 9.76
Other dairy products | 165.88 | 182.07 | 194.62 | 180.86
Butter | 11.78 | 13.03 | 15.08 | 13.30
Cheese | 84.78 | 93.13 | 99.99 | 92.63
Ice cream and related products | 48.15 | 53.06 | 54.45 | 51.89
Miscellaneous dairy products | 21.17 | 22.85 | 25.11 | 23.04
Fruits and vegetables | 446.10 | 467.45 | 485.34 | 466.30
Fresh fruits | 135.12 | 148.22 | 154.00 | 145.78
Apples | 25.34 | 29.98 | 28.67 | 28.00
Bananas | 30.25 | 31.09 | 32.54 | 31.29
Oranges | 16.05 | 16.21 | 18.05 | 16.77
Other fresh fruits | 63.49 | 70.94 | 74.73 | 69.72
Fresh vegetables | 138.99 | 140.83 | 145.02 | 141.61
Potatoes | 28.24 | 28.75 | 26.24 | 27.74
Lettuce | 17.65 | 18.31 | 19.04 | 18.33
Tomatoes | 21.59 | 21.89 | 24.47 | 22.65
Other fresh vegetables | 71.52 | 71.89 | 75.27 | 72.89
Processed fruits | 95.31 | 96.98 | 104.68 | 98.99
Frozen fruits and fruit juices | 16.38 | 17.35 | 15.49 | 16.41
Frozen orange juice | 9.57 | 9.19 | 8.56 | 9.11
Other frozen fruits and juices | 6.81 | 8.15 | 6.93 | 7.30
Canned and dried fruits | 21.11 | 20.11 | 20.50 | 20.57
Fresh, canned or bottled fruit juices | 57.83 | 59.52 | 68.69 | 62.01
Processed vegetables | 76.68 | 81.42 | 81.65 | 79.92
Frozen vegetables | 24.78 | 29.55 | 27.14 | 27.16
Canned and dried vegetables and juices | 51.90 | 51.88 | 54.51 | 52.76
Canned beans | 10.61 | 11.26 | 11.95 | 11.27
Canned corn | 6.99 | 6.80 | 7.38 | 7.06
Other canned and dried veg. and juices | 34.30 | 33.80 | 35.17 | 34.42
Other food at home | 851.99 | 894.10 | 935.13 | 893.74
Sugar and other sweets | 110.67 | 119.49 | 118.31 | 116.16
Candy and chewing gum | 66.52 | 73.02 | 71.95 | 70.50
Sugar | 18.30 | 17.88 | 19.59 | 18.59
Artificial sweeteners | 3.57 | 4.56 | 3.45 | 3.86
Jams, preserves, other sweets | 22.28 | 24.02 | 23.32 | 23.21
Fats and oils | 80.76 | 83.63 | 83.38 | 82.59
Margarine | 14.68 | 13.13 | 12.25 | 13.35
Other fats, oils, and salad dressing | 47.48 | 51.88 | 51.07 | 50.14
Nondairy cream and imitation milk | 6.71 | 6.96 | 8.56 | 7.41
Peanut butter | 11.89 | 11.66 | 11.50 | 11.68
Miscellaneous foods | 369.77 | 394.39 | 424.58 | 396.25
Frozen prepared foods | 65.79 | 69.94 | 82.25 | 72.66
Frozen meals | 20.54 | 21.71 | 21.74 | 21.33
Other frozen prepared foods | 45.25 | 48.22 | 60.51 | 51.33
Canned and packaged soups | 30.21 | 31.92 | 33.24 | 31.79
Potato chips, nuts, and other snacks | 75.91 | 84.32 | 88.63 | 82.95
Potato chips and other snacks | 59.81 | 65.63 | 70.36 | 65.27
Nuts | 16.10 | 18.69 | 18.27 | 17.69
Condiments and seasonings | 82.47 | 89.18 | 91.74 | 87.80
Salt, spices, other seasonings | 19.68 | 20.55 | 20.23 | 20.15
Olives, pickles, relishes | 10.76 | 10.13 | 11.26 | 10.72
Sauces and gravies | 38.05 | 41.78 | 43.18 | 41.00
Baking needs and misc. products | 13.98 | 16.71 | 17.07 | 15.92
Other canned and packaged prepared foods | 115.39 | 119.03 | 128.73 | 121.05
Salads and desserts | 19.30 | 23.19 | 25.84 | 22.78
Baby food | 27.68 | 25.42 | 28.65 | 27.25
Miscellaneous prepared foods | 68.41 | 70.42 | 74.24 | 71.02
Nonalcoholic beverages | 241.81 | 250.31 | 254.04 | 248.72
Cola | 93.27 | 94.76 | 94.27 | 94.10
Other carbonated drinks | 40.20 | 43.28 | 45.17 | 42.88
Coffee | 43.29 | 47.76 | 49.87 | 46.97
Roasted coffee | 29.20 | 32.11 | 33.41 | 31.57
Instant and freeze dried coffee | 14.09 | 15.65 | 16.47 | 15.40
Noncarbonated fruit flavored drinks | NA | NA | NA | NA
Noncarb. fruit flavored drinks, inc. non-frozen lemonade | 23.02 | 25.18 | 19.81 | 15.00
Tea | 16.75 | 16.01 | 15.22 | 15.99
Nonalcoholic beer | 0.76 | 1.17 | 0.33 | 0.75
Other nonalcoholic beverages | 24.52 | 22.13 | 29.37 | 25.34
Food prepared by consumer unit on out-of-town trips | 48.98 | 46.29 | 54.82 | 50.03
Food away from home | 1,762.72 | 1,804.53 | 1,931.78 | 1,833.01
Meals at restaurants, carry-outs and other | 1,363.26 | 1,426.22 | 1,516.51 | 1,435.33
Lunch | 475.88 | 499.50 | 517.92 | 497.77
Dinner | 668.88 | 691.44 | 753.30 | 704.54
Snacks and nonalcoholic beverages | 110.46 | 126.30 | 128.93 | 121.90
Breakfast and brunch | 108.05 | 108.98 | 116.35 | 111.13
Board (including at school) | 50.40 | 58.40 | 49.67 | 52.82
Catered affairs | 55.38 | 37.05 | 40.15 | 44.19
Food on out-of-town trips | 213.45 | 204.85 | 235.69 | 218.00
School lunches | 54.93 | 49.47 | 55.88 | 53.43
Meals as pay | 25.30 | 28.53 | 33.87 | 29.23
Alcoholic beverages | 296.57 | 301.83 | 330.23 | 309.54
At home | 175.40 | 179.33 | 190.83 | 181.85
Beer and ale | 108.74 | 94.20 | 98.68 | 100.54
Whiskey | 14.25 | 12.83 | 14.43 | 13.84
Wine | 36.06 | 54.77 | 54.55 | 48.46
Other alcoholic beverages | 16.36 | 17.53 | 23.17 | 19.02
Away from home | 121.17 | 122.51 | 139.40 | 127.69
Beer and ale | 42.50 | 36.61 | 43.35 | 40.82
Wine | 16.74 | 22.55 | 26.02 | 21.77
Other alcoholic beverages | 30.22 | 33.33 | 35.10 | 32.88
Alcoholic beverages purchased on trips | 31.71 | 30.02 | 34.93 | 32.22
Housing | 10,189.41 | 10,576.98 | 11,348.00 | 10,704.80
Shelter | 5695.83 | 5912.61 | 6339.07 | 5982.50
Owned dwellings | 3464.04 | 3750.08 | 3933.15 | 3715.76
Mortgage interest and charges | 1925.26 | 2120.77 | 2235.07 | 2093.70
Mortgage interest | 1825.30 | 1997.99 | 2114.98 | 1979.42
Interest paid, home equity loan | 44.67 | 56.26 | 60.52 | 53.82
Interest paid, home equity line of credit | 54.73 | 66.06 | 59.38 | 60.06
Prepayment penalty charges | 0.56 | 0.46 | 0.19 | 0.40
Property taxes | 879.41 | 909.28 | 946.59 | 911.76
Maintenance, repairs, insurance, other expenses | 659.37 | 720.02 | 751.49 | 710.29
Homeowners and related insurance | 209.07 | 224.86 | 233.28 | 222.40
Fire and extended coverage | 6.34 | 7.31 | 8.19 | 7.28
Homeowners insurance | 202.73 | 217.55 | 225.09 | 215.12
Ground rent | 40.26 | 33.61 | 37.61 | 37.16
Maintenance and repair services | 312.65 | 366.16 | 369.97 | 349.59
Painting and papering | 43.27 | 38.26 | 38.94 | 40.16
Plumbing and water heating | 36.45 | 32.01 | 35.81 | 34.76
Heat, a/c, electrical work | 55.08 | 75.83 | 62.71 | 64.54
Roofing and gutters | 48.91 | 66.13 | 81.75 | 65.60
Other repair and maintenance services (old) | NA | NA | NA | NA
Other repair and maintenance services | 112.39 | 136.51 | 128.52 | 88.34
Repair and replacement of hard surface flooring | 14.76 | 15.56 | 20.35 | 16.89
Repair of built in appliances | 1.78 | 1.86 | 1.89 | 1.84
Maintenance and repair commodities | 75.59 | 70.72 | 88.29 | 78.20
Paints, wallpaper and supplies | 18.95 | 19.73 | 19.34 | 19.34
Tools and equipment for painting and wallpapering | 2.04 | 2.12 | 2.08 | 2.08
Plumbing supplies and equipment | 8.57 | 7.42 | 6.15 | 7.38
Electrical supplies, heating and cooling equipment | 5.86 | 4.97 | 4.16 | 5.00
Materials for hard surface flooring, repair/replace | 5.08 | 3.33 | 7.78 | 5.40
Materials and equipment for roof and gutters | 5.94 | 4.96 | 8.88 | 6.59
Materials for plaster, paneling, siding, doors, etc. | 12.78 | 10.72 | 16.64 | 13.38
Materials for patio, walk, fence, driveway, etc. | 0.52 | 0.59 | 0.72 | 0.61
Materials for landscaping maintenance | 1.48 | 1.66 | 4.99 | 2.71
Miscellaneous supplies and equipment | 14.37 | 15.22 | 17.55 | 15.71
Material for insulation, other maint., and repair | 10.19 | 11.05 | 10.06 | 10.43
Materials to finish basements, remodeling, etc. | 4.18 | 4.17 | 7.49 | 5.28
Property management and security | 21.59 | 24.67 | 20.87 | 22.38
Property management | 12.78 | 18.44 | 17.75 | 16.32
Management and upkeep services for security | 8.81 | 6.22 | 3.12 | 6.05
Parking | 0.21 | 0.00 | 1.47 | 0.74
Rented dwellings | 1,828.52 | 1,786.70 | 1,979.74 | 1,864.99
Rent | 1,755.05 | 1,716.57 | 1,867.90 | 1,779.84
Rent as pay | 42.31 | 48.19 | 75.65 | 55.38
Maintenance, insurance and other expenses | 31.16 | 21.94 | 36.18 | 29.76
Tenant's insurance | 9.65 | 7.50 | 10.07 | 9.07
Maintenance and repair services | 11.56 | 5.29 | 18.06 | 11.64
Repair or maintenance services (old) | NA | NA | NA | NA
Repair or maintenance services | 10.37 | 4.97 | 16.63 | 7.20
Repair and replacement of hard surface flooring | 1.05 | 0.25 | 1.40 | 0.90
Repair of built-in appliances | 0.13 | 0.07 | 0.04 | 0.08
Maintenance and repair commodities | 9.95 | 9.15 | 8.05 | 9.05
Paint, wallpaper, and supplies | 2.09 | 1.62 | 1.57 | 1.76
Tools and equipment for painting and wallpapering | 0.22 | 0.17 | 0.17 | 0.19
Materials for plastering, panels, roofing, gutters, etc. | 1.23 | 0.87 | 1.10 | 1.07
Materials for patio, walk, fence, driveway, etc. | 0.09 | 0.04 | 0.00 | 0.04
Plumbing supplies and equipment | 0.70 | 1.35 | 0.40 | 0.82
Electrical supplies, heating and cooling equipment | 1.36 | 0.37 | 0.09 | 0.61
Miscellaneous supplies and equipment | 3.41 | 4.00 | 3.30 | 3.57
Material for insulation, other maint. and repair | 1.13 | 1.51 | 1.10 | 1.25
Termite and pest control (capital improvement) | NA | NA | NA | NA
Materials for additions, finishing basements, etc. | 1.67 | 2.44 | 1.88 | 2.00
Construction materials for jobs not started | 0.61 | 0.04 | 0.31 | 0.32
Material for hard surface flooring | 0.54 | 0.27 | 0.92 | 0.58
Material for landscape maintenance | 0.31 | 0.47 | 0.49 | 0.42
Other lodging
Owned vacation homes | 122.14 | 110.00 | 135.60 | 122.58
Mortgage interest and charges | 43.30 | 38.31 | 59.25 | 46.95
Mortgage interest | 39.56 | 36.36 | 57.41 | 44.44
Interest paid, home equity loan | 0.43 | 0.15 | 0.72 | 0.43
Interest paid, home equity line of credit | 3.31 | 1.80 | 1.11 | 2.07
Prepayment penalty charge | NA | NA | NA | NA
Property taxes | 51.02 | 48.11 | 54.07 | 51.07
Maintenance, insurance, and other expenses | 27.82 | 23.58 | 22.28 | 24.56
Homeowners and related insurance | 7.66 | 5.66 | 4.66 | 5.99
Homeowners insurance | 7.35 | 5.53 | 4.25 | 5.71
Fire and extended coverage | 0.31 | 0.14 | 0.41 | 0.29
Ground rent | 3.62 | 2.15 | 1.10 | 2.29
Maintenance and repair services | 11.87 | 11.13 | 11.54 | 11.51
Repair and remodeling services (old) | NA | NA | NA | NA
Repair and remodeling services | 11.40 | 11.07 | 11.35 | 7.47
Repair and replacement of surface flooring | 0.47 | 0.06 | 0.19 | 0.24
Maintenance and repair commodities | 1.35 | 2.35 | 0.98 | 1.56
Paints, wallpaper, supplies | 0.16 | 0.58 | 0.37 | 0.37
Tools and equip. for painting and wallpapering | 0.02 | 0.06 | 0.04 | 0.04
Materials for plaster., panel., roof., gutters, etc. | 0.10 | 0.51 | 0.35 | 0.32
Material for patio, walk, fence, drive, masonry, etc | NA | NA | NA | NA
Plumbing supplies and equipment | 0.05 | 0.07 | 0.08 | 0.07
Electrical supplies, heating and cooling equipment | NA | NA | NA | NA
Miscellaneous supplies and equipment | 0.99 | 0.29 | 0.14 | 0.47
Material for insulation, other maint. and repair | 0.99 | 0.29 | 0.13 | 0.47
Material for finishing basements & remodeling rooms | NA | NA | 0.00 | 0.00
Materials for hard surface flooring | 0.03 | 0.84 | 0.00 | 0.42
Materials for landscaping maintenance | NA | NA | NA | NA
Property management and security | 3.27 | 2.28 | 3.67 | 3.07
Property management | 2.36 | 1.51 | 3.24 | 2.37
Management and upkeep services for security | 0.91 | 0.77 | 0.43 | 0.70
Parking | 0.06 | 0.00 | 0.33 | 0.13
Housing while attending school | 59.54 | 56.69 | 57.09 | 57.77
Lodging on out-of-town trips | 221.60 | 209.14 | 233.48 | 221.41
Utilities, fuels, and public services | 2,170.32 | 2,180.19 | 2,407.84 | 2,252.78
Natural gas | 280.09 | 268.59 | 298.08 | 282.25
Utility—natural gas (renter) | 60.54 | 60.43 | 60.79 | 60.59
Utility—natural gas (owned home) | 216.97 | 206.77 | 235.78 | 219.84
Utility—natural gas (owned vacation) | 2.53 | 1.25 | 1.35 | 1.71
Utility—natural gas (rented vacation) | 0.05 | 0.14 | 0.17 | 0.12
Electricity | 846.21 | 854.21 | 899.68 | 866.70
Electricity (renter) | 207.80 | 201.80 | 211.65 | 207.08
Electricity (owned home) | 630.39 | 643.72 | 679.66 | 651.26
Electricity (owned vacation) | 7.36 | 7.78 | 7.45 | 7.53
Electricity (rented vacation). | 0.65 | 0.92 | 0.92 | 0.83
Fuel oil and other fuels | 98.11 | 85.56 | 109.11 | 97.59
Fuel oil | 59.27 | 48.19 | 54.87 | 54.11
Fuel oil (renter) | 6.49 | 3.92 | 5.14 | 5.18
Fuel oil (owned home) | 52.38 | 43.76 | 49.16 | 48.43
Fuel oil (owned vacation) | 0.40 | 0.47 | 0.54 | 0.47
Fuel oil (rented vacation) | NA | 0.04 | 0.04 | 0.03
Coal | 1.66 | 2.47 | 0.94 | 1.69
Coal (renter) | 0.55 | 0.10 | 0.02 | 0.22
Coal (owned home) | 1.12 | 2.37 | 0.92 | 1.47
Coal (owned vacation) | NA | NA | NA | NA
Coal (rented vacation) | NA | NA | NA | NA
Bottled gas | 30.68 | 28.71 | 45.55 | 34.98
Gas, btld/tank (renter) | 4.19 | 4.12 | 5.18 | 4.50
Gas, btld/tank (owned home). | 23.43 | 21.80 | 37.31 | 27.51
Gas, btld/tank (owned vacation) | 3.03 | 2.78 | 3.04 | 2.95
Gas, btld/tank (rented vacation) | 0.04 | 0.02 | 0.02 | 0.02
Wood and other fuels | 6.49 | 6.19 | 7.75 | 6.81
Wood/other fuels (renter) | 0.61 | 0.80 | 1.66 | 1.02
Wood/other fuels (owned home) | 5.81 | 5.36 | 5.99 | 5.72
Wood/other fuels (owned vacation) | 0.06 | 0.04 | 0.09 | 0.06
Wood/other fuels (rented vacation) | NA | NA | 0.01 | 0.00
Telephone services | 688.52 | 709.69 | 809.32 | 735.84
Telephone (old) | NA | NA | NA | NA
Telephone services in home city, excluding car phones | 674.31 | 683.24 | 755.32 | 704.29
Telephone services for mobile car phone | 14.21 | 26.45 | 54.00 | 40.22
Water and other public services | 257.41 | 262.14 | 291.65 | 270.40
Water and sewerage maintenance | 182.67 | 188.59 | 210.76 | 194.01
Water/sewer maint. (renter) | 26.75 | 26.25 | 28.93 | 27.31
Water/sewer maint. (owned home) | 154.37 | 160.72 | 179.88 | 164.99
Water/sewer maint. (owned vacation) | 1.50 | 1.47 | 1.79 | 1.59
Water/sewer maint. (rented vacation) | 0.04 | 0.16 | 0.16 | 0.12
Trash and garbage collection | 73.48 | 71.56 | 78.22 | 74.42
Trash/garb. coll. (renter) | 9.37 | 8.40 | 9.16 | 8.98
Trash/garb. coll. (owned home) | 62.61 | 62.16 | 67.47 | 64.08
Trash/garb. coll. (owned vacation) | 1.45 | 0.96 | 1.52 | 1.31
Trash/garb. coll. (rented vacation) | 0.04 | 0.05 | 0.08 | 0.06
Septic tank cleaning | 1.26 | 1.99 | 2.68 | 1.98
Septic tank clean. (renter) | 0.01 | 0.02 | 0.17 | 0.07
Septic tank clean. (owned home) | 1.23 | 1.88 | 2.49 | 1.87
Septic tank clean. (owned vacation) | NA | 0.08 | 0.01 | 0.03
Septic tank clean. (rented vacation) | 0.01 | 0.00 | 0.00 | 0.00
Household operations | 499.86 | 517.87 | 561.77 | 526.50
Personal services | 240.70 | 263.71 | 272.92 | 259.11
Babysitting | 81.17 | 78.64 | 76.94 | 78.92
Care for elderly, invalids, handicapped, etc | 19.24 | 32.74 | 24.69 | 25.56
Day-care centers, nursery, and preschools | 140.29 | 152.33 | 171.29 | 154.64
Other household expenses | 259.16 | 254.16 | 288.84 | 267.39
Housekeeping services | 82.83 | 86.51 | 76.51 | 81.95
Gardening, lawn care service | 69.73 | 63.82 | 73.37 | 68.97
Water softening service | 2.65 | 3.12 | 5.11 | 3.63
Household laundry, dry cleaning, sent out (nonclothing) | 1.79 | 1.78 | 10.34 | 4.64
Coin-operated laundry and dry cleaning (nonclothing) | 5.40 | 4.72 | 4.74 | 4.95
Services for termite/pest control maintenance | 7.46 | 12.01 | 11.71 | 11.86
Other home services | 20.11 | 16.38 | 16.58 | 17.69
Termite/pest control products | 0.29 | 0.13 | 0.15 | 0.19
Moving, storage, freight express | 27.54 | 27.59 | 32.44 | 29.19
Appliance repair, including service center | 15.24 | 15.45 | 13.77 | 14.82
Reupholstering, furniture repair | 11.03 | 11.54 | 11.78 | 11.45
Repair/rental of lawn/garden equipment, tools, etc. | 9.20 | 5.85 | 5.47 | 6.84
Appliance rental | 1.55 | 1.76 | 1.10 | 1.47
Rental of office equipment for nonbusiness use | 0.31 | 0.35 | 0.46 | 0.37
Repair of misc. household equipment and furnishings | 2.46 | 1.98 | 1.25 | 1.90
Repair of computer systems for nonbusiness use | 1.57 | 1.18 | 2.70 | 1.82
Computer information services | NA | NA | 21.35 | 7.12
Housekeeping supplies | 424.30 | 465.39 | 484.90 | 458.20
Laundry and cleaning supplies | 117.94 | 117.93 | 124.91 | 120.26
Soaps and detergents | 66.49 | 66.92 | 69.41 | 67.61
Other laundry cleaning products | 51.45 | 51.00 | 55.50 | 52.65
Other household products | 187.75 | 207.85 | 222.40 | 206.00
Cleansing and toilet tissue, paper towels and napkins | 60.17 | 65.62 | 69.32 | 65.04
Miscellaneous household products | 80.66 | 74.41 | 94.06 | 83.04
Lawn and garden supplies | 46.92 | 67.82 | 59.02 | 57.92
Postage and stationery | 118.61 | 139.62 | 137.60 | 131.94
Stationery, stationery supplies, giftwraps | 62.86 | 68.49 | 67.06 | 66.14
Postage | 55.74 | 71.12 | 70.54 | 65.80
Household furnishings and equipment | 1399.10 | 1500.92 | 1554.42 | 1484.81
Household textiles | 106.15 | 107.85 | 81.91 | 98.64
Bathroom linens | 13.89 | 17.82 | 12.07 | 14.59
Bedroom linens | 52.67 | 47.70 | 35.52 | 45.30
Kitchen and dining room linens | 7.27 | 9.73 | 2.39 | 6.46
Curtains and draperies | 19.08 | 18.51 | 16.52 | 18.04
Slipcovers, decorative pillows | 2.08 | 1.38 | 2.40 | 1.95
Sewing material for slipcovers, curtains, etc. | 10.11 | 11.54 | 11.73 | 11.13
Other linens | 1.04 | 1.18 | 1.28 | 1.17
Furniture | 323.70 | 320.03 | 380.46 | 341.40
Mattress and springs | 44.00 | 41.99 | 45.54 | 43.84
Other bedroom furniture | 53.64 | 52.39 | 60.38 | 55.47
Sofas | 76.89 | 69.70 | 89.42 | 78.67
Living room chairs | 34.47 | 35.69 | 51.17 | 40.44
Living room tables | 14.27 | 17.12 | 21.35 | 17.58
Kitchen, dining room furniture | 49.61 | 48.99 | 46.41 | 48.34
Infants' furniture | 6.04 | 6.46 | 11.19 | 7.90
Outdoor furniture | 12.29 | 10.46 | 12.33 | 11.69
Occasional furniture | 32.50 | 37.23 | 42.67 | 37.47
Floor coverings | 131.65 | 211.89 | 82.77 | 142.10
Wall-to-wall carpeting (renter) | 2.50 | 4.40 | 1.92 | 2.94
Wall-to-wall carpet, installed (renter) | 2.12 | 3.79 | 1.49 | 2.47
Wall-to-wall carpet, not installed carpet squares (renter) | 0.38 | 0.61 | 0.43 | 0.47
Wall-to-wall carpet (replacement) (owned home) | 34.44 | 33.43 | 35.44 | 34.44
Wall-to-wall carpet, not installed, carpet squares (owner) | 1.81 | 2.20 | 2.72 | 2.24
Wall-to-wall carpet, installed (replacement) (owner) | 32.63 | 31.24 | 32.72 | 32.20
Room size rugs and other floor covering, nonpermanent | 94.72 | 174.05 | 45.41 | 104.73
Major appliances | 152.32 | 155.56 | 174.03 | 160.64
Dishwashers (built-in), garbage disposals, etc. (renter) | 0.75 | 1.00 | 0.89 | 0.88
Dishwashers (built-in), garbage disposals, etc. (owner) | 10.97 | 9.72 | 11.18 | 10.62
Refrigerators, freezers (renter) | 6.90 | 6.34 | 10.51 | 7.92
Refrigerators, freezers (owned home) | 38.91 | 41.01 | 49.16 | 43.03
Washing machines (renter) | 6.05 | 4.51 | 5.51 | 5.36
Washing machines (owned home). | 14.39 | 15.37 | 17.52 | 15.76
Clothes dryers (renter) | 4.04 | 2.99 | 4.64 | 3.89
Clothes dryers (owned home) | 9.31 | 11.07 | 12.07 | 10.82
Cooking stoves, ovens (renter) | 2.42 | 2.79 | 2.87 | 2.69
Cooking stoves, ovens (owned home) | 22.97 | 18.73 | 18.99 | 20.23
Microwave ovens (renter) | 3.35 | 3.29 | 3.15 | 3.26
Microwave ovens (owned home) | 6.48 | 5.74 | 6.97 | 6.40
Portable dishwasher (renter) | 0.08 | 0.21 | 0.51 | 0.27
Portable dishwasher (owned home) | 0.49 | 0.64 | 0.23 | 0.45
Window air conditioners (renter) | 2.83 | 3.08 | 2.04 | 2.65
Window air conditioners (owned home) | 3.93 | 9.56 | 3.78 | 5.76
Electric floor cleaning equipment | 13.92 | 13.86 | 16.13 | 14.64
Sewing machines | 2.92 | 4.88 | 3.49 | 3.76
Miscellaneous household appliances | 1.61 | 0.75 | 4.38 | 2.25
Small appliances, miscellaneous housewares | 85.73 | 90.94 | 100.26 | 92.31
Housewares | 60.60 | 67.05 | 72.38 | 66.68
Plastic dinnerware | 1.60 | 1.69 | 1.89 | 1.73
China and other dinnerware | 11.63 | 12.23 | 9.65 | 11.17
Flatware | 5.16 | 4.46 | 4.42 | 4.68
Glassware | 8.14 | 7.26 | 8.60 | 8.00
Silver serving pieces | 1.31 | 2.20 | 2.69 | 2.07
Other serving pieces | 1.63 | 1.26 | 1.92 | 1.60
Nonelectric cookware | 15.22 | 16.70 | 16.34 | 16.09
Tableware, nonelectric kitchenware | 15.92 | 21.25 | 26.86 | 21.34
Small appliances | 25.13 | 23.90 | 27.88 | 25.64
Small electric kitchen appliances | 18.19 | 16.55 | 17.50 | 17.41
Portable heating and cooling equipment | 6.94 | 7.34 | 10.38 | 8.22
Miscellaneous household equipment | 599.55 | 614.64 | 734.99 | 649.73
Window coverings | 14.48 | 11.21 | 11.69 | 12.46
Infants' equipment | 7.46 | 8.08 | 8.25 | 7.93
Laundry and cleaning equip. | 11.25 | 12.49 | 14.51 | 12.75
Outdoor equipment | 5.48 | 4.61 | 15.99 | 8.69
Clocks | 5.32 | 3.28 | 5.03 | 4.54
Lamps and lighting fixtures | 36.98 | 33.94 | 13.73 | 28.22
Other household decorative items | 119.06 | 158.39 | 134.65 | 137.37
Telephones and accessories | 38.10 | 16.02 | 103.30 | 52.47
Lawn and garden equipment | 53.17 | 44.68 | 40.53 | 46.13
Power tools | 13.51 | 16.39 | 17.48 | 15.79
Small miscellaneous furnishings | 1.88 | 2.64 | 0.00 | 1.51
Office furniture for home use | 0.00 | 0.00 | 12.79 | 4.26
Hand tools | 9.88 | 11.98 | 9.99 | 10.62
Indoor plants, fresh flowers | 52.70 | 49.20 | 53.57 | 51.82
Closet and storage items | 8.33 | 8.09 | 9.57 | 8.66
Rental of furniture | 4.53 | 3.62 | 3.50 | 3.88
Luggage | 8.00 | 10.25 | 10.01 | 9.42
Computers and computer hardware nonbusiness use | 115.01 | 145.69 | 169.01 | 143.24
Computer software/accessories for nonbusiness use | 20.05 | 19.51 | 26.83 | 22.13
Telephone answering devices | 3.95 | 3.74 | 3.52 | 3.74
Calculators | 2.35 | 2.10 | 2.10 | 2.18
Business equipment for home use | 4.75 | 4.63 | 2.54 | 3.97
Other hardware | 25.27 | 16.69 | 26.24 | 22.73
Smoke alarms (owned home) | 0.86 | 1.32 | 0.94 | 1.04
Smoke alarms (renter) | 0.15 | 0.18 | 0.18 | 0.17
Smoke alarms (owned vacation) | NA | NA | NA | NA
Other household appliances (owned home) | 6.69 | 4.94 | 8.05 | 6.56
Other household appliances (renter) | 1.36 | 1.10 | 1.61 | 1.36
Miscellaneous household equipment and parts | 28.95 | 19.90 | 29.39 | 26.08
Apparel and services | 1688.22 | 1770.53 | 1786.46 | 1748.40
Men and boys | 418.74 | 437.23 | 422.86 | 426.28
Men, 16 and over | 320.76 | 339.22 | 337.81 | 332.60
Men's suits | 32.42 | 33.44 | 34.72 | 33.53
Men's sportcoats, tailored jackets | 13.87 | 13.43 | 14.51 | 13.94
Men's coats and jackets | 29.56 | 31.87 | 32.90 | 31.44
Men's underwear | 12.90 | 19.04 | 13.47 | 15.14
Men's hosiery | 10.30 | 14.66 | 10.13 | 11.70
Men's nightwear | 2.73 | 3.93 | 2.74 | 3.13
Men's accessories | 29.43 | 32.09 | 32.41 | 31.31
Men's sweaters and vests | 14.23 | 12.51 | 15.51 | 14.08
Men's active sportswear | 11.96 | 10.37 | 11.60 | 11.31
Men's shirts | 79.19 | 78.33 | 81.15 | 79.56
Men's pants | 62.55 | 65.60 | 68.67 | 65.61
Men's shorts, shorts sets | 15.91 | 18.79 | 15.16 | 16.62
Men's uniforms | 3.35 | 4.01 | 2.13 | 3.16
Men's costumes | 2.34 | 1.14 | 2.70 | 2.06
Boys, 2 to 15 | 97.98 | 98.01 | 85.05 | 93.68
Boys' coats and jackets | 6.61 | 11.14 | 8.48 | 8.74
Boys' sweaters | 2.76 | 1.94 | 2.87 | 2.52
Boys' shirts | 21.53 | 21.66 | 17.77 | 20.32
Boys' underwear | 4.57 | 5.52 | 3.22 | 4.44
Boys' nightwear | 2.13 | 0.81 | 2.05 | 1.66
Boys' hosiery | 3.75 | 4.69 | 2.99 | 3.81
Boys' accessories | 7.57 | 5.72 | 4.53 | 5.94
Boys' suits, sportcoats, vests | 6.10 | 3.30 | 3.04 | 4.15
Boys' pants | 21.77 | 23.82 | 22.80 | 22.80
Boys' shorts, shorts sets | 12.15 | 12.16 | 8.92 | 11.08
Boys' uniforms, active sportswear | 7.76 | 6.45 | 7.16 | 7.12
Boys' costumes | 1.30 | 0.81 | 1.22 | 1.11
Women and girls | 653.73 | 694.23 | 699.25 | 682.40
Women, 16 and over | 552.35 | 591.01 | 591.18 | 578.18
Women's coats and jackets | 49.54 | 45.93 | 44.40 | 46.62
Women's dresses | 81.37 | 93.51 | 86.35 | 87.08
Women's sportcoats, tailored jackets | 4.15 | 4.49 | 3.39 | 4.01
Women's vests and sweaters | 32.73 | 31.47 | 40.33 | 34.84
Women's shirts, tops, blouses | 96.49 | 106.16 | 99.89 | 100.85
Women's skirts | 19.13 | 22.83 | 20.99 | 20.98
Women's pants | 58.46 | 72.07 | 74.88 | 68.47
Women's shorts, shorts sets | 23.01 | 25.21 | 22.75 | 23.66
Women's active sportswear | 24.30 | 29.46 | 29.78 | 27.85
Women's sleepwear | 24.72 | 22.66 | 24.69 | 24.02
Women's undergarments | 24.46 | 31.17 | 31.74 | 29.12
Women's hosiery | 25.02 | 21.93 | 24.03 | 23.66
Women's suits | 37.27 | 33.78 | 36.91 | 35.99
Women's accessories | 49.54 | 46.86 | 46.34 | 47.58
Women's uniforms | 0.42 | 2.00 | 2.40 | 1.61
Women's costumes | 1.73 | 1.48 | 2.30 | 1.84
Girls, 2 to 15 | 101.38 | 103.22 | 108.07 | 104.22
Girls' coats and jackets | 7.23 | 6.84 | 6.87 | 6.98
Girls' dresses, suits | 13.99 | 13.73 | 13.78 | 13.83
Girls' shirts, blouses, sweaters | 25.48 | 20.64 | 25.29 | 23.80
Girls' skirts and pants | 16.06 | 17.94 | 20.22 | 18.07
Girls' shorts, shorts sets | 9.07 | 9.98 | 9.57 | 9.54
Girls' active sportswear | 6.56 | 12.65 | 7.61 | 8.94
Girls' underwear and sleepwear | 7.49 | 7.67 | 6.85 | 7.34
Girls' hosiery | 5.82 | 4.87 | 5.30 | 5.33
Girls' accessories | 4.55 | 4.61 | 5.78 | 4.98
Girls' uniforms | 2.15 | 1.94 | 3.49 | 2.53
Girls' costumes | 2.98 | 2.35 | 3.31 | 2.88
Children under 2 | 83.32 | 83.72 | 83.64 | 83.56
Infant coat, jacket, snowsuit | 2.69 | 3.30 | 3.19 | 3.06
Infant dresses, outerwear | 22.30 | 23.32 | 15.99 | 20.54
Infant underwear | 49.15 | 48.46 | 48.36 | 48.66
Infant nightwear, loungewear | 3.94 | 3.78 | 4.65 | 4.12
Infant accessories | 5.23 | 4.86 | 11.46 | 7.18
Infant hosiery | NA | NA | NA | NA
Footwear | 258.43 | 287.27 | 325.60 | 290.43
Men's footwear | 84.05 | 103.76 | 102.71 | 96.84
Boys' footwear | 34.18 | 28.94 | 30.90 | 31.34
Women's footwear | 113.26 | 121.72 | 160.65 | 131.88
Girls' footwear | 26.94 | 32.85 | 31.34 | 30.38
Other apparel products and services | 274.00 | 268.09 | 255.13 | 265.74
Material for making clothes | 7.24 | 5.46 | 4.55 | 5.75
Sewing patterns and notions | 2.57 | 2.13 | 5.49 | 3.40
Watches | 24.45 | 20.37 | 30.26 | 25.03
Jewelry | 108.96 | 109.19 | 144.54 | 120.90
Shoe repair and other shoe service | 3.16 | 2.88 | 2.47 | 2.84
Coin-operated apparel laundry and dry cleaning | 37.33 | 40.94 | 20.94 | 33.07
Apparel alteration and repair | 6.90 | 5.90 | 6.41 | 6.40
Clothing rental | 3.75 | 3.46 | 4.00 | 3.74
Watch and jewelry repair | 5.99 | 5.41 | 5.54 | 5.65
Apparel laundry and dry cleaning not coin operated | 73.18 | 71.82 | 30.57 | 58.52
Clothing storage | 0.47 | 0.52 | 0.35 | 0.45
Transportation | 6075.53 | 6123.07 | 6669.29 | 6289.30
Vehicle purchases (net outlay) | 2703.01 | 2677.81 | 2856.48 | 2745.77
Cars and trucks, new | 1333.33 | 1188.62 | 1310.11 | 1277.35
New cars | 727.70 | 688.75 | 748.92 | 721.79
New trucks | 605.63 | 499.87 | 561.19 | 555.56
Cars and trucks, used | 1320.82 | 1456.39 | 1499.72 | 1425.64
Used cars | 866.68 | 963.07 | 935.75 | 921.83
Used trucks | 454.14 | 493.32 | 563.97 | 503.81
Other vehicles | 48.85 | 32.80 | 46.64 | 42.76
New motorcycles | 25.77 | 17.64 | 26.57 | 23.33
New aircraft | NA | NA | NA | NA
Used motorcycles | 23.09 | 15.16 | 18.52 | 18.92
Used aircraft | NA | NA | 1.55 | 0.52
Gasoline and motor oil | 989.97 | 1014.48 | 1110.22 | 1038.22
Gasoline | 877.48 | 904.95 | 990.79 | 924.41
Diesel fuel | 9.16 | 10.91 | 10.97 | 10.35
Gasoline on out-of-town trips | 90.64 | 86.11 | 94.78 | 90.51
Gasohol | 0.18 | 0.00 | 0.00 | 0.06
Motor oil | 11.60 | 11.64 | 12.73 | 11.99
Motor oil on out-of-town trips | 0.92 | 0.87 | 0.96 | 0.92
Other vehicle expenses | 1989.07 | 2064.09 | 2312.48 | 2121.88
Vehicle finance charges | 238.49 | 267.24 | 304.80 | 270.18
Automobile finance charges | 139.82 | 154.84 | 166.22 | 153.63
Truck finance charges | 86.72 | 99.05 | 122.32 | 102.70
Motorcycle and plane finance charges | 1.05 | 1.36 | 1.64 | 1.35
Other vehicle finance charges | 10.90 | 11.98 | 14.63 | 12.50
Maintenance and repairs | 700.79 | 675.26 | 719.82 | 698.62
Coolant, additives, brake, transmission fluids | 6.32 | 5.79 | 6.21 | 6.11
Tires—purchased, replaced, installed | 89.79 | 90.02 | 91.83 | 90.55
Parts, equipment, and accessories | 111.43 | 64.20 | 55.56 | 77.06
Vehicle audio equipment, excluding labor | 5.45 | 10.74 | 2.59 | 6.66
Vehicle products | 5.28 | 3.89 | 8.44 | 6.16
Misc. auto repair, servicing | 33.34 | 36.88 | 62.12 | 44.11
Body work and painting | 36.88 | 32.55 | 34.22 | 34.55
Clutch, transmission repair | 46.56 | 45.07 | 44.96 | 45.53
Drive shaft and rear-end repair | 5.94 | 6.61 | 4.90 | 5.82
Brake work | 43.70 | 48.70 | 59.86 | 50.75
Repair to steering or front-end | 18.42 | 20.05 | 17.55 | 18.67
Repair to engine cooling system | 22.60 | 24.32 | 20.86 | 22.59
Motor tune-up | 42.86 | 43.84 | 47.84 | 44.85
Lube, oil change, and oil filters | 39.86 | 44.30 | 56.59 | 46.92
Front-end alignment, wheel balance | NA | NA | NA | NA
Front-end alignment, wheel balance and rotation | 9.78 | 11.19 | 12.81 | 8.00
Shock absorber replacement | 7.04 | 6.98 | 5.46 | 6.49
Brake adjustment | 3.89 | 3.18 | 0.00 | 2.36
Gas tank repair, replacement | 2.52 | 1.73 | 1.50 | 1.92
Repair tires and other repair work | 27.94 | 34.28 | 30.50 | 30.91
Vehicle air conditioning repair | 14.87 | 15.01 | 19.49 | 17.25
Exhaust system repair | 20.56 | 20.98 | 19.73 | 20.42
Electrical system repair | 31.39 | 30.57 | 30.71 | 30.89
Motor repair, replacement | 69.19 | 68.10 | 78.68 | 71.99
Auto repair service policy | 5.17 | 6.27 | 7.41 | 6.28
Vehicle insurance | 698.00 | 726.03 | 779.47 | 734.50
Vehicle rental, leases, licenses, other charges | 351.79 | 395.56 | 508.38 | 418.58
Leased and rented vehicles | 196.83 | 230.89 | 325.60 | 251.11
Rented vehicles | 39.82 | 38.99 | 41.38 | 40.06
Auto rental | 6.03 | 7.41 | 7.28 | 6.91
Auto rental, out-of-town trips | 26.09 | 26.90 | 27.04 | 26.68
Truck rental | 1.68 | 1.13 | 2.20 | 1.67
Truck rental, out-of-town trips | 4.61 | 3.35 | 4.43 | 4.13
Motorcycle rental | NA | NA | NA | NA
Aircraft rental | 0.16 | 0.00 | 0.12 | 0.08
Motorcycle rental, out-of-town trips | 0.09 | 0.12 | 0.07 | 0.09
Aircraft rental, out-of-town trips | 1.16 | 0.09 | 0.24 | 0.50
Leased vehicles | 157.01 | 191.89 | 284.22 | 211.04
Car lease payments | 104.24 | 125.21 | 157.26 | 128.90
Cash downpayment (car lease) | 9.84 | 12.91 | 12.37 | 11.71
Termination fee (car lease) | 0.44 | 0.28 | 1.88 | 0.87
Truck lease payments | 38.15 | 51.07 | 99.28 | 62.83
Cash downpayment (truck lease) | 4.30 | 2.13 | 12.66 | 6.36
Termination fee (truck lease) | 0.03 | 0.29 | 0.78 | 0.37
State and local registration | 82.74 | 89.55 | 102.43 | 91.57
Driver's license | 7.34 | 7.34 | 7.75 | 7.48
Vehicle inspection | 8.78 | 9.52 | 9.42 | 9.24
Parking fees | 27.47 | 27.86 | 30.22 | 28.52
Parking fees (old) | NA | NA | NA | NA
Parking fees in home city, excluding residence | 24.17 | 24.09 | 26.27 | 24.84
Parking fees, out-of-town trips | 3.30 | 3.77 | 3.95 | 3.67
Tolls | 10.47 | 12.04 | 14.49 | 12.33
Tolls on out-of-town trips | 4.69 | 4.76 | 4.53 | 4.66
Towing charges | 5.37 | 5.11 | 5.24 | 5.24
Automobile service clubs | 8.10 | 8.49 | 8.68 | 8.42
Public transportation | 393.48 | 366.69 | 390.11 | 383.43
Airline fares | 253.06 | 234.86 | 253.59 | 247.17
Intercity bus fares | 11.57 | 14.61 | 11.46 | 12.55
Intracity mass transit fares | 49.28 | 49.60 | 54.55 | 51.14
Local trans. on out-of-town trips | 10.19 | 9.25 | 12.23 | 10.56
Taxi fares on trips | 5.99 | 5.43 | 7.18 | 6.20
Taxi fares | 8.23 | 7.61 | 9.81 | 8.55
Intercity train fares | 17.13 | 19.01 | 21.26 | 19.13
Ship fares | 36.91 | 25.86 | 18.98 | 27.25
School bus | 1.12 | 0.47 | 1.05 | 0.88
Health care | 1768.03 | 1746.75 | 1897.69 | 1804.16
Health insurance | 818.43 | 864.44 | 899.75 | 860.87
Commercial health insurance | 251.06 | 234.49 | 202.04 | 229.20
Blue Cross, Blue Shield | 159.34 | 170.15 | 196.27 | 175.25
Health maintenance plans (HMO's) | 127.97 | 150.70 | 232.26 | 170.31
Medicare payments | 157.72 | 175.97 | 166.85 | 166.85
Commercial medicare supplements | 122.35 | 133.13 | 102.33 | 119.27
Medical services | 567.28 | 501.51 | 543.63 | 537.47
Physician's services | 159.89 | 140.03 | 137.85 | 145.92
Dental services | 194.50 | 192.07 | 209.60 | 198.72
Eyecare services | 29.81 | 29.82 | 27.68 | 29.10
Service by professionals other than physician | 32.95 | 38.29 | 40.94 | 37.39
Lab tests, x-rays | 25.73 | 22.15 | 24.56 | 24.15
Hospital room | 44.70 | 32.45 | 33.78 | 36.98
Hospital service other than room | 54.60 | 28.76 | 50.70 | 44.69
Medical care in retirement community | NA | NA | NA | NA
Care in convalescent or nursing home | 13.21 | 8.79 | 12.24 | 11.41
Repair of medical equipment | NA | NA | 0.31 | 0.10
Other medical care services | 11.88 | 9.16 | 5.98 | 9.01
Drugs | 294.24 | 293.39 | 341.61 | 309.75
Nonprescription drugs | 84.17 | 86.92 | 117.91 | 96.33
Prescription drugs | 210.08 | 206.47 | 223.69 | 213.41
Medical supplies | 88.07 | 87.41 | 112.71 | 96.06
Eyeglasses and contact lenses | 54.20 | 55.05 | 61.25 | 56.83
Hearing aids | 0.94 | 0.00 | 12.21 | 0.47
Topicals and dressings | 24.55 | 23.49 | 31.34 | 26.46
Medical equipment for general use | 2.41 | 2.90 | 2.67 | 2.66
Supportive and convalescent medical equipment | 3.82 | 4.61 | 2.87 | 3.77
Rental of medical equipment | 0.72 | 0.34 | 0.44 | 0.50
Rental of supportive, convalescent medical equipment | 1.43 | 1.02 | 1.92 | 1.46
Entertainment | 1619.28 | 1687.41 | 1867.58 | 1724.76
Fees and admissions | 451.13 | 447.26 | 490.22 | 462.87
Recreation expenses, out-of-town trips | 22.00 | 22.61 | 26.13 | 23.58
Social, recreation, civic club membership | 87.17 | 80.62 | 78.75 | 82.18
Fees for participant sports | 73.87 | 69.49 | 76.71 | 73.36
Participant sports, out-of-town trips | 27.40 | 27.94 | 30.43 | 28.59
Movie, theater, opera, ballet | 78.89 | 75.36 | 89.89 | 81.38
Movie, other admissions, out-of-town trips | 37.79 | 42.78 | 44.47 | 41.68
Admission to sporting events | 32.52 | 31.57 | 35.80 | 33.30
Admission to sports events, out-of-town trips | 12.59 | 14.26 | 14.82 | 13.89
Fees for recreational lessons | 56.90 | 60.02 | 67.09 | 61.34
Other entertainment services, out-of-town trips | 22.00 | 22.61 | 26.13 | 23.58
Television, radios, sound equipment | 545.23 | 560.84 | 596.05 | 567.37
Televisions | 376.08 | 376.88 | 411.26 | 388.07
Community antenna or cable tv | 209.78 | 220.04 | 265.14 | 231.65
Black and white tv | 2.23 | 2.51 | 0.75 | 1.83
Color tv—console | 25.51 | 27.65 | 24.22 | 25.79
Color tv—portable, table model | 54.63 | 47.71 | 41.13 | 47.82
VCR's and video disc players | 32.98 | 29.11 | 28.25 | 30.11
Video cassettes, tapes, and discs | 22.55 | 25.44 | 23.81 | 23.93
Video game hardware and software | 19.24 | 15.27 | 20.40 | 18.30
Repair of tv, radio, and sound equipment | 8.79 | 7.99 | 7.31 | 8.03
Rental of televisions | 0.36 | 1.16 | 0.26 | 0.59
Radios, sound equipment | 169.15 | 183.96 | 184.79 | 179.30
Radios | 9.05 | 12.59 | 13.28 | 11.64
Phonographs | NA | NA | NA | NA
Tape recorders and players | 5.86 | 12.77 | 7.72 | 8.78
Sound components and component systems | 31.51 | 33.69 | 31.48 | 32.23
Miscellaneous sound equipment | 1.51 | 0.64 | 0.77 | 0.97
Sound equipment accessories | 4.83 | 4.82 | 5.84 | 5.16
Satellite dishes | NA | NA | 2.98 | 0.99
Compact disc, tape, record and video mail order clubs | 13.11 | 13.35 | 11.02 | 12.49
Records, CDs, audio tapes, needles | 37.80 | 40.00 | 41.96 | 39.92
Rental of VCR, radio, and sound equipment | 0.35 | 0.28 | 0.46 | 0.36
Musical instruments and accessories | 17.62 | 20.47 | 24.88 | 20.99
Rental and repair of musical instruments | 2.06 | 1.86 | 1.78 | 1.90
Rental of video cassettes, tapes, films, and discs | 45.45 | 43.48 | 42.63 | 43.85
Pets, toys, and playground equipment | 305.98 | 348.78 | 339.01 | 331.26
Pets | 177.55 | 223.00 | 207.71 | 202.75
Pet food | 82.75 | 86.92 | 94.36 | 88.01
Pet purchase, supplies, medicine | 29.36 | 57.03 | 40.02 | 42.14
Pet services | 16.52 | 20.41 | 17.95 | 18.29
Vet services | 48.92 | 58.65 | 55.38 | 54.32
Toys, games, hobbies, and tricycles | 125.48 | 123.52 | 130.24 | 126.41
Playground equipment | 2.95 | 2.26 | 1.06 | 2.09
Other entertainment supplies, equipment, and services | 316.93 | 330.53 | 442.30 | 363.25
Unmotored recreational vehicles | 29.18 | 30.46 | 44.74 | 34.79
Boat without motor and boat trailers | 5.16 | 3.63 | 9.03 | 5.94
Trailer and other attachable campers | 24.02 | 26.84 | 35.71 | 28.86
Motorized recreational vehicles | 81.72 | 77.55 | 133.84 | 97.70
Motorized camper coaches and other vehicles | 43.13 | 36.43 | 34.01 | 37.86
Purchase of boat with motor | 38.58 | 41.12 | 99.84 | 59.85
Rental of recreational vehicles | 2.42 | 3.01 | 3.86 | 3.10
Rental noncamper trailer | 0.13 | 0.14 | 0.03 | 0.10
Boat and trailer rental, out-of-town trips | 0.74 | 1.24 | 2.77 | 1.58
Rental of campers, etc. on out-of-town trips (old) | NA | NA | NA | NA
Rental of campers on out-of-town trips | 0.39 | 0.36 | 0.33 | 0.36
Rental of other vehicles on out-of-town trips | 0.66 | 1.03 | 0.54 | 0.74
Rental of boat | 0.10 | 0.01 | 0.03 | 0.05
Rental of campers, other r.v.'s | 0.40 | 0.24 | 0.15 | 0.26
Outboard motors | 2.05 | 0.44 | 2.84 | 1.78
Docking and landing fees | 5.05 | 4.76 | 8.96 | 6.26
Sports, recreation and exercise equipment | 115.10 | 115.57 | 133.36 | 121.34
Athletic gear, game tables, and exercise equipment | 54.37 | 51.11 | 61.04 | 55.51
Bicycles | 14.10 | 13.23 | 16.25 | 14.53
Camping equipment | 3.61 | 7.30 | 8.56 | 6.49
Hunting and fishing equipment | 20.58 | 17.87 | 18.35 | 18.93
Winter sports equipment | 4.99 | 3.73 | 5.48 | 4.73
Water and miscellaneous sport equipment | 15.51 | 20.52 | 21.51 | 19.18
Rental and repair of misc. sports equipment | 1.95 | 1.83 | 2.18 | 1.99
Photographic equipment and supplies | 74.17 | 87.03 | 94.84 | 85.35
Film | 20.48 | 20.91 | 21.93 | 21.11
Other photographic supplies | 0.31 | 0.40 | 1.29 | 0.67
Film processing | 28.34 | 29.72 | 30.86 | 29.64
Repair and rental of photographic equipment | 0.33 | 0.30 | 0.56 | 0.40
Photographic equipment | 12.63 | 12.58 | 14.83 | 13.35
Photographer fees | 12.09 | 23.10 | 25.37 | 20.19
Fireworks | 0.76 | 2.69 | 2.93 | 2.13
Souvenirs | 0.49 | 0.18 | 0.91 | 0.53
Visual goods | 1.49 | 1.76 | 3.55 | 2.27
Pinball, electronic video games | 4.50 | 7.07 | 12.48 | 8.02
Personal care products and services | 414.76 | 429.80 | 551.28 | 465.28
Personal care products | 235.24 | 229.70 | 262.83 | 242.59
Hair care products | 49.23 | 42.18 | 55.39 | 48.93
Nonelectric articles for the hair | 7.26 | 4.70 | 7.59 | 6.52
Wigs and hairpieces | 0.89 | 0.89 | 1.35 | 1.04
Oral hygiene products, articles | 25.52 | 23.92 | 29.26 | 26.23
Shaving needs | 12.64 | 13.06 | 11.85 | 12.52
Cosmetics, perfume, bath preparation | 106.82 | 112.96 | 120.23 | 113.34
Deodorants, feminine hygiene, misc. personal care | 28.40 | 28.04 | 32.35 | 29.60
Electric personal care appliances | 4.46 | 3.94 | 4.80 | 4.40
Personal care services | 179.53 | 200.11 | 288.45 | 222.70
Personal care service for females | 89.46 | 107.59 | 190.41 | 129.15
Personal care service for males | 89.94 | 92.24 | 97.86 | 93.35
Repair of personal care appliances | 0.12 | 0.28 | 0.18 | 0.19
Reading | 171.39 | 170.42 | 171.24 | 171.02
Newspapers | 70.94 | 71.14 | 69.98 | 70.69
Magazines | 39.53 | 38.06 | 36.36 | 37.98
Newsletters | 0.15 | 0.27 | 0.00 | 0.14
Books thru book clubs | 11.44 | 10.29 | 11.18 | 10.97
Books not thru book clubs | 47.99 | 48.98 | 52.79 | 49.92
Encyclopedia and other sets of reference books | 1.33 | 1.67 | 0.94 | 1.31
Education | 469.39 | 477.94 | 547.80 | 498.38
College tuition | 275.33 | 271.57 | 303.14 | 283.35
Elementary and high school tuition | 65.45 | 76.52 | 87.97 | 76.65
Other schools tuition | 15.34 | 14.55 | 16.61 | 15.50
Other school expenses including rentals | 19.50 | 17.94 | 28.77 | 22.07
School books, supplies, equipment for college | 39.14 | 36.93 | 47.48 | 41.18
School books, supplies, etc. for elementary and high school | 9.71 | 8.71 | 12.88 | 10.43
School books, supplies, etc. for day care, nursery, other | 3.49 | 1.99 | 2.95 | 2.81
School supplies, etc.—unspecified | 41.43 | 49.73 | 48.00 | 46.39
Tobacco products and smoking supplies | 261.81 | 271.59 | 271.17 | 268.19
Cigarettes | 238.23 | 244.94 | 237.35 | 240.17
Other tobacco products | 21.96 | 25.50 | 31.47 | 26.31
Smoking accessories | 1.62 | 1.15 | 2.35 | 1.71
Miscellaneous | 810.79 | 808.33 | 888.10 | 835.74
Miscellaneous fees, pari-mutuel losses | 50.63 | 53.69 | 54.63 | 52.98
Legal fees | 119.22 | 99.93 | 124.33 | 114.49
Funeral expenses | 91.97 | 86.77 | 69.79 | 82.84
Safe deposit box rental | 5.79 | 5.47 | 6.65 | 5.97
Checking accounts, other bank service charges | 27.69 | 27.35 | 25.65 | 26.90
Cemetery lots, vaults, maintenance fees | 19.45 | 14.55 | 20.06 | 18.02
Accounting fees | 44.90 | 41.35 | 50.62 | 45.62
Miscellaneous personal services | 27.76 | 23.44 | 41.30 | 30.83
Finance charges excluding mortgage and vehicle | 228.84 | 244.92 | 272.33 | 248.70
Occupational expenses | 94.19 | 115.56 | 115.16 | 108.30
Expenses for other properties | 94.77 | 90.93 | 102.70 | 96.13
Interest paid, home equity line of credit (other property) | 0.50 | 0.15 | 0.57 | 0.41
Credit card memberships | 5.08 | 4.23 | 4.32 | 4.54
Cash contributions | 1066.81 | 1034.59 | 1084.76 | 1062.05
Cash contributions to non-CU memb., incl. child sup., etc. | 292.68 | 256.97 | 265.70 | 271.78
Gifts of cash, stocks and bonds to non-CU members | 228.78 | 198.88 | 246.98 | 224.88
Contributions to charity | 102.81 | 97.57 | 112.21 | 104.20
Contributions to church | 404.30 | 428.54 | 426.74 | 419.86
Contributions to educational organizations | 22.66 | 40.51 | 18.37 | 27.18
Contributions to political organizations | 8.33 | 3.69 | 7.27 | 6.43
Other contributions | 7.25 | 8.44 | 7.48 | 7.72
Personal insurance and pensions | 3404.08 | 3520.62 | 3830.30 | 3585.00
Life and other personal insurance | 413.43 | 382.39 | 386.53 | 394.12
Life, endowment, annuity, other personal insurance | 395.89 | 369.76 | 376.74 | 380.80
Other nonhealth insurance | 17.54 | 12.63 | 9.79 | 13.32
Pensions and Social Security | 2990.65 | 3138.23 | 3443.76 | 3190.88
Deductions for government retirement | 84.07 | 81.20 | 99.84 | 88.37
Deductions for railroad retirement | 5.38 | 6.53 | 2.81 | 4.91
Deductions for private pensions | 324.08 | 399.84 | 416.13 | 380.02
Non-payroll deposit to retirement plans | 331.09 | 352.23 | 426.72 | 370.01
Deductions for Social Security | 2246.03 | 2298.44 | 2498.27 | 2347.58
*Data might not be statistically significant.
Source: Bureau of Labor Statistics.

Appendix 4—CES Category and Component Expenditures

Pre-published Data for All Consumer Units Nationwide*
| $10,000 to $14,999 | $15,000 to $19,999 | $20,000 to $29,999 | $30,000 to $39,999 | $40,000 to $49,999 | $50,000 and over
Average income before taxes:
1994 | $12,340.00 | $17,229.00 | $24,721.00 | $34,402.00 | $44,388.00 | $84,162.24
1995 | 12,420.00 | 17,341.00 | 24,603.00 | 34,606.00 | 44,408.00 | 81,698.83
1997 | 12,411.00 | 17,393.00 | 24,599.00 | 34,583.00 | 44,396.00 | 83,479.01
Average | 12,390.33 | 17,321.00 | 24,641.00 | 34,530.33 | 44,397.33 | 83,113.36
Goods and services:
1994 | 6,989.07 | 8,346.77 | 10,014.51 | 12,274.85 | 14,404.18 | 21,193.80
1995 | 7,340.81 | 8,788.33 | 10,287.78 | 12,679.10 | 14,447.22 | 21,289.89
1997 | 7,126.13 | 9,182.97 | 10,341.33 | 12,694.83 | 14,648.83 | 21,839.22
Average | 7,152.00 | 8,772.69 | 10,214.54 | 12,549.59 | 14,500.08 | 21,440.97
Food at home:
1994 | 2,219.92 | 2,437.04 | 2,597.85 | 2,833.99 | 3,175.54 | 3,797.84
1995 | 2,205.73 | 2,732.23 | 2,611.14 | 2,906.99 | 3,358.72 | 3,871.65
1997 | 2,155.29 | 2,634.17 | 2,700.57 | 3,061.75 | 3,221.35 | 3,947.54
Average | 2,193.65 | 2,601.15 | 2,636.52 | 2,934.24 | 3,251.87 | 3,872.34
Food away from home:
1994 | 822.30 | 1,089.35 | 1,334.07 | 1,820.82 | 2,211.78 | 3,383.08
1995 | 866.36 | 1,148.01 | 1,454.82 | 1,803.04 | 2,139.09 | 3,265.04
1997 | 850.96 | 1,129.49 | 1,408.37 | 1,826.26 | 2,208.13 | 3,334.44
Average | 846.54 | 1,122.28 | 1,399.09 | 1,816.71 | 2,186.33 | 3,327.52
Alcohol:
1994 | 135.15 | 215.61 | 287.46 | 347.42 | 327.07 | 495.08
1995 | 194.58 | 179.17 | 218.69 | 242.44 | 378.37 | 568.80
1997 | 127.94 | 189.83 | 255.66 | 319.14 | 362.58 | 562.22
Average | 152.56 | 194.87 | 253.94 | 303.00 | 356.01 | 542.03
Domestic Service:
1994 | 85.17 | 111.05 | 203.94 | 235.13 | 310.43 | 489.65
1995 | 111.01 | 126.23 | 166.25 | 343.84 | 349.86 | 473.43
1997 | 135.46 | 140.64 | 173.64 | 179.50 | 271.20 | 557.40
Average | 110.55 | 125.97 | 181.28 | 252.82 | 310.50 | 506.83
Furnishings & household operations:
1994 | 1,128.53 | 1,178.62 | 1,521.80 | 1,938.32 | 2,574.21 | 4,075.65
1995 | 1,109.71 | 1,246.51 | 1,649.53 | 1,999.62 | 2,229.32 | 4,360.44
1997 | 1,142.56 | 1,394.61 | 1,559.08 | 2,066.86 | 2,519.05 | 4,160.24
Average | 1,126.93 | 1,273.25 | 1,576.80 | 2,001.60 | 2,440.86 | 4,198.78
Clothing:
1994 | 790.15 | 1,079.54 | 1,464.58 | 1,672.99 | 1,890.64 | 3,188.54
1995 | 923.98 | 1,186.11 | 1,469.03 | 1,658.21 | 2,075.29 | 3,128.63
1997 | 771.06 | 1,183.65 | 1,363.48 | 1,772.40 | 1,778.08 | 3,041.32
Average | 828.4 | 1,149.77 | 1,432.36 | 1,701.20 | 1,914.67 | 3,119.50
Recreation:
1994 | 828.97 | 1,060.46 | 1,342.40 | 1,741.22 | 2,128.85 | 3,451.76
1995 | 988.13 | 1,015.06 | 1,357.80 | 1,942.08 | 2,113.61 | 3,445.93
1997 | 924.79 | 1,174.72 | 1,414.87 | 1,672.88 | 2,223.76 | 3,794.38
Average | 913.96 | 1,083.41 | 1,371.69 | 1,785.39 | 2,155.41 | 3,564.02
Personal Care:
1994 | 256.43 | 286.31 | 348.68 | 454.00 | 491.54 | 693.28
1995 | 272.68 | 299.08 | 362.99 | 450.49 | 541.39 | 685.06
1997 | 329.05 | 402.15 | 497.08 | 593.70 | 571.42 | 836.32
Average | 286.05 | 329.18 | 402.92 | 499.40 | 534.78 | 738.22
Tobacco:
1994 | 222.20 | 250.93 | 280.57 | 340.50 | 295.12 | 278.18
1995 | 198.73 | 275.38 | 309.00 | 324.43 | 274.74 | 297.88
1997 | 248.16 | 271.68 | 263.44 | 320.89 | 286.42 | 287.99
Average | 223.03 | 266.00 | 284.34 | 328.61 | 285.43 | 288.02
Professional Services:
1994 | 500.25 | 637.86 | 633.16 | 890.46 | 999.00 | 1,340.74
1995 | 469.90 | 580.55 | 688.53 | 1,007.96 | 986.83 | 1,193.04
1997 | 440.86 | 662.03 | 705.14 | 881.45 | 1,206.84 | 1,317.38
Average | 470.34 | 626.81 | 675.61 | 926.62 | 1,064.22 | 1,283.72
Housing:
1994 | 5,231.62 | 5,948.47 | 6,764.14 | 7,878.29 | 9,000.79 | 12,785.95
1995 | 5,523.22 | 6,036.42 | 6,602.85 | 8,126.79 | 9,423.94 | 13,031.92
1997 | 5,600.14 | 6,512.21 | 7,049.74 | 8,407.00 | 10,626.32 | 13,497.32
Average | 5,451.66 | 6,165.70 | 6,805.58 | 8,137.36 | 9,683.68 | 13,105.07
Transportation:
1994 | 2,757.80 | 4,313.27 | 5,598.36 | 6,010.98 | 8,886.15 | 10,415.29
1995 | 3,326.35 | 4,016.68 | 5,281.03 | 6,411.15 | 7,505.49 | 10,725.91
1997 | 3,145.83 | 4,234.05 | 5,248.86 | 7,139.14 | 8,443.90 | 10,957.66
Average | 3,076.66 | 4,188.00 | 5,376.08 | 6,520.42 | 8,278.51 | 10,699.62
Private transportation:
1994 | 2,560.05 | 4,021.24 | 5,343.02 | 5,696.30 | 8,493.93 | 9,583.58
1995 | 3,141.90 | 3,812.35 | 5,051.61 | 6,087.00 | 7,181.50 | 9,948.58
1997 | 2,996.28 | 4,017.36 | 4,992.24 | 6,851.42 | 8,086.29 | 10,183.37
Average | 2,899.41 | 3,950.32 | 5,128.96 | 6,211.57 | 7,920.57 | 9,905.18
Air fares & other transportation expenses:
1994 | 197.75 | 292.03 | 255.34 | 314.68 | 392.22 | 831.71
1995 | 184.45 | 204.33 | 229.42 | 324.15 | 323.99 | 777.33
1997 | 149.55 | 216.69 | 256.62 | 287.72 | 357.61 | 774.29
Average | 177.25 | 237.68 | 247.13 | 308.85 | 357.94 | 794.44
Miscellaneous:
1994 | 2,574.86 | 3,285.99 | 4,378.03 | 6,077.48 | 7,606.33 | 13,486.24
1995 | 2,572.70 | 3,626.25 | 4,410.77 | 5,771.32 | 7,520.24 | 13,325.24
1997 | 2,586.22 | 3,756.39 | 4,956.00 | 5,797.64 | 7,733.97 | 13,397.80
Average | 2,577.93 | 3,556.21 | 4,581.60 | 5,882.15 | 7,620.18 | 13,403.09
Education, K-12, Private:
1994 | 7.13 | 47.92 | 41.54 | 58.93 | 79.83 | 216.02
1995 | 38.05 | 9.99 | 45.96 | 39.93 | 75.34 | 252.12
1997 | 13.92 | 32.62 | 113.72 | 60.22 | 115.60 | 222.99
Average | 19.70 | 30.18 | 67.07 | 53.03 | 90.26 | 230.38
Health care:
1994 | 1,484.32 | 1,666.38 | 1,578.60 | 1,761.97 | 2,007.63 | 2,447.22
1995 | 1,485.92 | 1,612.11 | 1,724.73 | 1,666.17 | 1,959.98 | 2,329.26
1997 | 1,562.88 | 1,830.30 | 1,917.78 | 1,819.54 | 2,052.42 | 2,434.81
Average | 1,511.04 | 1,702.93 | 1,740.37 | 1,749.23 | 2,006.68 | 2,403.77
Cash contributions:
1994 | 396.39 | 455.67 | 771.77 | 1,049.71 | 1,005.01 | 2,428.04
1995 | 452.91 | 804.69 | 730.13 | 816.26 | 1,046.00 | 2,171.79
1997 | 380.68 | 827.79 | 998.84 | 841.16 | 1,176.10 | 1,934.48
Average | 409.99 | 696.05 | 833.58 | 902.38 | 1,075.70 | 2,178.10
Personal insurance:
1994 | 687.02 | 1,116.02 | 1,986.12 | 3,206.87 | 4,513.86 | 8,394.96
1995 | 595.82 | 1,199.46 | 1,909.95 | 3,248.96 | 4,438.92 | 8,572.07
1997 | 628.74 | 1,065.68 | 1,925.66 | 3,076.72 | 4,389.85 | 8,805.52
Average | 637.19 | 1,127.05 | 1,940.58 | 3,177.52 | 4,447.54 | 8,590.85
Consumer units:
1994 | 9,780 | 7,851 | 13,975 | 10,922 | 8,280 | 20,609
1995 | 8,725 | 7,724 | 12,643 | 10,648 | 8,191 | 20,952
1997 | 9,096 | 7,424 | 12,415 | 10,392 | 7,949 | 24,635
Percentage of Owners with Mortgage:
1994 | 14% | 17% | 31% | 44% | 53% | 68%
1995 | 14% | 24% | 31% | 42% | 52% | 70%
1997 | 14% | 20% | 26% | 40% | 51% | 68%
Percentage of Renters:
1994 | 49% | 47% | 42% | 34% | 25% | 15%
1995 | 49% | 43% | 39% | 35% | 26% | 13%
1997 | 47% | 43% | 42% | 38% | 28% | 15%
Owners with Mortgages as Percentage of Renters Plus Owners with Mortgages:
1994 | 22.22% | 26.56% | 42.47% | 56.41% | 67.95% | 81.93%
1995 | 22.22% | 35.82% | 44.29% | 54.55% | 66.67% | 83.78%
1997 | 22.95% | 31.75% | 38.24% | 51.28% | 64.56% | 81.57%
Average | 22.46% | 31.38% | 41.67% | 54.08% | 66.39% | 82.43%
Renters as Percentage of Renters Plus Owners with Mortgages:
1994 | 77.78% | 73.44% | 57.53% | 43.59% | 32.05% | 18.07%
1995 | 77.78% | 64.18% | 55.71% | 45.45% | 33.33% | 16.22%
1997 | 77.05% | 68.25% | 61.76% | 48.72% | 35.44% | 18.43%
Average | 77.54% | 68.62% | 58.33% | 45.92% | 33.61% | 17.57%
*Data may not be statistically significant.

Appendix 5—Item Descriptions

Accounting services—Hourly rate for individual tax work (not business). Obtain rate for preparing Federal 1040 and Schedule A tax forms with typical itemized deductions. Price separately and note in comments the charge for preparing equivalent State or local tax forms.

Apples, fresh—Price per lb of apples, loose (not in bag). If only bagged apples are available, report the weight of the bag. Use: Red delicious, Golden delicious.

Area rug—Catalog Item. 8 × 11 braided rug, 100% wool or wool blend. Include shipping and handling. Use: JC Penney.

ATV—All terrain sports vehicle with 4-wheel drive and a 250 to 300 CC (approximate size) engine. Do not price industrial ATVs (similar to sports model but heavier duty) or Arctic Cat models. Use: Honda TRX399FW, Suzuki 250LT4WDT, Polaris W968040.

Automobile finance—Interest rate for a 4-year loan based on a down payment of 20 percent. Assume the loan applicant is a current bank customer who will make payments by cash/check and not by automatic deduction from the account.

Baby food—4 oz jar strained vegetables or fruit. Use: Gerber Second Foods, Heinz.

Babysitter—Use minimum hourly wage appropriate to area.

Bacon, sliced—16 oz (1 lb) package USDA grade, regular sliced bacon. Do not price Canadian bacon, extra thick sliced, or extra lean. Use: Oscar Mayer, Hormel, Armour.

Baking dish—8″ square glass baking dish (any color), no cover or lid. Use: Pyrex, Anchor Hocking.

Bananas, fresh—1 lb of bananas. If sold by bunch, report price and weight of bunch. Use: Available Variety.

Basic cable service—Rate for one month of lowest level of service for cable TV. Report the number of channels offered. If service provides 12 or fewer channels, price the next level of service. Do not include hookup charges or premium (e.g., movie) channels. Convert monthly cost to price per channel, per month.

Bath towel—Catalog Item. 27 × 50″ bath towel made of 100% cotton. Include shipping and handling. Use: JC Penney Fieldcrest Royal Velvet.

Bathroom caulking—5.5 oz plastic tube (not caulking gun type) of latex white bathroom caulking. Use: DAP Kwik Seal, Red Devil.

Bed sheet set—Catalog Item. One flat queen-size no iron cotton/polyester percale sheet (200 thread count). Include shipping and handling. Use: JC Penney Home Collection.

Bedroom set—Catalog Item. Five-piece oak bedroom set; vertical mirror, triple dresser, five-drawer chest, nightstand, full/queen headboard. Include shipping and handling. Use: JC Penney.

Beer at home—Six-pack of 12 oz cans (Puerto Rico—10 oz cans). Do not price refrigerated beer unless that is the only type available. Use: Budweiser.

Beer away—One glass of Budweiser/Miller Lite beer. Use: Same restaurant where dinner price is obtained.

Board game—Do not price deluxe edition. Use: Monopoly, Sorry, Scrabble.

Book—Store price (not publisher's price unless that is the store price) for top selling paperback. Use: Special Delivery, Cold Mountain, Devine.

Bottled water—One gallon (128 fl oz) bottled spring water. Do not price sparkling or distilled water. Use: Store brand.

Bowling—One game of open (or non-league) 10-pin bowling on Saturday night. Exclude shoe rental. If priced by the hour, report the estimated number of games per hour. Do not price duck-pin bowling.

Boy's jeans—Regular fit (size 9-14), inexpensive jeans. Do not price bleached, stone-washed, or designer jeans. Use: Wrangler, Rustlers.

Boy's polo shirt—Knit polo shirt with collar, solid color, preferably without embroidered emblem. Size 7-14. Price department store brand not Izod, Polo or equivalents. Use: JC Penney, Sears.

Boy's t-shirt—Screen-printed t-shirt commonly worn by boys ages 8 thru 10 (size 7-14). Pullover with crew neck, short sleeves and polyester/cotton blend. Use: Ocean Pacific, Team Shirts (NFL), Miller.

Bread, white—16 oz loaf of sliced white bread. Do not price store brand. Use: Wonder, Sunbeam.

Breakfast—One breakfast consisting of 2 strips of bacon or 2 sausages, 2 eggs, toast, and coffee or juice. Report percentages added for tax. Use: Denny's, Holiday Inn type, IHOP type.

Broker rental low—Monthly rent for three room, one bedroom, one bath apartments (average size roughly 600 sq ft.). Obtain three price estimates of the prevailing range of rental rates in area (low, median & high). To the extent practical, obtain square footage, age of the unit, total room count, whether utilities are included, and special amenities.

Broker rental mid—Monthly rent for four room, two bedroom, one bath apartments (average size roughly 900 sq ft.). Obtain three price estimates of the prevailing range of rental rates in area (low, median & high). To the extent practical, obtain square footage, age of the unit, total room count, whether utilities are included, and special amenities.

Broker rental upr—Monthly rent for four room, two bedroom, two bath townhouse or detached house (average size roughly 1100 sq ft.). Obtain three price estimates of the prevailing range of rental rates in area (low, median & high). To the extent practical, obtain square footage, age of the unit, total room count, whether utilities are included, and special amenities.

Camera film—35 millimeter, 24 exposure, 100 ASA Kodak camera film in single pack. Use: Kodak, Fuji.

Candy bar—One regular size candy bar. Weight could range from 1.55 oz to 2.13 oz. Do not price king-size or multi-pack candy bars. Use: Snickers, Hersheys, Mars.

Canned soup—One can Campbell's soup, regular size (approximately 10 oz). Do not price hearty, reduced fat or salt free varieties. Use: Campbell's Vegetable, Campbell's Chicken Noodle.

Celery, fresh—Price per pound for celery. Do not price celery hearts or Pascal type celery. If celery is sold only by the bunch, report the price and the weight of an average bunch. Find equivalent size bunches at each store. Use: Available Brand.

Cereal—20 oz box of cereal. Do not price significantly larger or smaller size. Use: Post Raisin Bran, Kellogg's Raisin Bran.

Charge card annl fee—Annual fee on major charge card through local bank. Note: Finance charges are reported as Charge Card Finance (see item description immediately below). Both charges must be obtained for the same card. Use: Mastercard, Visa.

Charge card finance—Finance charges on a major charge card through a local bank. Record Annual Percentage Rate. Report the financial charge on the first month's balance of $1500. Do not include principal payments. Note: Annual fees are reported as a Charge Card Annual Fee (see item description immediately above). Both charges must be for the same card. Do not price special introductory rates. Use: Mastercard, Visa.

Cheddar cheese—10 oz package cheese. Price mild cheddar if available. Use: Kraft, Cracker Barrel, Tillamook.

Chevy AFT change—Automatic transmission fluid change for a 1-year-old Chevrolet Blazer, similar to current year model. Include parts and labor for the following: Drain and replace transmission fluid and test vehicle. Include filter and pan gasket replacement.

Chevy blazer—Chevrolet Blazer, current year model, T-Series, 2-door, 4-wheel drive, 4.3 liter, 6 cylinder. Use: Chevrolet Blazer T10.

Chevy coolant serv—Flush and fill engine coolant in a 1-year-old Chevrolet Blazer, similar to current year model. Include parts and labor for the following: Remove old coolant, flush contaminants, and replace with new coolant.

Chevy CVJ boots—Replacement cost of the inner and outer CVJ (constant velocity joint) boots on both front wheels for a 3-year old Chevrolet Blazer, T-Series, 2-Door, 4-wheel drive, 4.3 liter, 6 cylinder.

Chevy license/reg—Title fee, lien fee, passenger vehicle registration fees, plate fees, administration/clerical/other fees, and any local added fees for a current year Chevrolet Blazer, T-Series, 2-door, 4-wheel drive, 4.3 liter, 6 cylinder.

Chevy min insurance—DC AND VI ONLY. Assume that vehicles are used in commuting 15 miles one-way per day, 15,000 miles per year, and that the driver is a 35-year-old married male with no accidents or violations in the last 5 years. Include related fees and taxes. Include applicable safety feature discounts. COVERAGES (BI minimum avail., PD minimum, Med minimum or PIP minimum, and UM minimum. Com 250 deductible. Col 500 ded. If these deductibles are not avail., price the policy with the closest coverage.

Chevy misc taxes—Annual miscellaneous tax (e.g., personal property tax, use tax, etc) for a current year model Chevrolet Blazer, T-Series, 2-door, 4-wheel drive, 4.3 liter, 6 cylinder. Report how rate is determined and formula for new vehicle purchase and for subsequent years (2 to 5). Explain billing.

Chevy muffler—Complete muffler system for a 4-year-old Chevrolet Blazer, T-Series, 2-door, 4-wheel drive, 4.3 liter, 6 cylinder. Include parts and labor for the following: Install all parts after the catalytic converter. These parts include mid pipes, clamps, muffler, and tail pipes.

Chevy oil change—Oil change for a 1-year-old Chevrolet Blazer, T-Series, 2-door, 4-wheel drive, 4.3 liter, 6 cylinder. Include parts and labor for the following: Drain old oil, replace oil filter and refill with appropriate number of qts of 10W30 SG grade oil. If SG grade not available, price SF grade oil.

Chevy reg insurance—Assume that vehicles are used in commuting 15 miles one-way per day, 15,000 miles per year and that the driver is a 35-year-old married male with no accidents or violations in the last 5 years. Include related expense fees and taxes. Include applicable safety feature discounts. COVERAGES (BI 100/300,000 PD 25,000 Med 15,000 or PIP 50,000 UM 100/300,000. Com 100 deductible. Col 250 deductible.). If these deductibles are not available, price the policy with the closest coverage.

Chevy regular tires—Black side wall tires size P205/75R15 for Chevrolet Blazer. Use: Goodyear Wrangler AT, Michelin XCHF, BF Goodrich Radial TA.

Chevy snow tire—Studded snow tire size P205/75R15 for the Chevy Blazer. Use: Goodyear Ultra Grip, Michelin XM+S ALPIN, BF Goodrich Trailmaker Plus.

Chevy tire change—Remove street tire and mount snow tire. Model adjusts for 4 tires.

Chevy tune-up—Basic tune-up for a 1-year-old Chevrolet Blazer. Include replacing spark plugs (do not price platinum), check distributor cap, and rotor. Check and adjust ignition timing, adjust idle, inspect air cleaner. Do not include cost to replace PVC valve, fuel filter or air filter. Sales tax should not be included in price.

Chevy 4-yr value—Retail value of a 4-year-old Chevrolet Blazer.

Chevy windshield rpl—Windshield replacement on 1-year-old Chevy Blazer. Ask outlet about the frequency of windshield replacement and record in comments. Price at specialty shop or, if not available, at car dealer.

Chicken, whole—Price per pound of USDA grade fresh whole fryer chicken. Price store brand if available, otherwise record brand. Do not price family-pack, value-pack, super-saver pack or equivalent; frozen chicken or roasters. Use: Whole fryer.

China—Corelle Abundance pattern tableware set consisting of 20 pieces: 4 dinner plates, 4 luncheon plates, 4 bowls, 4 cups, and 4 saucers. The pattern is beige with a fruit and flower motif. Use: Corelle Impressions, New Corelle.

Cigarettes king size—One soft pack of filter kings. Do not price generic brand. Use: Winston, Marlboro, Salem.

Coffee, ground—13 oz can ground coffee. Do not price decaffeinated or special roasts. Use: Folger's, Maxwell House, Hills Bros.

Coin laundry—One regular-size load of laundry using top loading commercial washing machine. Do not include cost of drying.

Color television—20″ table model color TV with a remote, auto channel search, closed captions, sleep timer, on-screen channel/time and menus, channel flashback, and 181 channel tuning. Use: Sony KV20S40, JVC AV20820, Panasonic CT20G23, or brand equivalents.

Compact disc—Current best-selling CD. Do not price double CDs. Use: Armageddon Soundtrack, Backstreet Boys, Come On Over.

Compact disc player—5-disc CD player with rotary changer system, 10 key access, 32 track programming, 8 times over sampling, and a remote. Use: Sony CDP-CE315, JVC XLF254BK, Technics SL-PD888.

Contact lenses—1-year supply of soft 2-week replacement contact lenses. Use: Medalists, Sequence, AcuVue.

Cookies—18 or 20 oz package. Use: Nabisco Oreo Cookies, Keebler Chips Deluxe, Nabisco Chips Ahoy.

Cooking oil—48 fl oz bottle. Use: Crisco, Wesson.

Day-care—One month of day-care for a 3-year-old child (5 days a week, about 10 hours per day). If monthly rate is not available: (1) Obtain weekly rate and record in the comment section (2) multiply weekly rate by 4.33 to obtain monthly rate. Price at day care center in a Federal building (but not on a military base) if available.

Dentist clean/check—Rate for x-rays, exam and prophylaxis (light scaling and polishing) or cleaning of teeth without special treatment of gums or teeth. Do not price initial visit. Do not price specialist or oral surgeon.

Dining table—Catalog Item. Pedestal oak veneer tabletop with 4 standard spindled hardwood chairs. Include shipping and handling. Use: JC Penney.

Dinner—One dinner consisting of a New York strip steak, small side dish (e.g., rice or potato), side salad or salad bar, and coffee. Meal should not include dessert. Use: Denny's type, TGIF type, Chart House type.

Disposable diaper—34 count package of Stage 2 disposable diapers (child 12-18 lbs). Do not price jumbo, overnight, or larger size diapers. Use: Pampers, Huggies.

Doctor office visit—Typical fee for an office visit with patient's regular physician when medical advice or simple treatment is needed. Do not include the charge for a regular physical examination, injections, medication or lab tests (routine brief visit). Price general practitioner, not specialist.

Drill, cord-type—⅜″ reversible, variable speed, 3 amp (1200 rpm. max ) electric drill with 6' cord. Price a typical homeowner's drill. Do not price Dewalt, Milwaukee, or similar brands used by professionals. Use: Black & Decker 7152, Makita 6406, Skil 6340.

Drill, cordless—⅜″ reversible, variable speed, 7 to 9 volt, cordless electric drill with 3-hour recharge. Price a typical homeowner's drill. Do not price Makita, Dewalt, Milwaukee, or similar brands used by professionals. Use: Skil 2380 and 2375.

Dry clean man's suit—2-piece man's suit of typical fabric. Do not price for silk, suede or other unusual materials.

Education, K-12 priv—Tuition rate, books and uniforms (if required) for K-12 education at a private school.

Eggs, large—One dozen. Do not price brown eggs. Use: Local brand, Regional brand, non-local brand.

Electric bill—Average monthly cost including any additional charges. Record the average monthly consumption in KWH, cost for first xxx KWH, and cost over xxx KWH. If monthly amounts vary based on time of year, obtain data on annual basis. In Alaska (except Juneau) assume oil or gas for heating. In all other areas, assume all electric homes.

Electrical outlet—2-plug 15-amp (duplex) grounded electrical outlet. Note: This is a standard wall outlet or plug commonly found in homes. Price single blister pack or cardboard mounted package, and a loose electric outlet or 20 amp outlet. Use: GE, Levitron, Eagle.

Electrical work—Labor cost per hour to add circuit breaker for dishwasher. Description: Cut ¾″ hole in wooden floor for cable and connect dishwasher directly to power box (power box is easy to reach). Obtain estimated time for job and travel. Exclude cost of materials. Ask whether outlet is a licensed contractor.

Fast food—Hamburger meal consisting of Big Mac, medium french fries, and medium soft drink. Pizza meal consisting of personal size cheese pizza (or one slice of cheese pizza) and small soft drink. Do not include salad. Report percentages added for tax. Use: McDonald's type and Pizza Hut type.

Film developing—Cost to process and print 35 millimeter, 24 exposure, 100 ASA color. Regular size (3 x 5) single prints only. Price at local lab with 2-3 day service. Do not price Kodak or mail order service.

Fire extinguisher—Fire extinguisher with a UL rating of 10 BC, 2.5 pound size. Do not price an ABC type extinguisher. Use: Kidde, First Alert.

Fish filet, frozen—Price per pound of frozen ocean whitefish filet. Do not price breaded filets. Do not price family-pack, value-pack, super-saver pack or equivalent. Use: Cod, Haddock, Snapper.

Fish, fresh—Price per pound of salmon steak. Do not price previously frozen (PF) or specially prepared skinless or boneless varieties. Do not price family-pack, value-pack, super-save pack, or equivalent. Use: Salmon steak.

Ford ATF change—Automatic transmission fluid change in a 1-year-old Ford. Include parts and labor for the following: Drain and replace transmission fluid and test vehicle. Include filter and pan gasket replacement.

Ford coolant serv—Flush and fill engine coolant in a 1-year-old Ford Taurus similar to current year model. Include parts and labor for the following: Remove old coolant, flush contaminants, and replace with new coolant.

Ford CVJ boots—Replacement cost of the inner and outer CVJ Boots (constant velocity joint) on both front wheels for a 3-year-old Ford Taurus GL 4-door sedan, 3.0 liter, 6 cylinder.

Ford license/reg—Title fee, lien fee, passenger vehicle registration fees, plate fees, administration/clerical/other fees and any local added fees for a current year Ford Taurus GL 4-door sedan, 3.0 liter, 6 cylinder.

Ford min insurance—DC AND VI ONLY. Assume that vehicles are used in commuting 15 miles one-way per day, 15,000 miles per year and that the driver is a 35-year-old married male with no accidents or violations in the last 5 years. Include related fees and taxes. Include applicable safety feature discounts. COVERAGES (BI minimum avail., PD minimum, Med minimum or PIP minimum, and UM minimum. Com 250 deductible. Col 500 deductible.) If these deductibles are not available, price the policy with the closest coverage.

Ford misc taxes—Annual miscellaneous tax (e.g., personal property tax, use tax, etc) for a current year model Ford Taurus. Report how rate is determined, give formula for new vehicle purchase and for subsequent years (2 to 5). Explain billing.

Ford muffler—Complete muffler system for a 4-year-old Ford Taurus. Include parts and labor for the following: Install all parts after the catalytic converter. These parts include mid pipes, clamps, muffler, and tail pipes.

Ford oil change—Oil change for a 1-year-old Ford Taurus. Include parts and labor for the following: Drain old oil, replace oil filter and refill with appropriate number of quarts of 10W30 SG grade oil. If SG grade not available, price SF grade oil.

Ford reg insurance—Assume that vehicles are used in commuting 15 miles one-way per day, 15,000 miles per year and that the driver is a 35-year-old married male with no accidents or violations in the last 5 years. Include related fees and taxes. Include applicable safety feature discounts COVERAGES (BI 100/300,000 PD 25,000 Med 15,000 or PIP 50,000 UM 100/300,000. Com 100 deductible. Col 250 ded.). If these deductibles are not available, price the policy with the closest coverage available.

Ford regular tires—Black side wall tire size P205/65R15 for the Ford Taurus GL. Use: Goodyear Invicta GL, Michelin XW4, BF Goodrich Touring TA.

Ford snow tire—Studded snow tire size P205/65R15 for the Ford Taurus GL. Use: Goodyear Ultra Grip, Michelin XM+S ALPIN, BF Goodrich Trailmaker Plus.

Ford Taurus—Ford Taurus, current year model, GL 4-door sedan, 3.0 liter, 6 cylinder.

Ford Taurus—Ford Taurus, current year model, GL 4-door sedan, 3.0 liter, 6 cylinder.

Ford tire change—Remove street tire and mount snow tire. Model adjusts for 4 tires.

Ford tune-up—Basic tune-up for a 1-year-old Ford Taurus GL. Include replacing spark plugs (do not price platinum), check distributor cap, and rotor. Check and adjust ignition timing. Adjust idle speed. Inspect air cleaner. Do not include cost to replace PVC valve, fuel filter or air filter. Sales tax should not be included in price.

Ford 4-yr value—Retail value of a 4-year-old Ford Taurus.

Ford windshield rpl—Windshield replacement on 1-year-old Ford Taurus GL. Ask outlet about the frequency of windshield replacement and record in comments. Price at specialty shop or, if not available, at car dealer.

Frankfurter—16 oz (1 lb) package, all beef, USDA graded. Do not price chicken, turkey, extra lean, or fat free frankfurters. Use: Oscar Mayer, Hormel, Ball Park.

Frozen dinner—One 1.5 oz frozen turkey dinner including whipped potatoes, peas, and fruit compote. Do not price Hungry Man or equivalent extra-portion sizes. Use: Swanson.

Frozen orange juice—12 fl oz orange juice concentrate (makes 48 fl oz). Do not price calcium fortified, pulp free, country style etc. Use: Minute Maid, Sunkist.

Frozen waffles—8 to 10 waffles approximately 11 oz package. Use: Kellogg's Eggo, Aunt Jemina, Hungry Jack.

Fruit drink—64 fl oz glass or plastic bottle. Do not price powdered mixes or individual serving sized drinks. Use: Hawaiian Punch, HI-C regular.

Fruit juice—48 oz glass or plastic bottle of cranberry juice. Do not price frozen or boxed drink or drink in significantly different size bottle. Use: Ocean Spray Cranberry Cocktail, Ocean Spray Cranapple Cocktail.

Funeral services—Cost of direct cremation. Includes removal of remains, local transportation to crematory, necessary body care and minimal services of the staff. Do not include the fee for the crematory, container, or use of facilities and staff.

Gas/oil bill—ALASKA ONLY (except Juneau). Average monthly cost including all charges. Record in comments average monthly consumption in cu. ft./gallons, customer service charge, cost for first cu. ft./gallons, and cost for over first xxx cu. ft/gallons.

Gasoline full serv—Price per gallon for full-service unleaded regular gasoline. Record in comments prevalence of self-serve vs. full-serve pumps.

Gasoline self serv—Price per gallon for self-service unleaded regular gasoline.

Girl's dress—Cotton blend short or long-sleeve dress appropriate for school for ages 8 to 10 (size 7-14). Minimal ornamentation. Use: Amy Too, Disorderly Kids, Swat.

Girl's jeans—Basic plain jeans for girls ages 8 to 10 (size 7-14). Use: Lee.

Girl's knit top—Knit short or long sleeve pullover of cotton/poly blend for girls ages 8 to 10 (size 7-14). Use: Basic Edition, Route 66, One Story Up.

Golf—18 holes of golf on a weekend. Do not price par 3 courses. Do not include golf-cart rental, early-bird specials, or off-hours pricing. If only 9-hole rate is available, note and report twice. If only daily rate is available (unlimited number of holes), report the Saturday or Sunday rate. Ask if course is publicly or privately-owned and note in the comment section.

Green beans, canned—14.5 oz can of plain cut green beans. Do not price French style, Italian style, canned vegetable mixtures or similar variations. Use: Del Monte, Green Giant.

Ground beef—Price per pound of fresh USDA graded (select not choice) with no more than 30% fat content. Do not price lean, ground round, frozen beef, etc. Do not price family-pack, value-pack, super-saver pack, or equivalent. Use: Regular ground beef.

Ham, canned—3 lb tin of canned ham. Do not price Hormel's supreme cut ham or equivalent. Use: Hormel, Dubuque, Bar-S.

Hamburger buns—8-count package of sliced enriched white hamburger buns. Do not price store brand, whole wheat or sesame seed buns. Use: Wonder, Sunbeam, Regional brand.

Hammer—Curved claw hammer with a 16 oz head, wood handle, high carbon steel head, black finish. Overall length 13 1/4”. This is a typical homeowner's hammer. Do not price hammers with non-wooden handles or those typically used by carpenters or cabinet makers. Use: Stanley 51616, Sears Craftsman 38312.

Health club—Regular individual membership for 1 year for existing member. Do not include any initial fees assessed only to new members or any special offers provided only to new members. If yearly rate is not available, price per month and note as such. Minimum services must include free weights, cardiovascular equipment, and aerobic classes. Note if pool, tennis, racquet ball, or other significant services are also offered.

Home sale low—Obtain comparable sales between 600 and 1200 square feet. Collect selling price, sale date, and square footage for each comparable. Collect age and room count when available. Obtain data for the most recently available 12 month time frame. 4 rooms, 2 BR, 1 bath; condo or detached house.

Home sale mid—Obtain comparable sales between 1000 and 1600 square feet. Collect selling price, sale date, and square footage for each comparable. Collect age and room count when available. Obtain data for the most recently available 12 month time frame. 5 rooms, 3 BR, 1 bath; detached house.

Home sale upr—Obtain comparable sales between 1400 and 2300 square feet. Collect selling price, sale date, and square footage for each comparable. Collect age and room count when available. Obtain data for the most recently available 12 month time frame. 7 rooms, 3 BR, 2 baths; detached house.

Homeowner insur low—Annual renewal premium for HO-2 type coverage. If the company does not refer to the coverage as HO-2, obtain the cost for a comprehensive coverage that covers all risk for dwelling and named peril as required by mortgage companies in the area for contents with contents at replacement value. as required by mortgage companies in the area.

Homeowner insur mid—Annual renewal premium for HO-2 type coverage. If the company does not refer to the coverage as HO-2, obtain the cost for a comprehensive coverage that covers all risk for dwelling and named peril as required by mortgage companies in the area for contents with contents at replacement value.

Homeowner insur upr—Annual renewal premium for HO-2 type coverage. If the company does not refer to the coverage as HO-2, obtain the cost for a comprehensive coverage that covers all risk for dwelling and named peril as required by mortgage companies in the area for contents with contents at replacement value.

Honda ATF change—Automatic transmission fluid change in a 1-year-old Honda Civic DX. Include parts and labor for the following: Drain and replace transmission fluid and test vehicle.

Honda civic—Honda Civic current year model, DX 4-door sedan, 1.5 liter, 4 cylinder.

Honda coolant serv—Flush and fill engine coolant in a 1-year-old Honda Civic DX. Include parts and labor for the following: remove old coolant, flush contaminants, and replace with new coolant.

Honda CVJ boots—Replacement cost of the inner and outer CVJ (constant velocity joint) boots on both front wheels for a 3-year-old Honda Civic DX 4-door sedan, 1.5 liter, 4 cylinder.

Honda license/reg—Title fee, lien fee, passenger vehicle registration fees, plate fees, administration/clerical/other fees and local added fees for a current year Honda Civic DX 4-door sedan, 1.5 liter, 4 cylinder.

Honda min insurance—DC AND VI ONLY. Assume that vehicles are used in commuting 15 miles one-way per day, 15,000 miles per year and that the driver is a 35-year-old married male with no accidents or violations in the last 5 years. Include related fees and taxes. Include applicable safety feature discounts. COVERAGES (BI minimum avail., PD minimum, Med minimum or PIP minimum, and UM minimum. Com 250 deductible Col 500 deductible.) If these deductibles are not available, price the policy with the closest coverage.

Honda misc taxes—Annual miscellaneous tax (e.g., personal property tax, use tax, etc.) for a current year model Honda Civic DX 4-door sedan, 1.5 liter, 4 cylinder. Report how rate is determined and give formula for new vehicle purchase and for subsequent years (2 to 5). Explain billing.

Honda muffler—Complete muffler system for a 4-year-old Honda Civic DX . Include parts and labor for the following: install all parts after the catalytic converter. These parts include mid pipes, clamps, muffler, and tail pipes.

Honda oil change—Oil change for a 1-year-old Honda Civic DX. Include parts and labor for the following: drain old oil, replace oil filter and refill with appropriate number of quarts of 10W30 SG grade oil. If SG grade not available, price SF grade oil.

Honda reg insurance—Assume that vehicles are used in commuting 15 miles one-way per day, 15,000 miles per year and that the driver is a 35-year-old married male with no accidents or violations in the last 5 years. Include related fees and taxes. Include applicable safety feature discounts. COVERAGES (BI 100/300,000 PD 25,000 Med 15,000 or PIP 50,000 UM 100/300,000. Com 100 deductible. Col 250 deductible.) If these deductibles are not available, price the policy with the closest coverage.

Honda regular tires—Black side wall tire size P175/70R13 for the Honda Civic. Use: Goodyear Invicta GL, Michelin LX1, BF Goodrich Touring TA.

Honda snow tire—Studded snow tire size P175/70R13 for Honda Civic DX. Use: Goodyear Ultra Grip, Michelin XM+S ALPIN, BF Goodrich Trailmaker Plus.

Honda tire change—Remove street tire and mount snow tire. Model adjusts for 4 tires.

Honda tune-up—Basic tune-up for a 1-year-old Honda Civic DX. Include replacing spark plugs (do not price platinum), check distributor cap, and rotor. Check and adjust ignition timing. Adjust idle speed. Inspect air cleaner. Do not include cost to replace PVC valve, fuel filter or air filter. Sales tax should not be included in price.

Honda 4-yr value—Retail value of a 4-year old Honda Civic DX.

Honda windshield rpl—Windshield replacement on 1-year-old Honda Civic DX. Ask outlet about the frequency of windshield replacement and record in comments. Price at specialty shop or, if not available, at car dealer.

Hospital attendant—Nightly charge for an attendant (e.g. LPN). Price only if typical hospital service is not equivalent to that found in DC area.

Hospital room—Nightly charge for a semi-private room. Include food and routine care. Does not include cost of operating room, surgery, medicine, lab fees, etc. Do not price speciality rooms, e.g., those in cardiac care units.

Housekeeping service—Job rate for twice per month cleaning. HOUSE: approximately 2,000 sq. ft., family of four (2 adults, 2 children), no pets. Includes 1.5 bathrooms—clean floor, counter, bathtub, toilet. Kitchen—clean floor, counter, cabinets, sink. Living and dining room—dust furniture and vacuum. Two bedroom—dust furniture and vacuum. Note any other routine services and estimated number of hours to complete service. Exclude initial house cleaning service. Ask if price varies if ranch-style or two-story type house (latter would include vacuuming stairs).

Ice cream—½ gallon (2 qts) of vanilla ice cream. Do not price ice milk or frozen yogurt. Use: Store brand.

Ice cream cone—Regular (one scoop) vanilla ice cream on cone. Do not price frozen yogurt or soft-serve ice cream. Use: Baskin-Robbins type, Lapperts type.

Infant's sleeper—One-piece sleeping garment with legs, covering the body including the feet. Use: Gerber, Playskool, Sesame Street.

Insurance, air ambul—Annual premium for air ambulance insurance for family of four.

Interior painting—Job rate to repaint living room (one coat over same color)—12′ x 14′ with 8′ ceiling, 2 standard-sized sash windows, 1 standard-size door. Walls are drywall in good repair with simple wood baseboards and moulding (no crown moulding). Existing paint is flat-white latex, smooth finish, about 3 years old. Trim paint is gloss-white latex enamel, also 3 years old. No surface prep required. Include time estimate for job and travel costs. If only hourly rate available, obtain time estimate. Do not include materials.

Jello gelatin—3 oz box gelatin dessert. Use: Jello, Royal.

Jewelry—One pair 6mm 14K gold ball earrings for pierced ears.

Ketchup—28 oz plastic squeeze bottle. Use: Heinz.

Kitchen faucet—Single control chrome-plated faucet with spray. Solid brass and stainless steel with copper waterways, triple chrome plating, and washerless design. Sprayer sits in a separate hole in the sink. Do not price decorator models. Guaranteed for 2 years or longer. Use: Peerless 8500-ECP, Delta 400, Moen 87511.

Kitchen range—30″ wide electric range. Features: Upswept cook-top, removable coil elements, electronic clock with timer, oven light, delay-start cook control, storage drawer, glass front with see-thru window, self-cleaning oven with two oven racks and a porcelain enamel broiler pan. Use: Maytag MER5530, General Electric JBP26BYWH.

Latex interior paint—One gallon flat-white interior latex paint. Price a national brand with one coat coverage. Use: Dutch Boy, Glidden, Benjamin Moore, Pittsburgh.

Laundry soap—100 fl oz of liquid household laundry detergent. Do not price detergent with bleach or whiteners. Use: Tide, Cheer, Wisk.

Lawn care service—Cut and trim a ¼ acre lot on a weekly basis. Do not include any other yard services (e.g. fertilizing, raking, or watering).

Lawn trimmer—Gas powered 31 CC two-cycle engine, dual feed line, 16 to 17” wide cut. Bump or semi-automatic line feed.

LD call Chicago—Cost of a 10 minute call using AT&T, received in Chicago (use Chicago time) on a weekday at 8:00 p.m.; direct dial from the location being surveyed. Include any Federal, State, local, or excise tax that is applicable. Use: AT&T Regional Service.

Ld call LA—Cost of a 10 minute call using AT&T, received in Los Angeles (use LA time) on a weekday in LA at 8:00 p.m.; direct dial from the location being surveyed. Include any Federal, State, local, or excise tax that is applicable. Use: AT&T Regional Service.

Ld call NYC—Cost of a 10 minute call using AT&T, received in New York (use NY time) on a weekday at 8:00 p.m.; direct dial from the location being surveyed. Include any Federal, State, local, or excise tax that is applicable. Use: AT&T Regional Service.

Legal services—Hourly rate for preparing a simple will or trust. Obtain lawyer fee, not paralegal.

Lettuce, fresh—Price per pound of iceberg lettuce. If sold by the head, report the price and weight of an average head. Find equivalent-size heads at each store. Use: Available Brand.

Lipstick—One tube of lipstick. Use: Revlon Super Lustrous, Revlon Moondrops.

Living room chair—Catalog Item. Flexsteel rocker/recliner. Include shipping and handling. Use: JC Penney.

Lunch—One lunch consisting of a cheeseburger platter with fries and small soft drink. Use: Denny's type, TGIF type, Chart House type.

Lunch meat—8 oz pkg. Do not price all beef variety. Use: Oscar Mayer Bologna, Oscar Mayer Cotto Salami.

Magazine—Store price (not publisher's price unless that is the store price) for a single copy. Use: Time, Newsweek, US News & World Report.

Man's boots—ALASKA AND DC ONLY. 8″ shaft, waterproof leather upper, padded collar (top of shaft), Cambrelle lining, insulated, rubber lug-type sole. Do not price steel toe. Use: Timberland, Sorel, Wolverine.

Man's dress shirt—White or solid color, long sleeve, button cuff, plain collar dress shirt, approximately 35% cotton, 65% polyester. Use: Arrow, Van Heusen, Moose Creek.

Man's haircut—Typical haircut. Do not include wash.

Man's jacket—Catalog Item. TROPICAL AND DC ONLY. Summer weight denim jacket. Relaxed fit and machine washable. Include shipping and handling. Use: JC Penney, Lands' End, L.L. Bean.

Man's jeans—Regular loose fit, non-designer jeans. Do not price bleached, stone-washed or designer jeans. Use: Wrangler, Rustlers.

Man's Parka—Catalog Item. ALASKA AND DC ONLY. Water resistant nylon-outer shell, insulated, nylon lining, removable hood, multiple pockets, drawstring waist. Machine washable. Include shipping and handling. Use: JC Penney, Lands' End, L.L. Bean.

Man's shoes—100% leather wing tips or plain toe. Remaining parts are man-made materials. Lightweight with rubber/EVA sole. Use: Rockport, Bostonian.

Man's suit—Catalog Item. Double-breasted worsted wool, ventless back. Include shipping and handling. Use: JC Penney, Bachrach.

Man's undershirt—White 100% cotton undershirts with short sleeves, set of three. If not in set of three, report the number per package. Use: Fruit of the Loom, Hanes, Northwest Territory.

Margarine—1 lb (4 sticks) regular margarine. Do not price reduced fat variety. Use: Parkay, Fleishmans.

Milk, 2%—One Gallon (128 fl oz). Use: Store brand.

Mortgage interest—Current interest rate for a 30-year loan on the average house assuming 80 percent financing.

Motor scooter—Price for a 50 CC scooter. One seater with electric start, oil injection 2-stroke engine. Use: Yamaha JOG CY 50, Honda Elite SA 50.

Movie theater—Typical adult price for regular length, current-release (currently advertised on television) evening film. Report weekend evening price if different from weekday.

Moving—Hourly rate for a within-city move, two men, enclosed van. Include any van rental fees. Do not include any extra insurance options or specialty packaging options. If more than two men, note number of workers.

Non-aspirin pain rel—60 tablets of extra-strength Tylenol. Do not price caplets or gelcaps.

Non-broker rntl low—Monthly rent for 3 room, 1 BR, 1 bath apartments (average size roughly 600 sq ft.). If possible, obtain square footage, age, room count whether utilities are included and special amenities.

Non-broker rntl mid—Monthly rent for 4 room, 2 BR , 1 bath apartments (average size roughly 900 sq ft.). If possible, obtain square footage, age, room count whether utilities are included and special amenities.

Non-broker rntl upr—Obtain monthly rent for 4 room, 2 BR, 2 bath townhouse or detached house (average size roughly 1100 sq ft.). If possible, obtain square footage, age, room count whether utilities are included and special amenities.

Oranges, fresh—Price per pound of loose Valencia oranges. If only bagged oranges are available, also report the weight of the bag. Use: California Valencia, Florida Valencia.

Parcel post—Cost of mailing a 5 pound package to each of the following cities: Chicago, Los Angeles, New York Use: United States Postal.

Peaches, canned—16 oz can sliced yellow cling peaches. Do not price lite. Use: Libby, Del Monte.

Peas, frozen—16 oz package. Do not price peas with sauce or Green Giant Select. Use: Green Giant, Birdseye, Hanover.

Pen—10-count package round stick medium pen. Use: Bic Round Stic, Paper Mate.

Pest control—Basic pest control maintenance (one visit to control crawling insects, not wood eating), based on the inside of a 1,200 sq. ft. single story home. Price follow-up maintenance only, not the initial application.

Pet food—5.5 oz can of cat food. Use: Purina, 9 Lives, Whiskas.

Piano lessons—Private lesson for a beginner one-half hour in length. Price through a music studio if possible.

Plant food—24 oz container of granulated indoor plant food. Use: Miracle Grow.

Pork chops, bone in—Price per pound of an average size USDA graded (select not choice ) package. Do not price family-pack, value-pack, super-saver pack or equivalent. Do not price frozen chops. Use: Center cut rib chop, Loin chop with bone.

Postage stamp—First Class postage.

Potatoes—1 lb of potatoes. Use: Russet baking and No 2. White.

Real estate tax low—Current real property tax rate, any special charges that are added to the tax bill and any homestead credits that might be deducted from the bill. Report when properties were last assessed and to what base year the tax rate should be applied. Report when rates are certified and when bills are mailed.

Real estate tax mid—Current real property tax rate, any special charges that are added to the tax bill and any homestead credits that might be deducted from the bill. Report when properties were last assessed and to what base year the tax rate should be applied. Report when rates are certified and when bills are mailed.

Real estate tax upr—Current real property tax rate, any special charges that are added to the tax bill and any homestead credits that might be deducted from the bill. Report when properties were last assessed and to what base year the tax rate should be applied. Report when rates are certified and when bills are mailed.

Red roses, fresh cut—One dozen long stemmed, fresh cut red roses. Do not price boxed or arranged.

Refrigerator—No-frost top-mount 20.5 to 21.5 cubic ft. refrigerator with reversible doors, glass shelves, moisture controlled crisper drawers, and meat drawer. Door contains one or more covered compartments and adjustable bins. Freezer has adjustable wire shelves, door bins and ice trays. Do not price models with ice makers, chilled water dispensers, or other extra features. Use: Maytag MTB2154A, General Electric TBX2lIABAA.

Regional newspaper—1 year of home delivery of the largest selling daily regional paper (including Sunday edition) distributed in the area. Do not include tip. In Alaska, price the major Anchorage newspaper. In Hawaii, price the major Honolulu newspaper.

Renter insur low—HO-4 type coverage; assume value of contents at $25,000.

Renter insur mid—HO-4 type coverage; assume value of contents at $30,000.

Renter insur upr—HO-4 type coverage; assume value of contents at $35,000.

Round roast boneless—Price per pound of an average size USDA graded (select not choice) package. Do not price family-pack, value-pack, super-saver pack or equivalent. Do not price frozen roast. Use: Boneless rump, Sirloin tip rolled, Boneless top round.

Round steak boneless—Price per pound of an average size USDA graded (select not choice) package. Do not price family-pack, value-pack, super-saver pack or equivalent. Do not price frozen steak. Use: Boneless beef round, Boneless top round, Boneless bottom rnd.

Round trip Chicago—Lowest round trip ticket to Chicago, IL, with 3-week advance reservation departing and returning midweek. Disregard restrictions, super-saver fares and special promotions. (In reference area, price all flights from National Airport.)

Round trip LA—Lowest round trip ticket to Los Angeles, CA, with 3-week advance reservation, departing and returning midweek. Disregard restrictions, super-saver fares and special promotions. (In reference area, price all flights from National Airport.)

Round trip Miami—Lowest round trip ticket to Miami, FL, with 3-week advance reservation departing and returning midweek. Disregard restrictions, super-saver fares and special promotions. (In reference area, price all flights from National Airport.)

Round trip NYC—Lowest round trip ticket to New York, NY, with 3-week advance reservation departing and returning midweek. Disregard restrictions, super-saver fares and special promotions. (In reference area, price all fares from National Airport.)

Round trip Omaha—Lowest round trip ticket to Omaha, NE, with 3-week advance reservation departing and returning midweek. Disregard restrictions, super-saver fares and special promotions. (In reference area, price all flights from National Airport.)

Round trip Seattle—Lowest round trip ticket to Seattle, WA, with 3-week advance reservation departing and returning midweek. Disregard restrictions, super-saver fares and special promotions. (In reference area, price all flights from National Airport.)

Round trip St. Louis—Lowest round trip ticket to St. Louis, MO, with 3-week advance reservation departing and returning midweek. Disregard restrictions, super-saver fares and special promotions. (In reference area, price all flights from National Airport.)

Salt—26 oz box of iodized salt. Do not price sea-salt, kosher-style salt etc. Use: Morton, Ivory, Regional Brand.

Shampoo—15 ounce bottle of shampoo for normal hair. Use: Suave, VO5, White Rain.

Snack cake—Package of two cellophane wrapped, cream-filled sponge cake deserts. Do not price fresh baked desserts, boxed, or family packs. Use: Hostess Twinkees, Krispy Kreme, Hostess Cupcakes.

Snack food—6 oz bag or box of regular potato chips. Use: Ruffles, Lays.

Soft drink—2 liter, plastic bottle. Use: Coca-Cola, Pepsi.

Spaghetti, dry—16 oz box or bag. Do not price store brand. Use: Creamette, American Beauty Mission.

Sugar, granulated—5 lb bag of granulated cane or beet sugar. Do not price superfine or generic. Use: Non-store brand, Store brand.

Telephone service—Monthly cost for unmeasured touchtone service. Include tax. Do not include options such as call waiting, call forwarding or fees for equipment rental.

Telephone, cellular—Cost of basic monthly cellular phone service plus 10 prime-time 2-minute calls per month. Do not price special offers.

Tennis balls—One can, 3 heavy-duty felt, yellow, tennis balls. Do not price special gas-filled or premium tennis balls. Use: Wilson, Penn.

Tetracycline—Price of 40 capsules of tetracycline, 250 milligram strength. Record whether generic or non-generic. If price differs record both prices in comment area.

Toilet tissue—Regular 4-roll pack. Do not price family-pack, double roll, value-pack, super-saver size package, or equivalent. Use: Cottonelle, Northern, Charmin.

Tomatoes, fresh—Price per pound of medium-size tomatoes. Do not price organic, hydro, plum, or extra fancy tomatoes. Note quality in comments. Use: Available Variety.

Tuna, canned—Chunk light, packed in water (6.0 oz to 6.13 oz). Do not price fancy style. Use: Star Kist, Chicken of the Sea, Bumble Bee.

Two-slice toaster—Two-slice toaster, chrome body, wide slot with pastry defrost setting. Use: Proctor-Silex 22425, Proctor Silex 22430.

Unclog drain—Hourly rate to unclog kitchen sink drain by mechanical means (small snake or auger, etc.). Assume clog is in the plumbing inside the house, not in the yard. Exclude extra charges such as excess travel, overtime, weekend rates or emergencies. If JOB RATE get low-end quote because this is a simple clog.

Vacuum—Upright vacuum cleaner with approximately 12 amps, 120 volts, minimum 5 above-the-floor attachments, height adjustment, regular bag and 20 to 25 foot cord. Use: Eureka 4470 and 4471, Dirt Devil Swivel Glide 86400 and 86410.

Veterinary services—Routine annual exam for a small dog (approx. 25 to 30 lbs.). No booster shots, medication, or other extras such as nail clipping, ear cleaning, etc.

Video recorder—4-head Hi-Fi Stereo. FEATURES: VCR Plus programming, on-screen menu system, multi-lingual, universal remote. Use: Sony SLV678 and SLV778.

Video rental—One video tape, 1-day or minimum rental rate for Saturday night. Non-member fee. Do not price new releases, oldies or classics where price is different from a regular rental.

Washing machine—FEATURES: Super capacity, 3 water temperatures, 8 wash cycles, 3 water levels, white porcelain tub (no stainless steel), self-clean lint filter, fabric softener & bleach dispenser, 2 speed combinations. Use: Maytag LAT9306, General Electric WJX(S)R2080XXX, Whirlpool LSR8233EQ.

Water bill—Average monthly consumption in gallons and dollars (cost for first xxx gallons; cost for over xxx gallons), sewage and related charges, and customer service charge.

Window shade—Catalog Item. Light-filtering unfringed 37.5″ width. Include shipping and handling. Use: JC Penney.

Wine at home—1.5 liter of Chablis blanc. Use: Gallo, Inglenook.

Wine away—One glass of house white wine. Use: Same restaurant where dinner price is obtained.

Woman's accessory—Clutch/checkbook style wallet. Split-grain, cowhide leather. Do not price eel skin, snake skin or other varieties. Use: Princess Gardner, Mundi, Buxton.

Woman's blouse—100 % polyester, white, long sleeve, button front blouse with minimum trim. Use: Laura Scott, Christy Jill, Impressions.

Woman's boots—ALASKA AND DC ONLY. Calf height boot, pile or fleece lining, urethane upper, broad-based 1″ heel, non-skid traction sole, prefer zipper closure if available. Use: Sorel, Naturalizer.

Woman's coat—Catalog Item. ALASKA AND DC ONLY. 100 % wool, double-breasted coat. Include shipping and handling. Use: JC Penney, Chadwicks.

Woman's cut & style—Wash, cut, and styled blow dry. Exclude curling iron if extra. Price hair salons in major department stores and malls.

Woman's dress—Catalog Item. Sheath style dress appropriate for office attire. Dress is fully lined and 100% polyester. Include shipping and handing. Use: JC Penney.

Woman's shoes—TROPICAL AND DC ONLY. Plain pump (not open toed or open back style), tapered 2″ heel matches shoe (not stacked/wooden type or extra thick), leather uppers, the remaining parts are man-made materials. Use: JC Penney, Worthington, Sears Apostrophe and Luv Comfort, Life Stride.

Woman's slacks—Unlined, cotton/polyester blend with or without a belt appropriate for office attire. Do not price elastic waist. Use: Donnkenny, Alfred Dunner, Fundamental Things.

Woman's sweater—Catalog Item. Cotton knit crewneck pullover sweater. Machine washable. Include shipping and handling. Use: JC Penney, Lands' End.

Appendix 6—Principal Pricing Changes

For Home Sale and Rental Communities, see Appendix 8
Current | Previous | Reason
Babysitter, area minimum wage | Hourly rate | Change improves price comparison.
Bath Towel, catalog | Department store | Change improves price comparison.
Bed Sheet, catalog | Department store | Change improves price comparison.
Cigarettes, single pack (convenience store) | Carton, grocery store | Change improves price comparison.
Dryer repair (test) | Not surveyed | Improves appliance repair comparison.
Hospital attendant, nightly charge | Daily charge | Change reflects more common use.
Housekeeping, job rate | Hourly rate | Specification improves price comparison.
Man's insulated undershirt, discount store | Department store | More widely used outlet type.
Man's undershirt, discount store | Department store | More widely used outlet type.
Plywood | Not surveyed | Improves building material selection.
Snack cake, 8-10 cnt, grocery store | 2 pack, convenience store | Change improves price comparison.
Woman's dress, catalog | Department store | Change improves price comparison.
Waffles: 11 oz package or package of 8 | Package of 8 | Change improves price comparison.
Dropped | Frozen fish, lawn trimmer, skiing | Insufficient data.
Not surveyed | Car rental | Test.

Appendix 7—Consumption Goods and Services Analysis

Categories | Category indexes | Lower income: Weights* | Lower income: Subtotal | Middle income: Weights* | Middle income: Subtotal | Upper income: Weights* | Upper income: Subtotal
Anchorage, AK:
1. Food At Home | 119.33 | 27.03 | 32.25 | 24.05 | 28.70 | 21.30 | 25.42
2. Food Away From Home | 102.93 | 13.43 | 13.82 | 14.18 | 14.60 | 14.87 | 15.31
3. Tobacco | 130.23 | 2.82 | 3.67 | 2.34 | 3.05 | 1.90 | 2.47
4. Alcohol | 97.03 | 2.33 | 2.26 | 2.40 | 2.33 | 2.47 | 2.40
5. Furnishings and Household Operations | 109.49 | 15.36 | 16.82 | 16.64 | 18.22 | 17.82 | 19.51
6. Clothing | 108.71 | 13.02 | 14.15 | 13.50 | 14.68 | 13.94 | 15.15
7. Domestic Services | 106.58 | 1.73 | 1.84 | 1.95 | 2.08 | 2.15 | 2.29
8. Professional Services | 106.88 | 7.09 | 7.58 | 6.82 | 7.29 | 6.57 | 7.02
9. Personal Care | 103.12 | 3.91 | 4.03 | 3.77 | 3.89 | 3.64 | 3.75
10. Recreation | 121.90 | 13.27 | 16.18 | 14.35 | 17.49 | 15.34 | 18.70
Total Weights |  | 100.00 |  | 100.00 |  | 100 |
Total Indexes:
Lower |  |  | 112.60 |  |  |  |
Middle |  |  |  |  | 112.33 |  |
Upper |  |  |  |  |  |  | 112.02
Fairbanks, AK:
1. Food At Home | 119.70 | 27.03 | 32.35 | 24.05 | 28.79 | 21.30 | 25.50
2. Food Away From Home | 106.53 | 13.43 | 14.31 | 14.18 | 15.11 | 14.87 | 15.84
3. Tobacco | 125.45 | 2.82 | 3.54 | 2.34 | 2.94 | 1.90 | 2.38
4. Alcohol | 106.36 | 2.33 | 2.48 | 2.40 | 2.55 | 2.47 | 2.63
5. Furnishings and Household Operations | 114.81 | 15.36 | 17.63 | 16.64 | 19.10 | 17.82 | 20.46
6. Clothing | 105.24 | 13.02 | 13.70 | 13.50 | 14.21 | 13.94 | 14.67
7. Domestic Services | 98.31 | 1.73 | 1.70 | 1.95 | 1.92 | 2.15 | 2.11
8. Professional Services | 109.56 | 7.09 | 7.77 | 6.82 | 7.47 | 6.57 | 7.20
9. Personal Care | 107.48 | 3.91 | 4.20 | 3.77 | 4.05 | 3.64 | 3.91
10. Recreation | 130.29 | 13.27 | 17.29 | 14.35 | 18.70 | 15.34 | 19.99
Total Weights |  | 100.00 |  | 100.00 |  | 100.00 |
Total Indexes:
Lower |  |  | 114.97 |  |  |  |
Middle |  |  |  |  | 114.84 |  |
Upper |  |  |  |  |  |  | 114.69
Juneau, AK:
1. Food At Home | 126.62 | 27.03 | 34.23 | 24.05 | 30.45 | 21.30 | 26.97
2. Food Away From Home | 109.41 | 13.43 | 14.69 | 14.18 | 15.51 | 14.87 | 16.27
3. Tobacco | 127.39 | 2.82 | 3.59 | 2.34 | 2.98 | 1.90 | 2.42
4. Alcohol | 110.14 | 2.33 | 2.57 | 2.40 | 2.64 | 2.47 | 2.72
5. Furnishings and Household Operations | 119.83 | 15.36 | 18.41 | 16.64 | 19.94 | 17.82 | 21.35
6. Clothing | 100.45 | 13.02 | 13.08 | 13.50 | 13.56 | 13.94 | 14.00
7. Domestic Services | 105.65 | 1.73 | 1.83 | 1.95 | 2.06 | 2.15 | 2.27
8. Professional Services | 107.46 | 7.09 | 7.62 | 6.82 | 7.33 | 6.57 | 7.06
9. Personal Care | 109.96 | 3.91 | 4.30 | 3.77 | 4.15 | 3.64 | 4.00
10. Recreation | 138.92 | 13.27 | 18.43 | 14.35 | 19.94 | 15.34 | 21.31
Total Weights |  | 100.00 |  | 100.00 |  | 100.00 |
Total Indexes:
Lower |  |  | 118.75 |  |  |  |
Middle |  |  |  |  | 18.56 |  |
Upper |  |  |  |  |  |  | 118.37
Nome, AK:
1. Food At Home | 167.79 | 27.03 | 45.35 | 24.05 | 40.35 | 21.30 | 35.74
2. Food Away From Home | 162.90 | 13.43 | 21.88 | 14.18 | 23.10 | 14.87 | 24.22
3. Tobacco | 136.45 | 2.82 | 3.85 | 2.34 | 3.19 | 1.90 | 2.59
4. Alcohol | 113.45 | 2.33 | 2.64 | 2.40 | 2.72 | 2.47 | 2.80
5. Furnishings and Household Operations | 129.08 | 15.36 | 19.83 | 16.64 | 21.48 | 17.82 | 23.00
6. Clothing | 115.22 | 13.02 | 15.00 | 13.50 | 15.55 | 13.94 | 16.06
7. Domestic Services | 110.89 | 1.73 | 1.92 | 1.95 | 2.16 | 2.15 | 2.38
8. Professional Services | 105.83 | 7.09 | 7.50 | 6.82 | 7.22 | 6.57 | 6.95
9. Personal Care | 111.36 | 3.91 | 4.35 | 3.77 | 4.20 | 3.64 | 4.05
10. Recreation | 161.55 | 13.27 | 21.44 | 14.35 | 23.18 | 15.34 | 24.78
Total Weights |  | 100.00 |  | 100.00 |  | 100.00 |
Total Indexes:
Lower |  |  | 143.76 |  |  |  |
Middle |  |  |  |  | 143.15 |  |
Upper |  |  |  |  |  |  | 142.57
Honolulu, HI:
1. Food At Home | 138.34 | 27.03 | 37.39 | 24.05 | 33.27 | 21.30 | 29.47
2. Food Away From Home | 122.35 | 13.43 | 16.43 | 14.18 | 17.35 | 14.87 | 18.19
3. Tobacco | 118.94 | 2.82 | 3.35 | 2.34 | 2.78 | 1.90 | 2.26
4. Alcohol | 105.07 | 2.33 | 2.45 | 2.40 | 2.52 | 2.47 | 2.60
5. Furnishings and Household Operations | 116.34 | 15.36 | 17.87 | 16.64 | 19.36 | 17.82 | 20.73
6. Clothing | 104.69 | 13.02 | 13.63 | 13.50 | 14.13 | 13.94 | 14.59
7. Domestic Services | 97.91 | 1.73 | 1.69 | 1.95 | 1.91 | 2.15 | 2.11
8. Professional Services | 94.12 | 7.09 | 6.67 | 6.82 | 6.42 | 6.57 | 6.18
9. Personal Care | 99.83 | 3.91 | 3.90 | 3.77 | 3.76 | 3.64 | 3.63
10. Recreation | 113.05 | 13.27 | 15.00 | 14.35 | 16.22 | 15.34 | 17.34
Total Weights |  | 100.00 |  | 100.00 |  | 100.00 |
Total Indexes:
Lower |  |  | 118.38 |  |  |  |
Middle |  |  |  |  | 117.72 |  |
Upper |  |  |  |  |  |  | 117.10
Hilo, HI:
1. Food At Home | 137.49 | 27.03 | 37.16 | 24.05 | 33.07 | 21.30 | 29.29
2. Food Away From Home | 104.45 | 13.43 | 14.03 | 14.18 | 14.81 | 14.87 | 15.53
3. Tobacco | 135.87 | 2.82 | 3.83 | 2.34 | 3.18 | 1.90 | 2.58
4. Alcohol | 103.93 | 2.33 | 2.42 | 2.40 | 2.49 | 2.47 | 2.57
5. Furnishings and Household Operations | 111.57 | 15.36 | 17.14 | 16.64 | 18.57 | 17.82 | 19.88
6. Clothing | 99.56 | 13.02 | 12.96 | 13.50 | 13.44 | 13.94 | 13.88
7. Domestic Services | 83.88 | 1.73 | 1.45 | 1.95 | 1.64 | 2.15 | 1.80
8. Professional Services | 99.85 | 7.09 | 7.08 | 6.82 | 6.81 | 6.57 | 6.56
9. Personal Care | 98.19 | 3.91 | 3.84 | 3.77 | 3.70 | 3.64 | 3.57
10. Recreation | 107.12 | 13.27 | 14.21 | 14.35 | 15.37 | 15.34 | 16.43
Total Weights |  | 100.00 |  | 100.00 |  | 100.00 |
Total Indexes:
Lower |  |  | 114.12 |  |  |  |
Middle |  |  |  |  | 113.08 |  |
Upper |  |  |  |  |  |  | 112.09
Kailua Kona, HI:
1. Food At Home | 138.67 | 27.03 | 37.48 | 24.05 | 33.35 | 21.30 | 29.54
2. Food Away From Home | 114.54 | 13.43 | 15.38 | 14.18 | 16.24 | 14.87 | 17.03
3. Tobacco | 125.05 | 2.82 | 3.53 | 2.34 | 2.93 | 1.90 | 2.38
4. Alcohol | 104.12 | 2.33 | 2.43 | 2.40 | 2.50 | 2.47 | 2.57
5. Furnishings and Household Operations | 107.66 | 15.36 | 16.54 | 16.64 | 17.91 | 17.82 | 19.19
6. Clothing | 109.30 | 13.02 | 14.23 | 13.50 | 14.76 | 13.94 | 15.24
7. Domestic Services | 114.65 | 1.73 | 1.98 | 1.95 | 2.24 | 2.15 | 2.46
8. Professional Services | 106.15 | 7.09 | 7.53 | 6.82 | 7.24 | 6.57 | 6.97
9. Personal Care | 106.17 | 3.91 | 4.15 | 3.77 | 4.00 | 3.64 | 3.86
10. Recreation | 110.47 | 13.27 | 14.66 | 14.35 | 15.85 | 15.34 | 16.95
Total Weights |  | 100.00 |  | 100.00 |  | 100.00 |
Total Indexes:
Lower |  |  | 117.91 |  |  |  |
Middle |  |  |  |  | 117.02
Upper |  |  |  |  |  |  | 116.19
Kauai County, HI:
1. Food At Home | 158.55 | 27.03 | 42.86 | 24.05 | 38.13 | 21.30 | 33.77
2. Food Away From Home | 111.51 | 13.43 | 14.98 | 14.18 | 15.81 | 14.87 | 16.58
3. Tobacco | 123.62 | 2.82 | 3.49 | 2.34 | 2.89 | 1.90 | 2.35
4. Alcohol | 96.92 | 2.33 | 2.26 | 2.40 | 2.33 | 2.47 | 2.39
5. Furnishings and Household Operations | 120.85 | 15.36 | 18.56 | 16.64 | 20.11 | 17.82 | 21.54
6. Clothing | 103.95 | 13.02 | 13.53 | 13.50 | 14.03 | 13.94 | 14.49
7. Domestic Services | 83.64 | 1.73 | 1.45 | 1.95 | 1.63 | 2.15 | 1.80
8. Professional Services | 101.86 | 7.09 | 7.22 | 6.82 | 6.95 | 6.57 | 6.69
9. Personal Care | 118.62 | 3.91 | 4.64 | 3.77 | 4.47 | 3.64 | 4.32
10. Recreation | 115.83 | 13.27 | 15.37 | 14.35 | 16.62 | 15.34 | 17.77
Total Weights |  | 100.00 |  | 100.00 |  | 100.00 |
Total Indexes:
Lower |  |  | 124.36 |  |  |  |
Middle |  |  |  |  | 122.97 |  |
Upper |  |  |  |  |  |  | 121.70
Maui County, HI:
1. Food at Home | 150.10 | 27.03 | 40.57 | 24.05 | 36.10 | 21.30 | 31.97
2. Food Away From Home | 115.59 | 13.43 | 15.52 | 14.18 | 16.39 | 14.87 | 17.19
3. Tobacco | 121.17 | 2.82 | 3.42 | 2.34 | 2.84 | 1.90 | 2.30
4. Alcohol | 103.03 | 2.33 | 2.40 | 2.40 | 2.47 | 2.47 | 2.54
5. Furnishings and Household Operations | 117.89 | 15.36 | 18.11 | 16.64 | 19.62 | 17.82 | 21.01
6. Clothing | 109.61 | 13.02 | 14.27 | 13.50 | 14.80 | 13.94 | 15.28
7. Domestic Services | 87.16 | 1.73 | 1.51 | 1.95 | 1.70 | 2.15 | 1.87
8. Professional Services | 105.42 | 7.09 | 7.47 | 6.82 | 7.19 | 6.57 | 6.93
9. Personal Care | 102.40 | 3.91 | 4.00 | 3.77 | 3.86 | 3.64 | 3.73
10. Recreation | 129.32 | 13.27 | 17.16 | 14.35 | 18.56 | 15.34 | 19.847
Total Weights |  | 100.00 |  | 100.00 |  | 100.00
Total Indexes:
Lower |  |  | 124.43 |  |  |  |
Middle |  |  |  |  | 123.53 |  |
Upper |  |  |  |  |  |  | 122.66
Guam:
1. Food At Home | 134.59 | 27.03 | 36.38 | 24.05 | 32.37 | 21.30 | 28.67
2. Food Away From Home | 120.67 | 13.43 | 16.21 | 14.18 | 17.11 | 14.87 | 17.94
3. Tobacco | 64.70 | 2.82 | 1.82 | 2.34 | 1.51 | 1.90 | 1.23
4. Alcohol | 84.25 | 2.33 | 1.96 | 2.40 | 2.02 | 2.47 | 2.08
5. Furnishings and | 136.07 | 15.36 | 20.90 | 16.64 | 22.64 | 17.82 | 24.25
Household Operations
6. Clothing | 110.96 | 13.02 | 14.45 | 13.50 | 14.98 | 13.94 | 15.47
7. Domestic Services | 77.30 | 1.73 | 1.34 | 1.95 | 1.51 | 2.15 | 1.66
8. Professional Services | 99.36 | 7.09 | 7.04 | 6.82 | 6.78 | 6.57 | 6.53
9. Personal Care | 110.81 | 3.91 | 4.33 | 3.77 | 4.18 | 3.64 | 4.03
10. Recreation | 120.06 | 13.27 | 15.93 | 14.35 | 17.23 | 15.34 | 18.42
Total Weights |  | 100.00 |  | 100.00 |  | 100.00 |
Total Indexes:
Lower |  |  | 120.36 |  |  |  |
Middle |  |  |  |  | 120.33 |  |
Upper |  |  |  |  |  |  | 120.28
Guam Blend:**
1. Food At Home | 101.83 | 27.03 | 27.52 | 24.05 | 24.49 | 21.30 | 21.69
2. Food Away From Home | 120.67 | 13.43 | 16.21 | 14.18 | 17.11 | 14.87 | 17.94
3. Tobacco | 64.70 | 2.82 | 1.82 | 2.34 | 1.51 | 1.90 | 1.23
4. Alcohol | 84.25 | 2.33 | 1.96 | 2.40 | 2.02 | 2.47 | 2.08
5. Furnishings and Household Operations | 129.21 | 15.36 | 19.85 | 16.64 | 21.50 | 17.82 | 23.03
6. Clothing | 108.56 | 13.02 | 14.13 | 13.50 | 14.66 | 13.94 | 15.13
7. Domestic Services | 77.30 | 1.73 | 1.34 | 1.95 | 1.51 | 2.15 | 1.66
8. Professional Services | 99.36 | 7.09 | 7.04 | 6.82 | 6.78 | 6.57 | 6.53
9. Personal Care | 99.33 | 3.91 | 3.88 | 3.77 | 3.74 | 3.64 | 3.62
10. Recreation | 111.73 | 13.27 | 14.83 | 14.35 | 16.03 | 15.34 | 17.14
Total Weights |  | 100.00 |  | 100.00 |  | 100.00 |
Total Indexes:
Lower |  |  | 108.58 |  |  |  |
Middle |  |  |  |  | 109.35 |  |
Upper |  |  |  |  |  |  | 110.05
Puerto Rico:
1. Food At Home | 116.37 | 27.03 | 31.45 | 24.05 | 27.99 | 21.30 | 24.79
2. Food Away From Home | 113.32 | 13.43 | 15.22 | 14.18 | 16.07 | 14.87 | 16.85
3. Tobacco | 74.87 | 2.82 | 2.11 | 2.34 | 1.75 | 1.90 | 1.42
4. Alcohol | 109.87 | 2.33 | 2.56 | 2.40 | 2.64 | 2.47 | 2.71
5. Furnishings and Household Operations | 109.16 | 15.36 | 16.77 | 16.64 | 18.16 | 17.82 | 19.45
6. Clothing | 104.21 | 13.02 | 13.57 | 13.50 | 14.07 | 13.94 | 14.53
7. Domestic Services | 57.76 | 1.73 | 1.00 | 1.95 | 1.13 | 2.15 | 1.24
8. Professional Services | 103.09 | 7.09 | 7.31 | 6.82 | 7.03 | 6.57 6.77
9. Personal Care | 106.65 | 3.91 | 4.17 | 3.77 | 4.02 | 3.64 | 3.88
10. Recreation | 114.33 | 13.27 | 15.17 | 14.35 | 16.41 | 15.34 | 17.54
Total Weights |  | 100.00 |  | 100.00 |  | 100.00 |
Total Indexes:
Lower |  |  | 109.33 |  |  |  |
Middle |  |  |  |  | 109.27 |  |
Upper |  |  |  |  |  |  | 109.18
St. Croix, VI:
1. Food At Home | 127.69 | 27.03 | 34.51 | 24.05 | 30.71 | 21.30 | 27.20
2. Food Away From Home | 122.82 | 13.43 | 16.49 | 14.18 | 17.42 | 14.87 | 18.26
3. Tobacco | 53.92 | 2.82 | 1.52 | 2.34 | 1.26 | 1.90 | 1.02
4. Alcohol | 102.26 | 2.33 | 2.38 | 2.40 | 2.45 | 2.47 | 2.53
5. Furnishings and Household Operations | 134.22 | 15.36 | 20.62 | 16.64 | 22.33 | 17.82 | 23.92
6. Clothing | 103.59 | 13.02 | 13.49 | 13.50 | 13.98 | 13.94 | 14.44
7. Domestic Services | 53.37 | 1.73 | 0.92 | 1.95 | 1.04 | 2.15 | 1.15
8. Professional Services | 121.62 | 7.09 | 8.62 | 6.82 | 8.29 | 6.57 | 7.99
9. Personal Care | 113.40 | 3.91 | 4.43 | 3.77 | 4.28 | 3.64 | 4.13
10. Recreation | 118.08 | 13.27 | 15.67 | 14.35 | 16.94 | 15.34 | 18.11
Total Weights |  | 100.00 |  | 100.00 |  | 100.00 |
Total Indexes:
Lower |  |  | 118.65 |  |  |  |
Middle |  |  |  |  | 118.70 |  |
Upper |  |  |  |  |  |  | 118.75
St. Thomas, VI:
1. Food At Home | 138.12 | 27.03 | 37.33 | 24.05 | 33.22 | 21.30 | 29.42
2. Food Away From Home | 114.63 | 13.43 | 15.39 | 14.18 | 16.25 | 14.87 | 17.05
3. Tobacco | 62.90 | 2.82 | 1.77 | 2.34 | 1.47 | 1.90 | 1.20
4. Alcohol | 93.07 | 2.33 | 2.17 | 2.40 | 2.23 | 2.47 | 2.30
5. Furnishings and Household Operations | 125.64 | 15.36 | 19.30 | 16.64 | 20.91 | 17.82 | 22.39
6. Clothing | 100.85 | 13.02 | 13.13 | 13.50 | 13.61 | 13.94 | 14.06
7. Domestic Services | 58.97 | 1.73 | 1.02 | 1.95 | 1.15 | 2.15 | 1.27
8. Professional Services | 131.69 | 7.09 | 9.34 | 6.82 | 8.98 | 6.57 | 8.65
9. Personal Care | 111.77 | 3.91 | 4.37 | 3.77 | 4.21 | 3.64 | 4.07
10. Recreation | 112.32 | 13.27 | 14.90 | 14.35 | 16.12 | 15.34 | 17.23
Total Weights |  | 100.00 |  | 100.00 |  | 100.00 |
Total Indexes:
Lower |  |  | 118.72 |  |  |  |
Middle |  |  |  |  | 118.15 |  |
Upper |  |  |  |  |  |  | 117.64
*Numbers might not add to 100 due to rounding.
**Local Retail and Commissary/Exchange.

Consumption Goods and Services Analysis—Composites
Location | Weights | Total indexes: Lower income | Total indexes: Middle income | Total indexes: Upper income
Hilo, HI | 75.81 | 114.12 | 113.08 | 112.09
Kailua Kona, HI | 24.19 | 117.91 | 117.02 | 116.19
Total weight | 100.00 |  |  |
Hawaii County, HI |  | 115.04 | 114.03 | 113.08
St. Croix, VI | 48.26 | 118.65 | 118.70 | 118.75
St. Thomas, VI | 51.74 | 118.72 | 118.15 | 117.64
Total weight | 100.00 |  |  |
Virgin Islands |  | 118.69 | 118.42 | 118.18

Appendix 8—OPM Living Community List

| Low | Middle | High
Anchorage, AK:
Homeowner | North Anchorage* | North Anchorage* | South Anchorage*.
Renter | North Anchorage* | North Anchorage* | South Anchorage*.
Fairbanks, AK:
Homeowner | Fairbanks | Fairbanks | Fairbanks.
Renter | Fairbanks | Fairbanks | Fairbanks.
Juneau, AK:
Homeowner | Juneau/Mendenhall | Juneau/Mendenhall | Juneau/Mendenhall.
Renter | Juneau/Mendenhall | Juneau/Mendenhall | Juneau/Mendenhall.
Nome, AK:
Homeowner | Nome | Nome | Nome.
Renter | Nome | Nome | Nome.
Honolulu:
Homeowner | Pearl City | Kailua | Aina Haina.
| Waipahu | Kanehoe | Hawaii Kai.
|  | Mililani Town | Kaimuki.
|  |  | Manoa.
Renter | Kalihi | Aiea | Aina Haina.
| Pearl Harbor Area | Kailua | Hawaii Kai.
|  | Kanehoe | Kaimuki.
|  | Mililani Town | Manoa.
Hawaii County—Hilo:
Homeowner | Hilo | Hilo | Hilo.
Renter | Hilo | Hilo | Hilo.
Hawaii County—Kailua Kona:
Homeowner | Kailua Kona Area | Kailua Kona Area | Kailua Kona Area.
Renter | Kailua Kona Area | Kailua Kona Area | Kailua Kona Area.
Kauai:
Homeowner | Kauai | Kauai | Kauai.
Renter | Kauai | Kauai | Kauai.
Maui:
Homeowner | Maui | Maui | Maui.
Renter | Maui | Maui | Maui.
Guam:
Homeowner | Guam | Guam | Guam.
Renter | Guam | Guam | Guam.
Puerto Rico:
Homeowner | Bayamon | Rio Piedras including VA Hospital Area | Guaynabo.
| Carolina |
Renter | Bayamon | Isla Verde | Condado.
| Carolina | Rio Piedras excluding VA Hospital Area | Guaynabo.
| Rio Piedras excluding VA Hospital Area |
St. Croix:
Homeowner | St. Croix | St. Croix | St. Croix.
Renter | St. Croix | St. Croix | St. Croix.
St. Thomas:
Homeowner | St. Thomas | St. Thomas | St. Thomas.
Renter | St. Thomas | St. Thomas | St. Thomas.
Washington, DC—DC:
Homeowner | Southeast DC | Northeast DC | Northwest DC**.
Renter | Southeast DC | Northeast DC | Northwest DC**.
Washington, DC—MD:
Homeowner | Capitol Heights/Suitland | Gaithersburg/Silver Spring | Rockville.
Renter | Capitol Heights/Suitland | Hyattsville/College Park | Rockville.
Washington, DC—VA:
Homeowner | Woodbridge/Dale City | Springfield | Alexandria.
Renter | Woodbridge/Dale City | Alexandria | Arlington.
*Dividing line between North and South Anchorage is Tudor Road.
**Excludes Georgetown, but includes Dupont Circle, Cleveland Park, and Adams Morgan.

Appendix 9—Historical Home Market Values and Interest Rates

Area | Year | Interest rate (percent) | Income level | Market value | Annual P & I*
Anchorage, AK | 1988 | 10.500 | Lower Middle Upper | $74,218 101,300 117,190 | $6,517.44 8,895.60 10,291.08
| 1989 | 11.125 | Lower Middle Upper | 67,538 93,454 112,532 | 6,235.80 8,628.72 10,390.20
| 1990 | 10.250 | Lower Middle Upper | 60,784 87,071 114,783 | 5,229.00 7,490.40 9,874.32
| 1992 | 9.000 | Lower Middle Upper | 65,700 96,200 139,400 | 5,074.92 7,430.88 10,767.84
| 1993 | 8.125 | Lower Middle Upper | 70,902 99,073 130,815 | 5,053.92 7,061.88 9,324.48
| 1994 | 7.625 | Lower Middle Upper | 72,216 99,099 124,780 | 4,906.92 6,733.56 8,478.60
| 1995 | 8.625 | Lower Middle Upper | 83,286 102,089 134,580 | 6,218.76 7,622.76 10,048.80
| 1996 | 7.125 | Lower Middle Upper | 83,646 112,671 139,689 | 5,409.96 7,287.24 9,034.68
| 1997 | 7.792 | Lower Middle Upper | 86,859 119,561 149,073 | 5,997.96 8,256.24 10,294.20
| 1998 | 6.875 | Lower Middle Upper | 92,484 123,136 154,139 | 5,832.48 7,765.56 9,720.84
Fairbanks, AK | 1988 | 10.500 | Lower Middle Upper | 64,696 93,191 123,467 | 5,681.28 8,183.52 10,842.24
| 1989 | 11.125 | Lower Middle Upper | 57,553 88,424 115,101 | 5,313.96 8,164.32 10,627.44
| 1990 | 10.250 | Lower Middle Upper | 50,604 83,619 107,143 | 4,353.24 7,193.40 9,217.08
| 1992 | 9.000 | Lower Middle Upper | 70,851 101,400 137,000 | 5,472.84 7,832.52 10,582.44
| 1993 | 8.125 | Lower Middle Upper | 69,498 101,478 115,787 | 4,953.84 7,233.36 8,253.24
| 1994 | 7.625 | Lower Middle Upper | 76,302 112,580 127,829 | 5,184.60 7,649.64 8,685.72
| 1995 | 8.708 | Lower Middle Upper | 68,940 84,240 108,426 | 5,186.76 6,337.80 8,157.48
| 1996 | 7.125 | Lower Middle Upper | 72,918 92,625 115,855 | 4,716.12 5,990.76 7,493.16
| 1997 | 8.183 | Lower Middle Upper | 78,804 97,110 122,196 | 5,647.92 6,959.88 8,757.72
| 1998 | 6.938 | Lower Middle Upper | 79,200 110,903 | 5,026.80 7,038.96
Juneau, AK | 1988 | 10.500 | Lower Middle Upper | 76,441 93,787 113,874 | 6,712.68 8,235.96 9,999.84
| 1989 | 11.125 | Lower Middle Upper | 68,797 86,284 106,131 | 6,352.08 7,966.68 9,799.20
| 1990 | 10.250 | Lower Middle Upper | 78,429 99,227 123,324 | 6,746.88 8,536.08 10,609.08
| 1992 | 9.000 | Lower Middle Upper | 89,470 114,400 146,300 | 6,911.04 8,836.68 11,300.76
| 1993 | 8.125 | Lower Middle Upper | 87,570 115,518 134,232 | 6,241.92 8,234.04 9,568.08
| 1994 | 7.625 | Lower Middle Upper | 92,826 117,364 140,760 | 6,307.32 7,974.72 9,564.36
| 1995 | 8.625 | Lower Middle Upper | 102,879 138,723 163,812 | 7,681.80 10,358.16 12,231.48
| 1996 | 7.125 | Lower Middle Upper | 114,255 143,767 169,507 | 7,389.72 9,298.44 10,963.20
| 1997 | 7.792 | Lower Middle Upper | 130,266 162,955 185,011 | 8,995.44 11,252.76 12,775.80
| 1998 | 6.958 | Lower Middle Upper | 126,783 160,927 188,003 | 8,063.16 10,234.68 11,956.68
Nome, AK | 1988 | 10.500 | Lower Middle Upper | 78,763 104,159 125,312 | 6,916.56 9,146.76 11,004.24
| 1989 | 11.125 | Lower Middle Upper | 76,243 100,826 121,302 | 7,039.56 9,309.36 11,199.96
| 1990 | 10.250 | Lower Middle Upper | 73,803 97,600 117,420 | 6,348.96 8,396.16 10,101.12
| 1992 | 9.000 | Lower Middle Upper | 71,100 97,500 122,400 | 5,492.04 7,531.32 9,454.68
| 1993 | 8.125 | Lower Middle Upper | 56,453 77,415 97,186 | 4,023.96 5,518.08 6,927.36
| 1994 | 7.625 | Lower Middle Upper | 82,365 112,948 141,794 | 5,596.56 7,674.60 9,634.68
| 1995 | 8.625 | Lower Middle Upper | 81,711 118,027 154,343 | 6,101.16 8,812.80 11,524.44
| 1996 | 7.125 | Lower Middle Upper | 80,856 119,171 139,213 | 5,229.48 7,707.60 9,003.84
| 1997 | 8.183 | Lower Middle Upper | 99,324 143,468 187,612 | 7,118.52 10,282.32 13,446.12
| 1998 | 8.250 | Lower Middle Upper | 86,479 124,914 163,350 | 6,237.00 9,009.00 11,781.00
Honolulu, HI | 1988 | 11.000 | Lower Middle Upper | 134,388 173,823 335,274 | 12,286.20 15,891.48 30,651.72
| 1989 | 10.500 | Lower Middle Upper | 182,268 231,218 410,550 | 16,005.84 20,304.36 36,052.44
| 1990 | 10.250 | Lower Middle Upper | 248,571 299,702 510,714 | 21,383.52 25,782.12 43,934.42
| 1991 | 9.125 | Lower Middle Upper | 258,300 320,866 501,701 | 20,175.48 25,062.48 39,187.20
| 1992 | 8.125 | Lower Middle Upper | 192,168 323,752 483,820 | 13,697.64 23,076.96 34,486.56
| 1993 | 7.125 | Lower Middle Upper | 243,072 331,006 470,730 | 15,721.20 21,408.48 30,445.44
| 1994 | 9.333 | Lower Middle Upper | 257,814 340,392 466,242 | 20,510.40 27,079.80 37,091.88
| 1996 | 7.025 | Lower Middle Upper | 220,896 303,849 417,095 | 14,144.04 19,455.60 26,706.72
| 1997 | 7.875 | Lower Middle Upper | 213,003 278,759 401,642 | 14,826.48 19,403.52 27,957.00
| 1998 | 7.250 | Lower Middle Upper | 190,800 266,955 399,092 | 12,495.24 17,482.56 26,136.12
Hilo, HI | 1988 | 11.000 | Lower Middle Upper | 68,410 92,371 114,412 | 6,254.28 8,444.88 10,459.92
| 1989 | 10.500 | Lower Middle Upper | 77,386 102,559 122,727 | 6,795.60 9,006.24 10,777.32
| 1990 | 10.250 | Lower Middle Upper | 121,688 108,821 164,283 | 10,468.32 9,361.44 14,132.52
| 1991 | 9.125 | Lower Middle Upper | 134,100 180,700 204,000 | 10,474.44 14,114.28 15,934.20
| 1992 | 8.125 | Lower Middle Upper | 130,743 162,903 197,863 | 9,319.32 11,611.68 14,103.60
| 1993 | 7.125 | Lower Middle Upper | 127,854 173,095 202,018 | 8,269.20 11,195.28 13,065.96
| 1994 | 9.333 | Lower Middle Upper | 114,696 162,500 196,146 | 9,124.92 12,927.96 15,604.80
| 1996 | 7.000 | Lower Middle Upper | 115,750 164,711 183,841 | 7,392.84 10,519.92 11,741.76
| 1997 | 7.792 | Lower Middle Upper | 89,064 139,191 186,983 | 6,150.24 9,611.76 12,912.00
| 1998 | 7.125 | Lower Middle Upper | 90,000 137,436 163,489 | 5,820.96 8,889.00 10,573.92
Kailua Kona, HI | 1988 | 11.000 | Lower Middle Upper | 100,662 137,180 160,692 | 9,202.80 12,541.44 14,691.00
| 1989 | 10.500 | Lower Middle Upper | 112,444 151,973 181,087 | 9,874.32 13,345.56 15,902.16
| 1990 | 10.250 | Lower Middle Upper | 134,609 189,900 225,100 | 11,579.88 16,336.32 19,364.40
| 1991 | 9.130 | Lower Middle Upper | 154,800 204,100 256,700 | 12,096.60 15,949.08 20,059.44
| 1992 | 8.125 | Lower Middle Upper | 159,867 222,950 261,018 | 11,395.32 15,891.84 18,605.28
| 1993 | 7.125 | Lower Middle Upper | 153,666 219,902 261,902 | 9,938.64 14,180.16 16,939.08
| 1994 | 9.333 | Lower Middle Upper | 152,235 215,826 224,128 | 12,111.36 17,170.44 17,830.92
| 1996 | 6.958 | Lower Middle Upper | 144,434 191,923 220,752 | 9,186.12 12,206.40 14,039.88
| 1997 | 8.042 | Lower Middle Upper | 141,552 186,056 219,674 | 10,010.88 13,158.36 15,535.92
| 1998 | 7.375 | Lower Middle Upper | 156,699 180,557 225,284 | 10,389.84 11,971.80 14,937.36
Kauai County, HI | 1988 | 11.000 | Lower Middle Upper | 91,046 124,556 145,581 | 8,323.68 11,387.28 13,309.44
| 1989 | 10.500 | Lower Middle Upper | 103,516 142,818 177,900 | 9,090.24 12,541.56 15,622.32
| 1990 | 10.250 | Lower Middle Upper | 177,351 233,846 295,854 | 15,256.80 20,116.80 25,451.04
| 1991 | 9.125 | Lower Middle Upper | 174,336 229,900 290,800 | 13,617.12 17,957.16 22,714.08
| 1992 | 8.125 | Lower Middle Upper | 171,792 221,624 273,921 | 12,245.28 15,797.28 19,524.96
| 1993 | 7.125 | Lower Middle Upper | 171,964 221,858 274,195 | 11,122.08 14,349.12 17,734.08
| 1994 | 9.333 | Lower Middle Upper | 163,350 222,196 255,000 | 12,995.64 17,677.20 20,287.08
| 1996 | 6.958 | Lower Middle Upper | 176,907 228,147 265,084 | 11,251.32 14,510.28 16,859.40
| 1997 | 8.042 | Lower Middle Upper | 151,551 209,781 235,688 | 10,718.04 14,836.32 16,668.48
| 1998 | 7.292 | Lower Middle Upper | 150,885 191,646 229,534 | 9,922.56 12,603.12 15,094.80
Maui County, HI | 1988 | 11.000 | Lower Middle Upper | 121,107 160,693 202,081 | 11,071.92 14,691.00 18,474.84
| 1989 | 10.500 | Lower Middle Upper | 151,384 200,866 252,601 | 13,293.84 17,639.04 22,182.12
| 1990 | 10.250 | Lower Middle Upper | 174,092 230,996 290,491 | 14,976.36 19,871.64 24,989.64
| 1991 | 9.125 | Lower Middle Upper | 210,651 279,500 351,494 | 16,453.68 21,831.36 27,454.80
| 1992 | 8.125 | Lower Middle Upper | 207,913 275,925 346,925 | 14,820.00 19,667.88 24,728.76
| 1993 | 7.125 | Lower Middle Upper | 180,099 255,476 310,845 | 11,648.28 16,523.40 20,104.56
| 1994 | 9.333 | Lower Middle Upper | 180,000 250,588 278,443 | 14,320.32 19,936.08 22,152.12
| 1996 | 7.000 | Lower Middle Upper | 192,575 260,593 283,138 | 12,299.64 16,643.88 18,083.76
| 1997 | 7.417 | Lower Middle Upper | 182,448 234,429 274,074 | 12,147.36 15,608.28 18,247.80
| 1998 | 7.292 | Lower Middle Upper | 192,636 233,779 263,653 | 12,668.28 15,373.92 17,338.56
Guam | 1988 | 11.000 | Lower Middle Upper | 84,271 103,920 207,287 | 7,704.36 9,500.64 18,950.76
| 1989 | 10.375 | Lower Middle Upper | 93,709 116,079 225,735 | 8,145.12 10,089.48 19,620.72
| 1990 | 10.500 | Lower Middle Upper | 103,174 128,151 244,245 | 9,060.24 11,253.60 21,448.32
| 1991 | 10.125 | Lower Middle Upper | 113,491 140,966 268,670 | 9,662.04 12,001.08 22,873.20
| 1992 | 9.491 | Lower Middle Upper | 130,855 162,534 309,777 | 10,554.60 13,109.88 24,986.28
| 1993 | 7.750 | Lower Middle Upper | 144,738 189,280 258,978 | 9,954.48 13,017.84 17,811.36
| 1994 | 10.050 | Lower Middle Upper | 133,452 188,240 244,375 | 11,290.32 15,925.44 20,674.56
| 1996 | 7.875 | Lower Middle Upper | 130,746 180,074 224,347 | 9,100.80 12,534.36 15,616.08
| 1997 | 7.917 | Lower Middle Upper | 149,292 162,500 212,500 | 10,433.52 11,356.56 14,850.96
| 1998 | 7.500 | Lower Middle Upper | 121,500 162,500 204,000 | 8,155.68 10,907.76 13,693.44
Puerto Rico | 1988 | 10.875 | Lower Middle Upper | 64,485 78,985 114,326 | 5,837.04 7,149.48 10,348.44
| 1989 | 10.375 | Lower Middle Upper | 70,934 86,884 122,329 | 6,165.48 7,551.84 10,632.72
| 1990 | 10.375 | Lower Middle Upper | 78,027 95,572 134,562 | 6,782.04 8,307.00 11,696.04
| 1991 | 8.875 | Lower Middle Upper | 82,800 100,255 141,100 | 6,324.48 7,657.68 10,777.44
| 1992 | 8.125 | Lower Middle Upper | 62,271 84,721 151,946 | 4,438.68 6,038.88 10,830.72
| 1993 | 7.125 | Lower Middle Upper | 61,389 84,084 151,878 | 3,970.44 5,438.28 9,822.96
| 1994 | 8.750 | Lower Middle Upper | 66,843 102,232 143,633 | 5,048.16 7,720.92 10,847.64
| 1996 | 7.792 | Lower Middle Upper | 69,714 107,367 168,385 | 4,814.04 7,414.20 11,627.76
| 1997 | 7.770 | Lower Middle Upper | 73,683 108,849 172,244 | 5,077.32 7,500.60 11,869.08
| 1998 | 6.500 | Lower Middle Upper | 77,859 118,937 175,032 | 4,724.40 7,216.92 10,620.72
St. Croix, VI | 1988 | 12,000 | Lower Middle Upper | 66,051 85,592 145,231 | 6,522.36 8,451.96 14,341.08
| 1989 | 11.750 | Lower Middle Upper | 64,730 83,880 142,326 | 6,272.52 8,128.20 13,791.84
| 1990 | 11.250 | Lower Middle Upper | 80,912 104,850 177,908 | 7,544.28 9,776.28 16,588.32
| 1991 | 10.250 | Lower Middle Upper | 85,281 110,500 187,500 | 7,336.32 9,505.80 16,129.80
| 1992 | 9,500 | Lower Middle Upper | 103,635 151,866 188,037 | 8,365.68 12,258.96 15,178.68
| 1993 | 8,375 | Lower Middle Upper | 112,962 174,161 194,004 | 8,242.44 12,708.00 14,155.92
| 1994 | 9.083 | Lower Middle Upper | 77,409 128,076 210,035 | 6,024.00 9,966.84 16,344.96
| 1996 | 9.042 | Lower Middle Upper | 86,304 124,863 180,796 | 6,691.32 9,680.88 14,017.44
| 1997 | 9.250 | Lower Middle Upper | 78,489 128,076 152,099 | 6,198.84 10,115.04 12,012.24
| 1998 | 8.420 | Lower Middle Upper | 62,793 98,020 193,188 | 4,600.92 7,182.12 14,155.32
St. Thomas, VI | 1988 | 12.000 | Lower Middle Upper | 121,129 153,265 182,929 | 11,961.12 15,134.40 18,063.60
| 1989 | 11.750 | Lower Middle Upper | 126,943 160,622 191,710 | 12,301.20 15,564.84 18,577.32
| 1990 | 11.250 | Lower Middle Upper | 122,500 155,000 185,000 | 11,422.08 14,452.32 17,249.64
| 1991 | 10.250 | Lower Middle Upper | 126,900 180,700 210,800 | 10,916.64 15,544.80 18,134.28
| 1992 | 9.000 | Lower Middle Upper | 128,930 183,591 214,173 | 9,959.04 14,181.24 16,543.56
| 1993 | 8.250 | Lower Middle Upper | 139,680 198,829 231,949 | 10,074.00 14,339.88 16,728.48
| 1994 | 9.083 | Lower Middle Upper | 106,533 190,164 195,381 | 8,290.44 14,798.52 15,204.60
| 1996 | 8.292 | Lower Middle Upper | 137,936 197,134 187,673 | 9,987.00 14,273.16 13,588.08
| 1997 | 8.333 | Lower Middle Upper | 137,936 197,134 187,673 | 10,025.52 14,328.24 13,640.52
| 1998 | 7.000 | Lower Middle Upper | 223,632 193,388 261,902 | 14,283.12 12,351.48 16,727.40
Washington, DC (DC) | 1988 | 10.500 | Lower Middle Upper | 76,327 126,817 202,310 | 6,702.60 11,136.48 17,765.88
| 1989 | 9.625 | Lower Middle Upper | 82,128 140,619 218,495 | 6,701.52 11,474.40 17,829.00
| 1990 | 9.875 | Lower Middle Upper | 87,877 140,974 235,975 | 7,325.52 11,751.84 19,671.24
| 1991 | 9.250 | Lower Middle Upper | 90,104 144,550 242,000 | 7,116.12 11,416.08 19,112.40
| 1992 | 8.313 | Lower Middle Upper | 90,828 127,270 241,230 | 6,589.32 9,233.04 17,500.56
| 1993 | 7.375 | Lower Middle Upper | 93,369 115,021 286,564 | 6,190.80 7,626.48 19,000.56
| 1994 | 8.677 | Lower Middle Upper | 82,242 104,657 305,541 | 6,170.04 7,851.72 22,922.64
| 1996 | 7.625 | Lower Middle Upper | 73,177 110,425 290,563 | 4,972.20 7,503.12 19,743.24
| 1997 | 7.823 | Lower Middle Upper | 56,115 82,940 220,779 | 3,886.56 5,744.52 15,291.24
| 1998 | 6.938 | Lower Middle Upper | 64,827 91,585 236,640 | 4,114.56 5,812.92 15,019.44
Washington, DC (MD) | 1988 | 10.375 | Lower Middle Upper | 73,295 113,498 135,043 | 6,370.68 9,865.20 11,737.80
| 1989 | 10.000 | Lower Middle Upper | 81,357 125,983 149,898 | 6,854.04 10,613.64 12,628.44
| 1990 | 9.875 | Lower Middle Upper | 89,493 138,581 164,888 | 7,460.28 11,552.28 13,745.28
| 1991 | 8.750 | Lower Middle Upper | 93,475 144,748 169,958 | 7,059.48 10,931.88 12,835.80
| 1992 | 8.313 | Lower Middle Upper | 104,198 131,118 207,502 | 7,559.28 9,512.28 15,053.64
| 1993 | 7.375 | Lower Middle Upper | 92,655 118,911 204,264 | 6,143.52 7,884.36 13,543.68
| 1994 | 8.688 | Lower Middle Upper | 90,963 167,349 214,030 | 6,831.24 12,567.72 16,073.40
| 1996 | 6.896 | Lower Middle Upper | 109,369 222,845 224,792 | 6,912.12 14,083.80 14,206.80
| 1997 | 7.920 | Lower Middle Upper | 94,536 160,823 199,648 | 6,608.76 11,242.56 13,956.72
| 1998 | 6.969 | Lower Middle Upper | 94,779 166,049 173,162 | 6,034.56 10,572.24 11,025.12
Washington, DC (VA) | 1988 | 10.500 | Lower Middle Upper | 83,413 94,122 156,059 | 7,324.92 8,265.36 13,704.36
| 1989 | 9,500 | Lower Middle Upper | 90,086 101,652 168,544 | 7,271.88 8,205.60 13,605.24
| 1990 | 10.000 | Lower Middle Upper | 97,293 109,784 182,028 | 8,196.60 9,249.00 15,335.28
| 1991 | 8.938 | Lower Middle Upper | 103,462 117,650 187,000 | 7,947.48 9,037.44 14,364.60
| 1992 | 8.250 | Lower Middle Upper | 100,103 126,315 182,810 | 7,219.56 9,110.04 13,184.52
| 1993 | 7.500 | Lower Middle Upper | 94,905 126,874 181,705 | 6,370.44 8,516.40 12,196.92
| 1994 | 8.698 | Lower Middle Upper | 99,657 167,876 228,191 | 7,490.88 12,618.72 17,152.44
| 1996 | 7.083 | Lower Middle Upper | 108,327 169,472 206,918 | 6,976.80 10,914.84 13,326.60
| 1997 | 7.858 | Lower Middle Upper | 104,364 160,706 229,925 | 7,252.56 11,168.04 15,978.24
| 1998 | 6.948 | Lower Middle Upper | 103,662 160,849 229,024 | 6,586.08 10,219.44 14,550.84

Appendix 10—Historical Housing Data

Year | Weights | Lower amounts | Subtotal | Middle amounts | Subtotal | Upper amounts | Subtotal
Anchorage, AK:
1988 | 6.31 | 6,517.44 | 411.25 | 8,895.60 | 561.31 | 10,291.08 | 649.37
1989 | 6.77 | 6,235.80 | 422.16 | 8,628.72 | 584.16 | 10,390.20 | 703.42
1990 | 8.19 | 5,229.00 | 428.26 | 7,490.40 | 613.46 | 9,874.32 | 808.71
1992 | 7.03 | 5,074.92 | 356.77 | 7,430.88 | 522.39 | 10,767.84 | 756.98
1993 | 7.72 | 5,053.92 | 390.16 | 7,061.88 | 545.18 | 9,324.48 | 719.85
1994 | 8.32 | 4,906.92 | 408.26 | 6,733.56 | 560.23 | 8,478.60 | 705.42
1995 | 10.08 | 6,218.76 | 626.85 | 7,622.76 | 768.37 | 10,048.80 | 1,012.92
1996 | 12.92 | 5,409.96 | 698.97 | 7,287.24 | 941.51 | 9,034.68 | 1,167.28
1997 | 13.78 | 5,997.96 | 826.52 | 8,256.24 | 1,137.71 | 10,294.20 | 1,418.54
1998 | 18.88 | 5,832.48 | 1,101.17 | 7,765.56 | 1,466.14 | 9,720.84 | 1,835.29
Totals | 100.00 |  | 5,670.37 |  | 7,700.46 |  | 9,777.78
Fairbanks, AK:
1988 | 6.31 | 5,681.28 | 358.49 | 8,183.52 | 516.38 | 10,842.24 | 684.15
1989 | 6.77 | 5,313.96 | 359.76 | 8,164.32 | 552.72 | 10,627.44 | 719.48
1990 | 8.19 | 4,353.24 | 356.53 | 7,193.40 | 589.14 | 9,217.08 | 754.88
1992 | 7.03 | 5,472.84 | 384.74 | 7,832.52 | 550.63 | 10,582.44 | 743.95
1993 | 7.72 | 4,953.84 | 382.44 | 7,233.36 | 558.42 | 8,253.24 | 637.15
1994 | 8.32 | 5,184.60 | 431.36 | 7,649.64 | 636.45 | 8,685.72 | 722.65
1995 | 10.08 | 5,186.76 | 522.83 | 6,337.80 | 638.85 | 8,157.48 | 822.27
1996 | 12.92 | 4,716.12 | 609.32 | 5,990.76 | 774.01 | 7,493.16 | 968.12
1997 | 13.78 | 5,647.92 | 778.28 | 6,959.88 | 959.07 | 8,757.72 | 1,206.81
1998 | 18.88 | 5,026.80 | 949.06 | 7,038.96 | 1,328.96 | 7,803.24 | 1,473.25
Totals | 100.00 |  | 5,132.81 |  | 7,104.63 |  | 8,732.71
Juneau, AK:
1988 | 6.31 | 6,712.68 | 423.57 | 8,235.96 | 519.69 | 9,999.84 | 630.99
1989 | 6.77 | 6,352.08 | 430.04 | 7,966.68 | 539.34 | 9,799.20 | 663.41
1990 | 8.19 | 6,746.88 | 552.57 | 8,536.08 | 699.10 | 10,609.08 | 868.88
1992 | 7.03 | 6,911.04 | 485.85 | 8,836.68 | 621.22 | 11,300.76 | 794.44
1993 | 7.72 | 6,241.92 | 481.88 | 8,234.04 | 635.67 | 9,568.08 | 738.66
1994 | 8.32 | 6,307.32 | 524.77 | 7,974.72 | 663.50 | 9,564.36 | 795.75
1995 | 10.08 | 7,681.80 | 774.33 | 10,358.16 | 1,044.10 | 12,231.48 | 1,232.93
1996 | 12.92 | 7,389.72 | 954.75 | 9,298.44 | 1,201.36 | 10,963.20 | 1,416.45
1997 | 13.78 | 8,995.44 | 1,239.57 | 11,252.76 | 1,550.63 | 12,775.80 | 1,760.51
1998 | 18.88 | 8,063.16 | 1,522.32 | 10,234.68 | 1,932.31 | 11,956.68 | 2,257.42
Totals | 100.00 |  | 7,389.65 |  | 9,406.92 |  | 11,159.44
Nome, AK:
1988 | 6.31 | 6,916.56 | 436.43 | 9,146.76 | 577.16 | 11,004.24 | 694.37
1989 | 6.77 | 7,039.56 | 476.58 | 9,309.36 | 630.24 | 11,199.96 | 758.24
1990 | 8.19 | 6,348.96 | 519.98 | 8,396.16 | 687.65 | 10,101.12 | 827.28
1992 | 7.03 | 5,492.04 | 386.09 | 7,531.32 | 529.45 | 9,454.68 | 664.66
1993 | 7.72 | 4,023.96 | 310.65 | 5,518.08 | 426.00 | 6,927.36 | 534.79
1994 | 8.32 | 5,596.56 | 465.63 | 7,674.60 | 638.53 | 9,634.68 | 801.61
1995 | 10.08 | 6,101.16 | 615.00 | 8,812.80 | 888.33 | 11,524.44 | 1,161.66
1996 | 12.92 | 5,229.48 | 675.65 | 7,707.60 | 995.82 | 9,003.84 | 1,163.30
1997 | 13.78 | 7,118.52 | 980.93 | 10,282.32 | 1,416.90 | 13,446.12 | 1,852.88
1998 | 18.88 | 6,237.00 | 1,177.55 | 9,009.00 | 1,700.90 | 11,781.00 | 2,224.25
Totals | 100.00 |  | 6,044.49 |  | 8,490.98 |  | 10,683.04
Honolulu, HI:
1988 | 6.31 | 12,286.20 | 775.26 | 15,891.48 | 1,002.75 | 30,651.72 | 1,934.12
1989 | 6.77 | 16,005.84 | 1,083.60 | 20,304.36 | 1,374.61 | 36,052.44 | 2,440.75
1990 | 8.19 | 21,383.52 | 1,751.31 | 25,782.12 | 2,111.56 | 43,934.52 | 3,598.24
1991 | 7.03 | 20,175.48 | 1,418.34 | 25,062.48 | 1,761.89 | 39,187.20 | 2,754.86
1992 | 7.72 | 13,697.64 | 1,057.46 | 23,076.96 | 1,781.54 | 34,486.56 | 2,662.36
1993 | 8.32 | 15,721.20 | 1,308.00 | 21,408.48 | 1,781.19 | 30,445.44 | 2,533.06
1994 | 10.08 | 20,510.40 | 2,067.45 | 27,079.80 | 2,729.64 | 37,091.88 | 3,738.86
1996 | 12.92 | 14,144.04 | 1,827.41 | 19,455.60 | 2,513.66 | 26,706.72 | 3,450.51
1997 | 13.78 | 14,826.48 | 2,043.09 | 19,403.52 | 2,673.81 | 27,957.00 | 3,852.47
1998 | 18.88 | 12,495.24 | 2,359.10 | 17,482.56 | 3,300.71 | 26,136.12 | 4,934.50
Totals | 100.00 |  | 15,691.02 |  | 21,031.36 |  | 31,899.73
Hilo, HI:
1988 | 6.31 | 6,254.28 | 394.65 | 8,444.88 | 532.87 | 10,459.92 | 660.02
1989 | 6.77 | 6,795.60 | 460.06 | 9,006.24 | 609.72 | 10,777.32 | 729.62
1990 | 8.19 | 10,468.32 | 857.36 | 9,361.44 | 766.70 | 14,132.52 | 1,157.45
1991 | 7.03 | 10,474.44 | 736.35 | 14,114.28 | 992.23 | 15,934.20 | 1,120.17
1992 | 7.72 | 9,319.32 | 719.45 | 11,611.68 | 896.42 | 14,103.60 | 1,088.80
1993 | 8.32 | 8,269.20 | 688.00 | 11,195.28 | 931.45 | 13,065.96 | 1,087.09
1994 | 10.08 | 9,124.92 | 919.79 | 12,927.96 | 1,303.14 | 15,604.80 | 1,572.96
1996 | 12.92 | 7,392.84 | 955.15 | 10,519.92 | 1,359.17 | 11,741.76 | 1,517.04
1997 | 13.78 | 6,150.24 | 847.50 | 9,611.76 | 1,324.50 | 12,912.00 | 1,779.27
1998 | 18.88 | 5,820.96 | 1,099.00 | 8,889.00 | 1,678.24 | 10,573.92 | 1,996.36
Totals | 100.00 |  | 7,677.31 |  | 10,394.44 |  | 12,708.78
Kailua Kona, HI:
1988 | 6.31 | 9,202.80 | 580.70 | 12,541.44 | 791.36 | 14,691.00 | 927.00
1989 | 6.77 | 9,874.32 | 668.49 | 13,345.56 | 903.49 | 15,902.16 | 1,076.58
1990 | 8.19 | 11,579.88 | 948.39 | 16,336.32 | 1,337.94 | 19,364.40 | 1,585.94
1991 | 7.03 | 12,096.60 | 850.39 | 15,949.08 | 1,121.22 | 20,059.44 | 1,410.18
1992 | 7.72 | 11,395.32 | 879.72 | 15,891.84 | 1,226.85 | 18,605.28 | 1,436.33
1993 | 8.32 | 9,938.64 | 826.89 | 14,180.16 | 1,179.79 | 16,939.08 | 1,409.33
1994 | 10.08 | 12,111.36 | 1,220.83 | 17,170.44 | 1,730.78 | 17,830.92 | 1,797.36
1996 | 12.92 | 9,186.12 | 1,186.85 | 12,206.40 | 1,577.07 | 14,039.88 | 1,813.95
1997 | 13.78 | 10,010.88 | 1,379.50 | 13,158.36 | 1,813.22 | 15,535.92 | 2,140.85
1998 | 18.88 | 10,389.84 | 1,961.60 | 11,971.80 | 2,260.28 | 14,937.36 | 2,820.17
Totals | 100.00 |  | 10,503.36 |  | 13,942.00 |  | 16,417.69
Kauai, HI:
1988 | 6.31 | 8,323.68 | 525.22 | 11,387.28 | 718.54 | 13,309.44 | 839.83
1989 | 6.77 | 9,090.24 | 615.41 | 12,541.56 | 849.06 | 15,622.32 | 1,057.63
1990 | 8.19 | 15,256.80 | 1,249.53 | 20,116.80 | 1,647.57 | 25,451.04 | 2,084.44
1991 | 7.03 | 13,617.12 | 957.28 | 17,957.16 | 1,262.39 | 22,714.08 | 1,596.80
1992 | 7.72 | 12,245.28 | 945.34 | 15,797.28 | 1,219.55 | 19,524.96 | 1,507.33
1993 | 8.32 | 11,122.08 | 925.36 | 14,349.12 | 1,193.85 | 17,734.08 | 1,475.48
1994 | 10.08 | 12,995.64 | 1,309.96 | 17,677.20 | 1,781.86 | 20,287.08 | 2,044.94
1996 | 12.92 | 11,251.32 | 1,453.67 | 14,510.28 | 1,874.73 | 16,859.40 | 2,178.23
1997 | 13.78 | 10,718.04 | 1,476.95 | 14,836.32 | 2,044.44 | 16,668.48 | 2,296.92
1998 | 18.88 | 9,922.56 | 1,873.38 | 12,603.12 | 2,379.47 | 15,094.80 | 2,849.90
Totals | 100.00 |  | 11,332.10 |  | 14,971.46 |  | 17,931.50
Maui, HI:
1988 | 6.31 | 11,071.92 | 698.64 | 14,691.00 | 927.00 | 18,474.84 | 1,165.76
1989 | 6.77 | 13,293.84 | 899.99 | 17,639.04 | 1,194.16 | 22,182.12 | 1,501.73
1990 | 8.19 | 14,976.36 | 1,226.56 | 19,871.64 | 1,627.49 | 24,989.64 | 2,046.65
1991 | 7.03 | 16,453.68 | 1,156.69 | 21,831.36 | 1,534.74 | 27,454.80 | 1,930.07
1992 | 7.72 | 14,820.00 | 1,144.10 | 19,667.88 | 1,518.36 | 24,728.76 | 1,909.06
1993 | 8.32 | 11,648.28 | 969.14 | 16,523.40 | 1,374.75 | 20,104.56 | 1,672.70
1994 | 10.08 | 14,320.32 | 1,443.49 | 19,936.08 | 2,009.56 | 22,152.12 | 2,232.93
1996 | 12.92 | 12,299.64 | 1,589.11 | 16,643.88 | 2,150.39 | 18,083.76 | 2,336.42
1997 | 13.78 | 12,147.36 | 1,673.91 | 15,608.28 | 2,150.82 | 18,247.80 | 2,514.55
1998 | 18.88 | 12,668.28 | 2,391.77 | 15,373.92 | 2,902.60 | 17,338.56 | 3,273.52
Totals | 100.00 |  | 13,193.40 |  | 17,389.87 |  | 20,583.39
Guam:
1988 | 6.31 | 7,704.36 | 486.15 | 9,500.64 | 599.49 | 18,950.76 | 1,195.79
1989 | 6.77 | 8,145.12 | 551.42 | 10,089.48 | 683.06 | 19,620.72 | 1,328.32
1990 | 8.19 | 9,060.24 | 742.03 | 11,253.60 | 921.67 | 21,448.32 | 1,756.62
1991 | 7.03 | 9,662.04 | 679.24 | 12,001.08 | 843.68 | 22,873.20 | 1,607.99
1992 | 7.72 | 10,554.60 | 814.82 | 13,109.88 | 1,012.08 | 24,986.28 | 1,928.94
1993 | 8.32 | 9,954.48 | 828.21 | 13,017.84 | 1,083.08 | 17,811.36 | 1,481.91
1994 | 10.08 | 11,290.32 | 1,138.06 | 15,925.44 | 1,605.28 | 20,674.56 | 2,084.00
1996 | 12.92 | 9,100.80 | 1,175.82 | 12,534.36 | 1,619.44 | 15,616.08 | 2,017.60
1997 | 13.78 | 10,433.52 | 1,437.74 | 11,356.56 | 1,564.93 | 14,850.96 | 2,046.46
1998 | 18.88 | 8,155.68 | 1,539.79 | 10,907.76 | 2,059.39 | 13,693.44 | 2,585.32
Totals | 100.00 |  | 9,393.28 |  | 11,992.10 |  | 18,032.95
Puerto Rico:
1988 | 6.31 | 5,837.04 | 368.32 | 7,149.48 | 451.13 | 10,348.44 | 652.99
1989 | 6.77 | 6,165.48 | 417.40 | 7,551.84 | 511.26 | 10,632.72 | 719.84
1990 | 8.19 | 6,782.04 | 555.45 | 8,307.00 | 680.34 | 11,696.04 | 957.91
1991 | 7.03 | 6,324.48 | 444.61 | 7,657.68 | 538.33 | 10,777.44 | 757.65
1992 | 7.72 | 4,438.68 | 342.67 | 6,038.88 | 466.20 | 10,830.72 | 836.13
1993 | 8.32 | 3,970.44 | 330.34 | 5,438.28 | 452.46 | 9,822.96 | 817.27
1994 | 10.08 | 5,048.16 | 508.85 | 7,720.92 | 778.27 | 10,847.64 | 1,093.44
1996 | 12.92 | 4,814.04 | 621.97 | 7,414.20 | 957.91 | 11,627.76 | 1,502.31
1997 | 13.78 | 5,077.32 | 699.65 | 7,500.60 | 1,033.58 | 11,869.08 | 1,635.56
1998 | 18.88 | 4,724.40 | 891.97 | 7,216.92 | 1,362.55 | 10,620.72 | 2,005.19
Totals | 100.00 |  | 5,181.23 |  | 7,232.03 |  | 10,978.29
St. Croix, VI:
1988 | 6.31 | 6,522.36 | 411.56 | 8,451.96 | 533.32 | 14,341.08 | 904.92
1989 | 6.77 | 6,272.52 | 424.65 | 8,128.20 | 550.28 | 13,791.84 | 933.71
1990 | 8.19 | 7,544.28 | 617.88 | 9,776.28 | 800.68 | 16,588.32 | 1,358.58
1991 | 7.03 | 7,336.32 | 515.74 | 9,505.80 | 668.26 | 16,129.80 | 1,133.92
1992 | 7.72 | 8,365.68 | 645.83 | 12,258.96 | 946.39 | 15,178.68 | 1,171.79
1993 | 8.32 | 8,242.44 | 685.77 | 12,708.00 | 1,057.31 | 14,155.92 | 1,177.77
1994 | 10.08 | 6,024.00 | 607.22 | 9,966.84 | 1,004.66 | 16,344.96 | 1,647.57
1996 | 12.92 | 6,691.32 | 864.52 | 9,680.88 | 1,250.77 | 14,017.44 | 1,811.05
1997 | 13.78 | 6,198.84 | 854.20 | 10,115.04 | 1,393.85 | 12,012.24 | 1,655.29
1998 | 18.88 | 4,600.92 | 868.65 | 7,182.12 | 1,355.98 | 14,155.32 | 2,672.52
Totals | 100.00 |  | 6,496.02 |  | 9,561.50 |  | 14,467.12
St. Thomas, VI:
1988 | 6.31 | 11,961.12 | 754.75 | 15,134.40 | 954.98 | 18,063.60 | 1,139.81
1989 | 6.77 | 12,301.20 | 832.79 | 15,564.84 | 1,053.74 | 18,577.32 | 1,257.68
1990 | 8.19 | 11,422.08 | 935.47 | 14,452.32 | 1,183.65 | 17,249.64 | 1,412.75
1991 | 7.03 | 10,916.64 | 767.44 | 15,544.80 | 1,092.80 | 18,134.28 | 1,274.84
1992 | 7.72 | 9,959.04 | 768.84 | 14,181.24 | 1,094.79 | 16,543.56 | 1,277.16
1993 | 8.32 | 10,074.00 | 838.16 | 14,339.88 | 1,193.08 | 16,728.48 | 1,391.81
1994 | 10.08 | 8,290.44 | 835.68 | 14,798.52 | 1,491.69 | 15,204.60 | 1,532.62
1996 | 12.92 | 9,987.00 | 1,290.32 | 14,273.16 | 1,844.09 | 13,588.08 | 1,755.58
1997 | 13.78 | 10,025.52 | 1,381.52 | 14,328.24 | 1,974.43 | 13,640.52 | 1,879.66
1998 | 18.88 | 14,283.12 | 2,696.65 | 12,351.48 | 2,331.96 | 16,727.40 | 3,158.13
Totals | 100.00 |  | 11,101.62 |  | 14,215.21 |  | 16,080.04
Washington, DC (DC):
1988 | 6.31 | 6,702.60 | 422.93 | 11,136.48 | 702.71 | 17,765.88 | 1,121.03
1989 | 6.77 | 6,701.52 | 453.69 | 11,474.40 | 776.82 | 17,829.00 | 1,207.02
1990 | 8.19 | 7,325.52 | 599.96 | 11,751.84 | 962.48 | 19,671.24 | 1,611.07
1991 | 7.03 | 7,116.12 | 500.26 | 11,416.08 | 802.55 | 19,112.40 | 1,343.60
1992 | 7.72 | 6,589.32 | 508.70 | 9,233.04 | 712.79 | 17,500.56 | 1,351.04
1993 | 8.32 | 6,190.80 | 515.07 | 7,626.48 | 634.52 | 19,000.56 | 1,580.85
1994 | 10.08 | 6,170.04 | 621.94 | 7,851.72 | 791.45 | 22,922.64 | 2,310.60
1996 | 12.92 | 4,972.20 | 642.41 | 7,503.12 | 969.40 | 19,743.24 | 2,550.83
1997 | 13.78 | 3,886.56 | 535.57 | 5,744.52 | 791.59 | 15,291.24 | 2,107.13
1998 | 18.88 | 4,114.56 | 776.83 | 5,812.92 | 1,097.48 | 15,019.44 | 2,835.67
Totals | 100.00 |  | 5,577.36 |  | 8,241.79 |  | 18,018.84
Washington, DC (MD):
1988 | 6.31 | 6,370.68 | 401.99 | 9,865.20 | 622.49 | 11,737.80 | 740.66
1989 | 6.77 | 6,854.04 | 464.02 | 10,613.64 | 718.54 | 12,628.44 | 854.95
1990 | 8.19 | 7,460.28 | 611.00 | 11,552.28 | 946.13 | 13,745.28 | 1,125.74
1991 | 7.03 | 7,059.48 | 496.28 | 10,931.88 | 768.51 | 12,835.80 | 902.36
1992 | 7.72 | 7,559.28 | 583.58 | 9,512.28 | 734.35 | 15,053.64 | 1,162.14
1993 | 8.32 | 6,143.52 | 511.14 | 7,884.36 | 655.98 | 13,543.68 | 1,126.83
1994 | 10.08 | 6,831.24 | 688.59 | 12,567.72 | 1,266.83 | 16,073.40 | 1,620.20
1996 | 12.92 | 6,912.12 | 893.05 | 14,083.80 | 1,819.63 | 14,206.80 | 1,835.52
1997 | 13.78 | 6,608.76 | 910.69 | 11,242.56 | 1,549.22 | 13,956.72 | 1,923.24
1998 | 18.88 | 6,034.56 | 1,139.32 | 10,572.24 | 1,996.04 | 11,025.12 | 2,081.54
Totals | 100.00 |  | 6,699.66 |  | 11,077.72 |  | 13,373.18
Washington, DC (VA):
1988 | 6.31 | 7,324.92 | 462.20 | 8,265.36 | 521.54 | 13,704.36 | 864.75
1989 | 6.77 | 7,271.88 | 492.31 | 8,205.60 | 555.52 | 13,605.24 | 921.07
1990 | 8.19 | 8,196.60 | 671.30 | 9,249.00 | 757.49 | 15,335.28 | 1,255.96
1991 | 7.03 | 7,947.48 | 558.71 | 9,037.44 | 635.33 | 14,364.60 | 1,009.83
1992 | 7.72 | 7,219.56 | 557.35 | 9,110.04 | 703.30 | 13,184.52 | 1,017.84
1993 | 8.32 | 6,370.44 | 530.02 | 8,516.40 | 708.56 | 12,196.92 | 1,014.78
1994 | 10.08 | 7,490.88 | 755.08 | 12,618.72 | 1,271.97 | 17,152.44 | 1,728.97
1996 | 12.92 | 6,976.80 | 901.40 | 10,914.84 | 1,410.20 | 13,326.60 | 1,721.80
1997 | 13.78 | 7,252.56 | 999.40 | 11,168.04 | 1,538.96 | 15,978.24 | 2,201.80
1998 | 18.88 | 6,586.08 | 1,243.45 | 10,219.44 | 1,929.43 | 14,550.84 | 2,747.20
Totals | 100.00 |  | 7,171.22 |  | 10,032.30 |  | 14,484.00

Appendix 11—Summary of Rental Analyses

| 1998 data medians: Broker & non-broker: # | 1998 data medians: Broker & non-broker: $ | 1998 data medians: Non-Broker: # | 1998 data medians: Non-Broker: $ | 1998 data medians: Broker: # | 1998 data medians: Broker: $
Anchorage, AK:
Low | 22 | $563 | 15 | $575 | 7 | $550
Middle | 18 | 668 | 12 | 698 | 6 | 638
High | 30 | 1,013 | 23 | 1,175 | 7 | 850
Fairbanks, AK:
Low | 9 | 520 | 6 | 505 | 3 | 535
Middle | 14 | 698 | 9 | 695 | 5 | 700
High | 10 | 888 | 9 | 1,000 | 1 | 775
Juneau, AK:
Low | 7 | 750 | 3 | 725 | 4 | 775
Middle | 15 | 890 | 8 | 930 | 7 | 850
High | 11 | 1,225 | 5 | 1,350 | 6 | 1,100
*Nome, AK:
Low | 2 | 750 | 2 | 750 | 0 | 750
Middle | 4 | 869 | 4 | 913 | 0 | 825
High | 0 | 988 | 0 | 0 | 0 | 988
Honolulu, HI:
Low | 130 | 723 | 119 | 695 | 11 | 750
Middle | 205 | 900 | 192 | 850 | 13 | 950
High | 310 | 1,373 | 302 | 1,395 | 8 | 1,350
Hilo, HI:
Low | 65 | 441 | 65 | 375 | 0 | 506
Middle | 44 | 575 | 39 | 450 | 5 | 700
High | 207 | 698 | 201 | 695 | 6 | 700
Kailua Kona, HI:
Low | 62 | 569 | 60 | 550 | 2 | 588
Middle | 24 | 713 | 21 | 625 | 3 | 800
High | 126 | 1,038 | 124 | 975 | 2 | 1,100
Kauai, HI:
Low | 54 | 588 | 48 | 525 | 6 | 650
Middle | 24 | 669 | 12 | 638 | 12 | 700
High | 74 | 875 | 72 | 850 | 2 | 900
Maui, HI:
Low | 157 | 675 | 142 | 650 | 15 | 700
Middle | 39 | 800 | 26 | 725 | 13 | 875
High | 400 | 1,035 | 388 | 950 | 12 | 1,119
Guam:
Low | 8 | 700 | 3 | 500 | 5 | 900
Middle | 26 | 900 | 17 | 800 | 9 | 1,000
High | 14 | 1,100 | 9 | 1,200 | 5 | 1,000
**Puerto Rico:
Low | 31 | 613 | 18 | 425 | 13 | 800
Middle | 24 | 775 | 10 | 600 | 14 | 950
High | 11 | 1,238 | 11 | 975 | 0 | 1,500
St. Croix, VI:
Low | 8 | 494 | 4 | 438 | 4 | 550
Middle | 9 | 694 | 4 | 638 | 5 | 750
High | 8 | 850 | 5 | 700 | 3 | 1,000
St. Thomas, VI:
Low | 25 | 663 | 13 | 625 | 12 | 700
Middle | 21 | 900 | 9 | 800 | 12 | 1,000
High | 22 | 1,213 | 11 | 1,200 | 11 | 1,225
***Washington, DC (DC):
Low | 16 | 489 | 10 | 438 | 6 | 540
Middle | 13 | 695 | 4 | 645 | 9 | 745
High | 13 | 1,275 | 13 | 1,000 | 0 | 1,550
Washington, DC (MD):
Low | 12 | 589 | 6 | 553 | 6 | 624
Middle | 18 | 739 | 10 | 689 | 8 | 788
High | 25 | 1,275 | 12 | 1,300 | 13 | 1,250
****Washington, DC (VA):
Low | 5 | 628 | 5 | 665 | 0 | 590
Middle | 31 | 979 | 14 | 798 | 17 | 1,159
High | 68 | 1,425 | 49 | 1,200 | 19 | 1,650
* Used 1997 broker rental values at all income levels because this year's data were unavailable.
** Used broker quote data for all communities in the greater San Juan area except at the upper income level, for which 1997 broker rental value was used because this year's data reflected incomplete rental information.
*** Used 1997 broker rental at the upper income level because this year's data reflected incomplete rental information.
**** Used 1997 broker rental value at the lower income level because this year's data were unavailable.

Appendix 12—Housing Cost Analysis

Category | Annual costs: Lower income: Owner | Annual costs: Lower income: Renter | Annual costs: Middle income: Owner | Annual costs: Middle income: Renter | Annual costs: Upper income: Owner | Annual costs: Upper income: Renter
Anchorage, AK:
Maintenance | $796 | $62 | $936 | $73 | $1,077 | $78
Insurance | 390 | 117 | 472 | $129 | 560 | $141
Utilities | 2,094 | 1,840 | 2,411 | 2,094 | 2,728 | 2,242
Real estate taxes | 1,710 |  | 2,277 |  | 2,580 |
Housing | 5,670 | 6,756 | 7,700 | 8,016 | 9,778 | 12,156
Total annual cost | 10,660 | 8,775 | 13,796 | 10,312 | 16,723 | 14,617
Fairbanks, AK:
Maintenance | 764 | 60 | 898 | 70 | 1,033 | 75
Insurance | 374 | 150 | 472 | 168 | 511 | 180
Utilities | 2,814 | 2,466 | 3,250 | 2,814 | 3,685 | 3,018
Real estate taxes | 1,368 |  | 1,995 |  | 2,233 |
Housing | 5,133 | 6,240 | 7,105 | 8,376 | 8,733 | 10,656
Total annual cost | 10,453 | 8,916 | 13,720 | 11,428 | 16,195 | 13,929
Juneau, AK:
Maintenance | 814 | 64 | 958 | 74 | 1,101 | 80
Insurance | 412 | 127 | 493 | 139 | 567 | 152
Utilities | 2,245 | 1,976 | 2,583 | 2,245 | 2,920 | 2,403
Real estate taxes | 1,524 |  | 1,934 |  | 2,260 |
Housing | 7,390 | 9,000 | 9,407 | 10,680 | 11,159 | 14,700
Total annual cost | 12,385 | 11,167 | 15,375 | 13,138 | 18,007 | 17,335
Nome, AK:
Maintenance | 736 | 58 | 866 | 67 | 995 | 73
Insurance | 511 | 250 | 663 | 250 | 701 | 250
Utilities | 3,633 | 3,174 | 4,206 | 3,633 | 4,780 | 3,901
Real estate taxes | 961 |  | 1,388 |  | 1,815 |
Housing | 6,044 | 9,000 | 8,491 | 10,428 | 10,683 | 11,856
Total annual cost | 11,885 | 12,482 | 15,614 | 14,378 | 18,974 | 16,080
Honolulu, HI:
Maintenance | 695 | 54 | 817 | 63 | 940 | 69
Insurance | 580 | 319 | 682 | 364 | 907 | 412
Utilities | 1,776 | 1,585 | 2,015 | 1,776 | 2,253 | 1,887
Real estate taxes | 526 |  | 792 |  | 1,253 |
Housing | 15,691 | 8,676 | 21,031 | 10,800 | 31,900 | 16,476
Total annual cost | 19,268 | 10,634 | 25,337 | 13,003 | 37,253 | 18,844
Hilo, HI:
Maintenance | 784 | 61 | 922 | 71 | 1,060 | 77
Insurance | 423 | 276 | 487 | 314 | 548 | 351
Utilities | 2,314 | 2,041 | 2,654 | 2,314 | 2,994 | 2,472
Real estate taxes | 425 |  | 828 |  | 1,050 |
Housing | 7,677 | 5,292 | 10,394 | 6,900 | 12,709 | 8,376
Total annual cost | 11,623 | 7,670 | 15,285 | 9,599 | 18,361 | 11,276
Kailua Kona, HI:
Maintenance | 737 | 58 | 867 | 67 | 997 | 73
Insurance | 531 | 145 | 587 | 161 | 676 | 351
Utilities | 2,308 | 2,036 | 2,648 | 2,308 | 2,989 | 2,467
Real estate taxes | 992 |  | 1,195 |  | 1,575 |
Housing | 10,503 | 6,828 | 13,942 | 8,556 | 16,418 | 12,456
Total annual cost | 15,071 | 9,067 | 19,239 | 11,092 | 22,655 | 15,347
Kauai County, HI:
Maintenance | 1,103 | 86 | 1,297 | 100 | 1,492 | 109
Insurance | 517 | 329 | 609 | 365 | 716 | 416
Utilities | 1,876 | 1,657 | 2,151 | 1,876 | 2,425 | 2,004
Real estate taxes | 582 |  | 795 |  | 994 |
Housing | 11,332 | 7,056 | 14,971 | 8,028 | 17,932 | 10,500
Total annual cost | 15,410 | 9,128 | 19,823 | 10,369 | 23,559 | 13,029
Maui County, HI:
Maintenance | 1,074 | 84 | 1,263 | 98 | 1,452 | 106
Insurance | 629 | 307 | 711 | 349 | 723 | 390
Utilities | 1,679 | 1,495 | 1,908 | 1,679 | 2,137 | 1,786
Real estate taxes | 725 |  | 920 |  | 1,062 |
Housing | 13,193 | 8,100 | 17,390 | 9,600 | 20,583 | 12,420
Total annual cost | 17,300 | 9,986 | 22,192 | 11,726 | 25,957 | 14,702
Guam:
Maintenance | 963 | 75 | 1,133 | 88 | 1,303 | 95
Insurance | 1,429 | 329 | 1,912 | 394 | 2,400 | 460
Utilities | 3,103 | 2,720 | 3,582 | 3,103 | 4,061 | 3,327
Real estate taxes | 330 |  | 459 |  | 590 |
Housing | 9,393 | 8,400 | 11,992 | 10,800 | 18,033 | 13,200
Total annual cost | 15,218 | 11,524 | 19,078 | 14,385 | 26,387 | 17,082
Puerto Rico:
Maintenance | 538 | 42 | 633 | 49 | 728 | 53
Insurance | 497 | 247 | 778 | 297 | 1,163 | 323
Utilities | 2,031 | 1,797 | 2,325 | 2,031 | 2,618 | 2,168
Real estate taxes | 46 |  | 708 |  | 1,611 |
Housing | 5,181 | 7,356 | 7,232 | 9,300 | 10,978 | 14,856
Total annual cost | 8,293 | 9,442 | 11,676 | 11,677 | 17,098 | 17,400
St. Croix, VI:
Maintenance | 491 | 38 | 577 | 45 | 664 | 48
Insurance | 1,195 | 684 | 1,472 | 772 | 2,797 | 890
Utilities | 1,371 | 1,237 | 1,539 | 1,371 | 1,707 | 1,449
Real estate taxes | 283 |  | 548 |  | 1,261 |
Housing | 6,496 | 5,928 | 9,562 | 8,328 | 14,467 | 10,200
Total annual cost | 9,836 | 7,887 | 13,698 | 10,516 | 20,896 | 12,587
St. Thomas, VI:
Maintenance | 542 | 42 | 638 | 49 | 733 | 53
Insurance | 3,213 | 700 | 2,777 | 822 | 3,759 | 890
Utilities | 1,372 | 1,237 | 1,539 | 1,372 | 1,707 | 1,450
Real estate taxes | 1,490 |  | 1,188 |  | 1,777 |
Housing | 11,102 | 7,956 | 14,215 | 10,800 | 16,080 | 14,556
Total annual cost | 17,719 | 9,935 | 20,357 | 13,043 | 24,056 | 16,949
Washington, DC (DC):
Maintenance | 611 | 48 | 719 | 56 | 827 | 60
Insurance | 252 | 127 | 350 | 161 | 800 | 136
Utilities | 2,432 | 2,144 | 2,791 | 2,432 | 3,151 | 2,599
Real estate taxes | 334 |  | 591 |  | 1,984 |
Housing | 5,577 | 5,868 | 8,242 | 8,340 | 18,019 | 15,300
Total annual cost | 9,206 | 8,187 | 12,693 | 10,989 | 24,781 | 18,095
Washington, DC (MD):
Maintenance | 611 | 48 | 719 | 56 | 827 | 60
Insurance | 212 | 145 | 294 | 159 | 302 | 148
Utilities | 2,040 | 1,800 | 2,340 | 2,040 | 2,641 | 2,180
Real estate taxes | 1,175 |  | 2,059 |  | 2,147 |
Housing | 6,700 | 7,068 | 11,078 | 8,868 | 13,373 | 15,300
Total annual cost | 10,738 | 9,061 | 16,490 | 11,123 | 19,290 | 17,688
Washington, DC (VA):
Maintenance | 611 | 48 | 719 | 56 | 827 | 60
Insurance | 226 | 126 | 282 | 141 | 358 | 156
Utilities | 2,401 | 2,122 | 2,749 | 2,401 | 3,097 | 2,563
Real estate taxes | 1,410 |  | 1,978 |  | 2,462 |
Housing | 7,171 | 7,536 | 10,032 | 11,748 | 14,484 | 17,100
Total annual cost | 11,819 | 9,832 | 15,760 | 14,346 | 21,228 | 19,879

Housing Cost Analysis—Composites
Location | Weights | Annual costs: Lower income: Owner | Annual costs: Lower income: Renter | Annual costs: Middle income: Owner | Annual costs: Middle income: Renter | Annual costs: Upper income: Owner | Annual costs: Upper income: Renter
Hilo, HI | 75.81 | $11,623 | $7,670 | $15,285 | $9,599 | $18,361 | $11,276
Kailua Kona, HI | 24.19 | 15,071 | 9,067 | 19,239 | 11,092 | 22,655 | 15,347
Total weight | 100.00 |  |  |  |  |  |
Hawaii County, HI |  | 12,457 | 8,008 | 16,241 | 9,960 | 19,400 | 12,261
St. Croix, VI | 48.26 | 9,836 | 7,887 | 13,698 | 10,516 | 20,896 | 12,587
St. Thomas, VI | 51.74 | 17,719 | 9,935 | 20,357 | 13,043 | 24,056 | 16,949
Total weight | 100.00 |  |  |  |  |  |
Virgin Islands |  | 13,915 | 8,947 | 17,143 | 11,823 | 22,531 | 14,844
Washington, DC, DC | 33.34 | 9,206 | 8,187 | 12,693 | 10,989 | 24,781 | 18,095
Washington, DC, MD | 33.33 | 10,738 | 9,061 | 16,490 | 11,123 | 19,290 | 17,688
Washington, DC, VA | 33.33 | 11,819 | 9,832 | 15,760 | 14,346 | 21,228 | 19,879
Total weight | 100.00 |  |  |  |  |  |
DC area |  | 10,588 | 9,027 | 14,981 | 12,153 | 21,767 | 18,554

Appendix 13—Housing Analysis

| Owners: Total annual cost | Owners: Total cost DC area | Owners: Index | Renters: Total annual cost | Renters: Total cost DC area | Renters: Index
Anchorage, AK:
Lower income | $10,660 | $10,588 | 100.68 | $8,775 | $9,027 | 97.21
Middle income | 13,796 | 14,981 | 92.09 | 10,312 | 12,153 | 84.85
Upper income | 16,723 | 21,767 | 76.83 | 14,617 | 18,554 | 78.78
Fairbanks, AK:
Lower income | 10,453 | 10,588 | 98.72 | 8,916 | 9,027 | 98.77
Middle income | 13,720 | 14,981 | 91.58 | 11,428 | 12,153 | 94.03
Upper income | 16,195 | 21,767 | 74.40 | 13,929 | 18,554 | 75.07
Juneau, AK:
Lower income | 12,385 | 10,588 | 116.97 | 11,167 | 9,027 | 123.71
Middle income | 15,375 | 14,981 | 102.63 | 13,138 | 12,153 | 108.10
Upper income | 18,007 | 21,767 | 82.73 | 17,335 | 18,554 | 93.43
Nome, AK:
Lower income | 11,885 | 10,588 | 112.25 | 12,482 | 9,027 | 138.27
Middle income | 15,614 | 14,981 | 104.23 | 14,378 | 12,153 | 118.31
Upper income | 18,974 | 21,767 | 87.17 | 16,080 | 18,554 | 86.67
Honolulu, HI:
Lower income | 19,268 | 10,588 | 181.98 | 10,634 | 9,027 | 117.80
Middle income | 25,337 | 14,981 | 169.13 | 13,003 | 12,153 | 106.99
Upper income | 37,253 | 21,767 | 171.14 | 18,844 | 18,554 | 101.56
Hawaii County, HI:
Lower income | 12,457 | 10,588 | 117.65 | 8,008 | 9,027 | 88.71
Middle income | 16,241 | 14,981 | 108.41 | 9,960 | 12,153 | 81.96
Upper income | 19,400 | 21,767 | 89.13 | 12,261 | 18,554 | 66.08
Kauai County, HI:
Lower income | 15,410 | 10,588 | 145.54 | 9,128 | 9,027 | 101.12
Middle income | 19,823 | 14,981 | 132.32 | 10,369 | 12,153 | 85.32
Upper income | 23,559 | 21,767 | 108.23 | 13,029 | 18,554 | 70.22
Maui County, HI:
Lower income | 17,300 | 10,588 | 163.39 | 9,986 | 9,027 | 110.62
Middle income | 22,192 | 14,981 | 148.13 | 11,726 | 12,153 | 96.49
Upper income | 25,957 | 21,767 | 119.25 | 14,702 | 18,554 | 79.24
Guam:
Lower income | 15,218 | 10,588 | 143.73 | 11,524 | 9,027 | 127.66
Middle income | 19,078 | 14,981 | 127.35 | 14,385 | 12,153 | 118.37
Upper income | 26,387 | 21,767 | 121.22 | 17,082 | 18,554 | 92.07
Puerto Rico:
Lower income | 8,293 | 10,588 | 78.32 | 9,442 | 9,027 | 104.60
Middle income | 11,676 | 14,981 | 77.94 | 11,677 | 12,153 | 96.08
Upper income | 17,098 | 21,767 | 78.55 | 17,400 | 18,554 | 93.78
Virgin Islands:
Lower income | 13,915 | 10,588 | 131.42 | 8,947 | 9,027 | 99.11
Middle income | 17,143 | 14,981 | 114.43 | 11,823 | 12,153 | 97.28
Upper income | 22,531 | 21,767 | 103.51 | 14,844 | 18,554 | 80.00

Appendix 14—Private Transportation Cost Analysis

Category | Annual costs: Honda Civic 1.5L 4 cyl DX 4 dr sedan | Annual costs: Ford Taurus 3.0L 6 cyl GL 4 dr sedan | Annual costs: Chevrolet S10 Blazer 4.3L 6 cyl 4 WD 2 dr
Anchorage, AK:
Fuel | $762 | $1,143 | $1,429
Maintenance/oil | 728 | 695 | 657
Tires | 123 | 163 | 152
License and registration | 69 | 69 | 74
Miscellaneous tax | 50 | 50 | 50
Depreciation | 2,167 | 3,595 | 4,111
Finance expense | 687 | 875 | 1,023
Insurance | 1,321 | 1,247 | 1,491
Total annual cost | 5,907 | 7,837 | 8,987
Fairbanks, AK:
Fuel | 739 | 1,109 | 1,386
Maintenance/oil | 915 | 916 | 829
Tires | 97 | 131 | 160
License and registration | 74 | 74 | 79
Miscellaneous tax | 0 | 0 | 0
Depreciation | 2,457 | 3,556 | 4,535
Finance expense | 724 | 861 | 1,078
Insurance | 1,336 | 1,271 | 1,477
Total annual cost | 6,342 | 7,918 | 9,544
Juneau, AK:
Fuel | 813 | 1,220 | 1,525
Maintenance/oil | 756 | 758 | 771
Tires | 112 | 151 | 154
License and registration | 44 | 44 | 49
Miscellaneous tax | 0 | 0 | 0
Depreciation | 1,954 | 3,390 | 4,043
Finance expense | 636 | 821 | 985
Insurance | 981 | 966 | 1,064
Total annual cost | 5,296 | 7,350 | 8,591
Nome, AK:
Fuel | 1,264 | 1,897 | 2,371
Maintenance/oil | 796 | 774 | 708
Tires | 124 | 159 | 169
License and registration | 44 | 44 | 49
Miscellaneous tax | 0 | 0 | 0
Depreciation | 3,013 | 4,190 | 5,218
Finance expense | 784 | 928 | 1,145
Insurance | 1,202 | 1,244 | 1,656
Total annual cost | 7,227 | 9,236 | 11,316
Honolulu, HI:
Fuel | 802 | 1,202 | 1,503
Maintenance/oil | 626 | 581 | 571
Tires | 112 | 147 | 0
License and registration | 103 | 118 | 128
Miscellaneous tax | 0 | 0 | 0
Depreciation | 2,665 | 3,871 | 5,194
Finance expense | 947 | 1,139 | 1,476
Insurance | 1,197 | 1,146 | 1,326
Total annual cost | 6,452 | 8,204 | 10,198
Hilo, HI:
Fuel | 955 | 1,433 | 1,791
Maintenance/oil | 513 | 500 | 505
Tires | 85 | 163 | 175
License and registration | 75 | 86 | 110
Miscellaneous tax | 0 | 0 | 0
Depreciation | 2,415 | 3,261 | 4,790
Finance expense | 967 | 1,099 | 1,503
Insurance | 1,189 | 1,226 | 1,455
Total annual cost | 6,199 | 7,768 | 10,329
Kailua Kona, HI:
Fuel | 928 | 1,393 | 1,741
Maintenance/oil | 660 | 662 | 666
Tires | 100 | 154 | 131
License and registration | 95 | 105 | 129
Miscellaneous tax | 0 | 0 | 0
Depreciation | 2,353 | 3,660 | 4,855
Finance expense | 921 | 1,140 | 1,464
Insurance | 1,684 | 1,663 | 1,783
Total annual cost | 6,741 | 8,777 | 10,769
Kauai, HI:
Fuel | 866 | 1,299 | 1,623
Maintenance/oil | 674 | 710 | 615
Tires | 123 | 160 | 204
License and registration | 72 | 82 | 87
Miscellaneous tax | 0 | 0 | 0
Depreciation | 2,634 | 3,559 | 4,984
Finance expense | 1,027 | 1,178 | 1,566
Insurance | 1,110 | 1,141 | 1,279
Total annual cost | 6,506 | 8,129 | 10,358
Maui, HI:
Fuel | 893 | 1,339 | 1,674
Maintenance/oil | 685 | 714 | 612
Tires | 138 | 183 | 181
License and registration | 82 | 97 | 105
Miscellaneous tax | 0 | 0 | 0
Depreciation | 1,989 | 3,366 | 5,242
Finance expense | 880 | 1,120 | 1,595
Insurance | 1,115 | 1,151 | 1,369
Total annual cost | 5,782 | 7,970 | 10,778
Guam:
Fuel | 956 | 1,434 | 1,792
Maintenance/oil | 472 | 501 | 569
Tires | 112 | 195 | 134
License and registration | 36 | 41 | 43
Miscellaneous tax | 0 | 0 | 0
Depreciation | 2,228 | 4,047 | 4,552
Finance expense | 928 | 1,259 | 1,454
Insurance | 1,326 | 1,794 | 1,763
Total annual cost | 6,058 | 9,271 | 10,307
Puerto Rico:
Fuel | 534 | 800 | 1,000
Maintenance/oil | 334 | 351 | 450
Tires | 111 | 159 | 152
License and registration | 304 | 329 | 342
Miscellaneous tax | 0 | 0 | 0
Depreciation | 2,215 | 4,002 | 5,804
Finance expense | 858 | 1,158 | 1,584
Insurance | 1,482 | 1,702 | 2,024
Total annual cost | 5,838 | 8,501 | 11,356
St. Croix, VI:
Fuel | 688 | 1,031 | 1,289
Maintenance/oil | 447 | 409 | 485
Tires | 80 | 160 | 142
License and registration | 69 | 78 | 90
Miscellaneous tax | 0 | 0 | 0
Depreciation | 2,198 | 3,565 | 4,629
Finance expense | 899 | 1,132 | 1,434
Insurance | 1,754 | 1,723 | 1,998
Total annual cost | 6,135 | 8,098 | 10,067
St. Thomas, VI:
Fuel | 739 | 1,108 | 1,385
Maintenance/oil | 558 | 561 | 614
Tires | 102 | 146 | 126
License and registration | 69 | 78 | 90
Miscellaneous tax | 0 | 0 | 0
Depreciation | 2,749 | 3,537 | 5,463
Finance expense | 930 | 1,038 | 1,474
Insurance | 1,810 | 1,728 | 1,877
Total annual cost | 6,957 | 8,196 | 11,029
Washington, DC (DC):
Fuel | 545 | 817 | 1,021
Maintenance/oil | 404 | 379 | 346
Tires | 133 | 115 | 81
License and registration | 109 | 109 | 142
Miscellaneous tax | 0 | 0 | 0
Depreciation | 1,866 | 3,243 | 4,143
Finance expense | 599 | 767 | 960
Insurance | 1,409 | 1,296 | 1,508
Total annual cost | 5,065 | 6,726 | 8,201
Washington, DC (MD):
Fuel | 537 | 805 | 1,006
Maintenance/oil | 409 | 387 | 340
Tires | 86 | 112 | 111
License and registration | 83 | 83 | 97
Miscellaneous tax | 0 | 0 | 0
Depreciation | 1,865 | 3,248 | 4,845
Finance expense | 587 | 753 | 1,040
Insurance | 1,171 | 1,120 | 1,348
Total annual cost | 4,738 | 6,508 | 8,787
Washington, DC (VA):
Fuel | 506 | 760 | 949
Maintenance/oil | 386 | 386 | 385
Tires | 64 | 94 | 110
License and registration | 37 | 37 | 37
Miscellaneous tax | 556 | 626 | 878
Depreciation | 1,892 | 3,173 | 3,969
Finance expense | 609 | 766 | 946
Insurance | 827 | 740 | 922
Total annual cost | 4,877 | 6,582 | 8,196

Private Transportation Cost Analysis—Composites
Location | Weights | Annual costs: Honda Civic 1.5L 4 cyl DX 4 dr sedan | Annual costs: Ford Taurus 3.0L 6 cyl GL 4 dr sedan | Annual costs: Chevrolet S10 Blazer 4.3L 6 cyl 4 WD 2 dr
Hilo, HI | 75.81 | $6,199 | $7,768 | $10,329
Kailua Kona, HI | 24.19 | 6,741 | 8,777 | 10,769
Total weight | 100.00 |  |  |
Hawaii County, HI | N/A | 6,330 | 8,012 | 10,435
St. Croix, VI | 48.26 | 6,135 | 8,098 | 10,067
St. Thomas, VI | 51.74 | 6,957 | 8,196 | 11,029
Total weight | 100.00 |  |  |
Virgin Islands | N/A | 6,560 | 8,149 | 10,565
Washington, DC, DC | 33.34 | 5,065 | 6,726 | 8,201
Washington, DC, MD | 33.33 | 4,738 | 6,508 | 8,787
Washington, DC, VA | 33.33 | 4,877 | 6,582 | 8,196
Total weight | 100.00 |  |  |
DC area | N/A | 4,893 | 6,605 | 8,395

Appendix 15—Auto Insurance Calculation Worksheet—Special Limits Adjustments

| Honda | Ford | Chevy
Guam:
Average Local Insurance Price | 1,288.67 | 1,739.33 | 1,718.67
Price of Equivalent Reference Area Coverage | 1,113.04 | 1,030.85 | 1,255.59
Index | 115.78 | 168.73 | 136.88
Price of Reference Area UM 100/300 Coverage | 32.57 | 32.57 | 32.57
Estimated Local Equivalent UM Coverage | 37.71 | 54.96 | 44.58
Adjusted Local Insurance Price | 1,326.38 | 1,794.29 | 1,763.25
Puerto Rico:
Average Local Insurance Price | 1,439.67 | 1,650.00 | 1,972.40
Price of Equivalent Reference Area Coverage | 1,113.04 | 1,030.85 | 1,255.59
Index | 129.35 | 160.06 | 157.09
Price of Reference Area UM 100/300 Coverage | 32.57 | 32.57 | 32.57
Estimated Local Equivalent UM Coverage | 42.13 | 52.13 | 51.16
Adjusted Local Insurance Price | 1,481.80 | 1,702.13 | 2,023.56
St. Croix:
Average Local Insurance Price | 1,516.68 | 1,484.76 | 1,746.28
Price of Equivalent Reference Area Coverage | 990.67 | 916.48 | 1,125.90
Index | 153.10 | 162.01 | 155.10
Price of Specified Reference Area Coverage | 1,145.61 | 1,063.42 | 1,288.16
Adjusted Local Insurance Price | 1,753.93 | 1,722.85 | 1,997.94
St. Thomas:
Average Local Insurance Price | 1,565.09 | 1,489.16 | 1,640.52
Price of Equivalent Reference Area Coverage | 990.67 | 916.48 | 1125.90
Index | 157.98 | 162.49 | 145.71
Price of Specified Reference Area Coverage | 1,145.61 | 1,063.42 | 1,288.16
Adjusted Local Insurance Price | 1,809.83 | 1,727.95 | 1,876.98
Note: Special adjustments were required for Guam, Puerto Rico, and U.S. Virgin Islands automobile insurance prices because the coverage available was significantly less than that surveyed in the other locations. In Guam and Puerto Rico, uninsured motorist (UM) coverage had significantly lower coverage or was not available. For both areas, we compared the average price of the local policy with the average price of equivalent coverage in the DC area and computed an index. We used that index to adjust the price of the DC area specified UM coverage, which we then added to the average local prices. In the U.S. Virgin Islands, all coverage (bodily injury, property damage, medical, collision, and comprehensive) was significantly less than that priced elsewhere. For these areas, we compared the average price of the local policy with equivalent coverage in the DC area and computed an index. We used that index to adjust the price of the DC specified coverage.

Appendix 16—Air Fares Cost Analysis

Location | Average allowance area air fares | Average DC area air fares | Index
Anchorage, AK | $519 | $240 | 216.25
Fairbanks, AK | 691 | 240 | 287.92
Juneau, AK | 663 | 240 | 276.25
Nome, AK | 1,161 | 240 | 483.75
Honolulu, HI | 727 | 240 | 302.92
Hawaii County, HI | 907 | 240 | 377.92
Kauai, HI | 907 | 240 | 377.92
Maui, HI | 859 | 240 | 357.92
Guam | 1,277 | 240 | 532.08
Puerto Rico | 448 | 240 | 186.67
Virgin Islands | 685 | 240 | 285.42

Air Fares—Composites
Location | Weights | Costs
Hilo, HI | 75.81 | $907
Kailua Kona, HI | 24.19 | 907
Total | 100.00 |
Hawaii County, HI cost |  | 907
St. Croix, VI | 48.26 | 682
St. Thomas, VI | 51.74 | 688
Total | 100.00 |
Virgin Islands cost |  | 685

Appendix 17—Transportation Analysis

| Total annual cost | Total cost DC area | Index
Anchorage, AK: |  |  |
1. Honda Civic DX 4 dr sdn 1.5L 4 cyl | $5,907 | $4,893 | 120.72
2. Ford Taurus GL 4 dr sedan 3.0L 6 cyl | 7,837 | 6,605 | 118.65
3. Chevy S10 Blazer 4WD 2 dr 4.3L 6 cyl | 8,987 | 8,395 | 107.05
Average index |  |  | 115.47
Fairbanks, AK: |  |  |
1. Honda Civic DX 4 dr sdn 1.5L 4 cyl | 6,342 | 4,893 | 129.61
2. Ford Taurus GL 4 dr sedan 3.0L 6 cyl | 7,918 | 6,605 | 119.88
3. Chevy S10 Blazer 4WD 2 dr 4.3L 6 cyl | 9,544 | 8,395 | 113.69
Average index |  |  | 121.06
Juneau, AK: |  |  |
1. Honda Civic DX 4 dr sdn 1.5L 4 cyl | 5,296 | 4,893 | 108.24
2. Ford Taurus GL 4 dr sedan 3.0L 6 cyl | 7,350 | 6,605 | 111.28
3. Chevy S10 Blazer 4WD 2 dr 4.3L 6 cyl | 8,591 | 8,395 | 102.33
Average index |  |  | 107.28
Nome, AK: |  |  |
1. Honda Civic DX 4 dr sdn 1.5L 4 cyl | 7,227 | 4,893 | 147.70
2. Ford Taurus GL 4 dr sedan 3.0L 6 cyl | 9,236 | 6,605 | 139.83
3. Chevy S10 Blazer 4WD 2 dr 4.3L 6 cyl | 11,316 | 8,395 | 134.79
Average index |  |  | 140.77
Honolulu, HI: |  |  |
1. Honda Civic DX 4 dr sdn 1.5L 4 cyl | 6,452 | 4,893 | 131.86
2. Ford Taurus GL 4 dr sedan 3.0L 6 cyl | 8,204 | 6,605 | 124.21
3. Chevy S10 Blazer 4WD 2 dr 4.3L 6 cyl | 10,198 | 8,395 | 121.48
Average index |  |  | 1125.85
Hawaii County, HI: |  |  |
1. Honda Civic DX 4 dr sdn 1.5L 4 cyl | 6,330 | 4,893 | 129.37
2. Ford Taurus GL 4 dr sedan 3.0L 6 cyl | 8,012 | 6,605 | 121.30
3. Chevy S10 Blazer 4WD 2 dr 4.3L 6 cyl | 10,435 | 8,395 | 124.30
Average index |  |  | 124.99
Kauai County, HI: |  |  |
1. Honda Civic DX 4 dr sdn 1.5L 4 cyl | 6,506 | 4,893 | 132.97
2. Ford Taurus GL 4 dr sedan 3.0L 6 cyl | 8,129 | 6,605 | 123.07
3. Chevy S10 Blazer 4WD 2 dr 4.3L 6 cyl | 10,358 | 8,395 | 123.38
Average index |  |  | 126.47
Maui County, HI: |  |  |
1. Honda Civic DX 4 dr sdn 1.5L 4 cyl | 5,782 | 4,893 | 118.17
2. Ford Taurus GL 4 dr sedan 3.0L 6 cyl | 7,970 | 6,605 | 120.67
3. Chevy S10 Blazer 4WD 2 dr 4.3L 6 cyl | 10,778 | 8,395 | 128.39
Average index |  |  | 122.41
Guam: |  |  |
1. Honda Civic DX 4 dr sdn 1.5L 4 cyl | 6,058 | 4,893 | 123.82
2. Ford Taurus GL 4 dr sedan 3.0L 6 cyl | 9,271 | 6,605 | 140.37
3. Chevy S10 Blazer 4WD 2 dr 4.3L 6 cyl | 10,307 | 8,395 | 122.78
Average index |  |  | 128.99
Puerto Rico: |  |  |
1. Honda Civic DX 4 dr sdn 1.5L 4 cyl | 5,838 | 4,893 | 119.31
2. Ford Taurus GL 4 dr sedan 3.0L 6 cyl | 8,501 | 6,605 | 128.71
3. Chevy S10 Blazer 4WD 2 dr 4.3L 6 cyl | 11,356 | 8,395 | 135.27
Average index |  |  | 127.76
Virgin Islands: |  |  |
1. Honda Civic DX 4 dr sdn 1.5L 4 cyl | 6,560 | 4,893 | 134.07
2. Ford Taurus GL 4 dr sedan 3.0L 6 cyl | 8,149 | 6,605 | 123.38
3. Chevy S10 Blazer 4WD 2 dr 4.3L 6 cyl | 10,565 | 8,395 | 125.85
Average index |  |  | 127.77

Appendix 18_Transportation Summary

| Category indexes | Lower income: Weights | Lower income: Subtotal | Middle income: Weights | Middle income: Subtotal | Upper income: Weights | Upper income: Subtotal
Anchorage, AK:
Private transportation | 115.47 | 95.22 | 109.95 | 94.57 | 109.20 | 93.97 | 108.51
Air fares and other transportation expenses | 216.25 | 4.78 | 10.34 | 5.43 | 11.74 | 6.03 | 13.04
Total weights |  | 100.00 |  | 100.00 |  | 100.00
Total indexes:
Lower |  |  | 120.29 |  |  |  |
Middle |  |  |  |  | 120.94 |  |
Upper |  |  |  |  |  |  | 121.55
Fairbanks, AK:
Private transportation | 121.06 | 95.22 | 115.27 | 94.57 | 114.49 | 93.97 | 113.76
Air fares and other transportation expenses | 287.92 | 4.78 | 13.76 | 5.43 | 15.63 | 6.03 | 17.36
Total weights |  | 100.00 |  | 100.00 |  | 100.00 |
Total indexes:
Lower |  |  | 129.03 |  |  |  |
Middle |  |  |  |  | 130.12 |  |
Upper |  |  |  |  |  |  | 131.12
Juneau, AK:
Private transportation | 107.28 | 95.22 | 102.15 | 94.57 | 101.45 | 93.97 | 100.81
Air fares and other transportation expenses | 276.25 | 4.78 | 13.20 | 5.43 | 15.00 | 6.03 | 16.66
Total weights |  | 100.00 |  | 100.00 |  | 100.00 |
Total indexes:
Lower |  |  | 115.35 |  |  |  |
Middle |  |  |  |  | 116.45 |  |
Upper |  |  |  |  |  |  | 117.47
Nome, AK:
Private transportation | 140.77 | 95.22 | 134.04 | 94.57 | 133.13 | 93.97 | 132.28
Air fares and other transportation expenses | 483.75 | 4.78 | 23.12 | 5.43 | 26.27 | 6.03 | 29.17
Total weights |  | 100.00 |  | 100.00 |  | 100.00 |
Total indexes:
Lower |  |  | 157.16 |  |  |  |
Middle |  |  |  |  | 159.40 |  |
Upper |  |  |  |  |  |  | 161.45
Honolulu, HI:
Private transportation | 125.85 | 95.22 | 119.83 | 94.57 | 119.02 | 93.97 | 118.26
Air fares and other transportation expenses | 302.92 | 4.78 | 14.48 | 5.43 | 16.45 | 6.03 | 18.27
Total weights |  | 100.00 |  | 100.00 |  | 100.00 |
Total indexes:
Lower |  |  | 134.31 |  |  |  |
Middle |  |  |  |  | 135.47 |  |
Upper |  |  |  |  |  |  | 136.53
Hawaii County, HI:
Private transportation | 124.99 | 95.22 | 119.02 | 94.57 | 118.20 | 93.97 | 117.45
Air fares and other transportation expenses | 377.92 | 4.78 | 18.06 | 5.43 | 20.52 | 6.03 | 22.79
Total weights |  | 100.00 |  | 100.00 |  | 100.00 |
Total indexes:
Lower |  |  | 137.08 |  |  |  |
Middle |  |  |  |  | 138.72 |  |
Upper |  |  |  |  |  |  | 140.24
Kauai County, HI:
Private transportation | 126.47 | 95.22 | 120.42 | 94.57 | 119.60 | 93.97 | 118.84
Air fares and other transportation expenses | 377.92 | 4.78 | 18.06 | 5.43 | 20.52 | 6.03 | 22.79
Total weights |  | 100.00 |  | 100.00 |  | 100.00 |
Total indexes:
Lower |  |  | 138.48 |  |  |  |
Middle |  |  |  |  | 140.12 |  |
Upper |  |  |  |  |  |  | 141.63
Maui County, HI:
Private transportation | 122.41 | 95.22 | 116.56 | 94.57 | 115.76 | 93.97 | 115.03
Air fares and other transportation expenses | 357.92 | 4.78 | 17.11 | 5.43 | 19.44 | 6.03 | 21.58
Total weights |  | 100.00 |  | 100.00 |  | 100.00 |
Total indexes:
Lower |  |  | 133.67 |  |  |  |
Middle |  |  |  |  | 135.20 |  |
Upper |  |  |  |  |  |  | 136.61
Guam:
Private transportation | 128.99 | 95.22 | 122.82 | 94.57 | 121.99 | 93.97 | 121.21
Air fares and other transportation expenses | 532.08 | 4.78 | 25.43 | 5.43 | 28.89 | 6.03 | 32.08
Total weights |  | 100.00 |  | 100.00 |  | 100.00 |
Total indexes:
Lower |  |  | 148.25 |  |  |  |
Middle |  |  |  |  | 150.88 |  |
Upper |  |  |  |  |  |  | 153.29
Puerto Rico:
Private transportation | 127.76 | 95.22 | 121.65 | 94.57 | 120.82 | 93.97 | 120.06
Air fares and other transportation expenses | 186.67 | 4.78 | 8.92 | 5.43 | 10.14 | 6.03 | 11.26
Total weights |  | 100.00 |  | 100.00 |  | 100.00 |
Total indexes:
Lower |  |  | 130.57 |  |  |  |
Middle |  |  |  |  | 130.96 |  |
Upper |  |  |  |  |  |  | 131.32
Virgin Islands:
Private transportation | 127.77 | 95.22 | 121.66 | 94.57 | 120.83 | 93.97 | 120.07
Air fares and other transportation expenses | 285.42 | 4.78 | 13.64 | 5.43 | 15.50 | 6.03 | 17.21
Total weights |  | 100.00 |  | 100.00 |  | 100.00 |
Total indexes:
Lower |  |  | 135.30 |  |  |  |
Middle |  |  |  |  | 136.33 |  |
Upper |  |  |  |  |  |  | 137.28

Appendix 19—Miscellaneous Expense Analysis—Category Development

Category/item | Price | Price DC area | Ratio | Weights | Subtotal | Index
Anchorage, AK:
Medicalcare |  |  |  |  |  | 113.31
Non-aspirin pain reliever | $7.35 | $6.95 | 1.06 | 5.34 | 5.65 |
Tetracycline | 7.91 | 7.03 | 1.13 | 11.83 | 13.31 |
Dentist clean/check | 158.33 | 103.26 | 1.53 | 15.51 | 23.78 |
Doctor office visit | 66.67 | 58.86 | 1.13 | 11.39 | 12.90 |
Hospital room | 748.00 | 625.35 | 1.20 | 2.89 | 3.46 |
Health Insurance | 1,275.77 | 1,232.98 | 1.03 | 47.72 | 49.38 |
Contact Lenses | 167.33 | 185.77 | 0.90 | 5.32 | 4.79 |
Fairbanks, AK:
Medical care |  |  |  |  |  | 116.20
Non-aspirin pain reliever | 6.70 | 6.95 | 0.96 | 5.34 | 5.15 |
Tetracycline | 8.55 | 7.03 | 1.22 | 11.83 | 14.38 |
Dentist clean/check | 173.67 | 103.26 | 1.68 | 15.51 | 26.09 |
Doctor office visit | 71.67 | 58.86 | 1.22 | 11.39 | 13.87 |
Hospital room | 637.00 | 625.35 | 1.02 | 2.89 | 2.94 |
Health Insurance | 1,250.20 | 1,232.98 | 1.01 | 47.72 | 48.39 |
Contact Lenses | 188.00 | 185.77 | 1.01 | 5.32 | 5.38 |
Juneau, AK:
Medical care |  | ENT> |  |  |  | 118.83
Non-aspirin pain reliever | 9.41 | 6.95 | 1.35 | 5.34 | 7.23 |
Tetracycline | 7.72 | 7.03 | 1.10 | 11.83 | 12.99 |
Dentist clean/check | 183.33 | 103.26 | 1.78 | 15.51 | 27.54 |
Doctor office visit | 73.50 | 58.86 | 1.25 | 11.39 | 14.22 |
Hospital room | 656.97 | 625.35 | 1.05 | 2.89 | 3.04 |
Health Insurance | 1,252.03 | 1,232.98 | 1.02 | 47.72 | 48.46 |
Contact Lenses | 1186.67 | 185.77 | 1.00 | 5.32 | 5.35 |
Nome, AK:
Medical care |  |  |  |  |  | 134.92
Non-aspirin pain reliever | 10.46 | 6.95 | 1.51 | 5.34 | 8.04 |
Tetracycline | 14.75 | 7.03 | 2.10 | 11.83 | 24.83 |
Dentist clean/check | 153.50 | 103.26 | 1.49 | 15.51 | 23.06 |
Doctor office visit | 94.00 | 58.86 | 1.60 | 11.39 | 18.19 |
Hospital room | 1,100.00 | 625.35 | 1.76 | 2.89 | 5.08 |
Health Insurance | 1,260.90 | 1,232.98 | 1.02 | 47.72 | 48.80 |
Contact Lenses | 240.00 | 185.77 | 1.29 | 5.32 | 6.87 |
Honolulu, HI:
Medical care |  |  |  |  |  | 104.33
Non-aspirin pain reliever | 9.10 | 6.95 | 1.31 | 5.34 | 7.00 |
Tetracycline | 7.74 | 7.03 | 1.10 | 11.83 | 13.03 |
Dentist clean/check | 123.92 | 103.26 | 1.20 | 15.51 | 18.61 |
Doctor office visit | 59.76 | 58.86 | 1.02 | 11.39 | 11.56 |
Hospital room | 675.99 | 625.35 | 1.08 | 2.89 | 3.12 |
Health Insurance | 1,170.63 | 1,232.98 | 0.95 | 47.72 | 45.31 |
Contact Lenses | 197.92 | 185.77 | 1.07 | 5.32 | 5.67 |
Hilo, HI:
Medical care |  |  |  |  |  | 99.48
Non-aspirin pain reliever | 9.67 | 6.95 | 1.39 | 5.34 | 7.43 |
Tetracycline | 5.79 | 7.03 | 0.82 | 11.83 | 9.74 |
Dentist clean/check | 127.99 | 103.26 | 1.24 | 15.51 | 19.23 |
Doctor office visit | 66.93 | 58.86 | 1.14 | 11.39 | 12.95 |
Hospital room | 558.50 | 625.35 | 0.89 | 2.89 | 2.58 |
Health Insurance | 1,085.58 | 1,232.98 | 0.88 | 47.72 | 42.02 |
Contact Lenses | 192.49 | 185.77 | 1.04 | 5.32 | 5.51 |
Kailua Kona, HI:
Medical care |  |  |  |  |  | 99.97
Non-aspirin pain reliever | 8.67 | 6.95 | 1.25 | 5.34 | 6.67 |
Tetracycline | 6.23 | 7.03 | 0.89 | 11.83 | 10.48 |
Dentist clean/check | 154.51 | 103.26 | 1.50 | 15.51 | 23.21 |
Doctor office visit | 49.82 | 58.86 | 0.85 | 11.39 | 9.64 |
Hospital room | 558.33 | 625.35 | 0.89 | 2.89 | 2.58 |
Health Insurance | 1,085.58 | 1,232.98 | 0.88 | 47.72 | 42.02 |
Contact Lenses | 187.35 | 185.77 | 1.01 | 5.32 | 5.37 |
Kauai County, HI:
Medical care |  |  |  |  |  | 96.07
Non-aspirin pain reliever | 9.26 | 6.95 | 1.33 | 5.34 | 7.12 |
Tetracycline | 6.60 | 7.03 | 0.94 | 11.83 | 11.11 |
Dentist clean/check | 143.75 | 103.26 | 1.39 | 15.51 | 21.59 |
Doctor office visit | 40.68 | 58.86 | 0.69 | 11.39 | 7.87 |
Hospital room | 605.04 | 625.35 | 0.97 | 2.89 | 2.80 |
Health Insurance | 1,015.92 | 1,232.98 | 0.82 | 47.72 | 39.32 |
Contact Lenses | 218.17 | 185.77 | 1.17 | 5.32 | 6.25 |
Maui County, HI:
Medical care |  |  |  |  |  | 110.26
Non-aspirin pain reliever | 7.85 | 6.95 | 1.13 | 5.34 | 6.03 |
Tetracycline | 6.53 | 7.03 | 0.93 | 11.83 | 10.98 |
Dentist clean/check | 162.50 | 103.26 | 1.57 | 15.51 | 24.41 |
Doctor office visit | 65.95 | 58.86 | 1.12 | 11.39 | 12.76 |
Hospital room | 558.50 | 625.35 | 0.89 | 2.89 | 2.58 |
Health Insurance | 1,206.89 | 1,232.98 | 0.98 | 47.72 | 46.71 |
Contact Lenses | 236.11 | 185.77 | 1.27 | 5.32 | 6.76 |
Guam:
Medical care |  |  |  |  |  | 124.85
Non-aspirin pain reliever | 9.32 | 6.95 | 1.34 | 5.34 | 7.16 |
Tetracycline | 4.00 | 7.03 | 0.57 | 11.83 | 6.73 |
Dentist clean/check | 166.50 | 103.26 | 1.61 | 15.51 | 25.01 |
Doctor office visit | 49.00 | 58.86 | 0.83 | 11.39 | 9.48 |
Hospital room | 289.50 | 625.35 | 0.46 | 2.89 | 1.34 |
Health Insurance | 1,635.28 | 1,232.98 | 1.33 | 47.72 | 63.29 |
Contact Lenses | 413.33 | 185.77 | 2.23 | 5.32 | 11.84 |
Puerto Rico:
Medical care |  |  |  |  |  | 80.01
Non-aspirin pain reliever | 6.65 | 6.95 | 0.96 | 5.34 | 5.11 |
Tetracycline | 4.00 | 7.03 | 0.57 | 11.83 | 6.73 |
Dentist clean/check | 95.33 | 103.26 | 0.92 | 15.51 | 14.32 |
Doctor office visit | 31.67 | 58.86 | 0.54 | 11.39 | 6.13 |
Hospital room | 510.92 | 625.35 | 0.82 | 2.89 | 2.36 |
Health Insurance | 923.04 | 1,232.98 | 0.75 | 47.72 | 35.72 |
Contact Lenses | 336.67 | 185.77 | 1.81 | 5.32 | 9.64 |
St. Croix, VI:
Medical care |  |  |  |  |  | 111.69
Non-aspirin pain reliever | 7.97 | 6.95 | 1.15 | 5.34 | 6.13 |
Tetracycline | 6.13 | 7.03 | 0.87 | 11.83 | 10.32 |
Dentist clean/check | 91.67 | 103.26 | 0.89 | 15.51 | 13.77 |
Doctor office visit | 45.83 | 58.86 | 0.78 | 11.39 | 8.87 |
Hospital room | 650.00 | 625.35 | 1.04 | 2.89 | 3.00 |
Health Insurance | 1,636.82 | 1,232.98 | 1.33 | 47.72 | 63.35 |
Contact Lenses | 217.23 | 185.77 | 1.17 | 5.32 | 6.22 |
St. Thomas, VI:
Medical care |  |  |  |  |  | 118.59
Non-aspirin pain reliever | 7.89 | 6.95 | 1.14 | 5.34 | 6.06 |
Tetracycline | 9.80 | 7.03 | 1.39 | 11.83 | 16.50 |
Dentist clean/check | 77.00 | 103.26 | 0.75 | 15.51 | 11.57 |
Doctor office visit | 61.25 | 58.86 | 1.04 | 11.39 | 11.85 |
Hospital room | 512.50 | 625.35 | 0.82 | 2.89 | 2.37 |
Health Insurance | 1,636.82 | 1,232.98 | 1.33 | 47.72 | 63.35 |
Contact Lenses | 240.00 | 185.77 | 1.29 | 5.32 | 6.87 |

Appendix 20—Miscellaneous Expense Analysis—Total Index Development

| Category indexes | Lower income: Weights* | Lower income: Subtotal | Middle income: Weights* | Middle income: Subtotal | Upper income: Weights* | Upper income: Subtotal
Anchorage, AK:
1. Medical care | 113.31 | 40.96 | 46.41 | 31.24 | 35.40 | 24.27 | 27.50
2. Cash contributions:
Lower income | 112.60 | 16.63 | 18.73 |  |  |  |
Middle income | 112.33 |  |  | 16.27 | 18.28 |  |
Upper income | 112.02 |  |  |  |  | 16.01 | 17.93
3. Personal insurance/pensions | 100.00 | 41.44 | 41.44 | 51.24 | 51.24 | 58.27 | 58.27
4. Education | 35.35 | 0.98 | 0.35 | 1.26 | 0.45 | 1.45 | 0.51
Total weights |  | 100.00 |  | 100.00 |  | 100.00 |
Total indexes:
Lower |  |  | 106.93 |  |  |  |
Middle |  |  |  |  | 105.37 |  |
Upper |  |  |  |  |  |  | 104.21
Fairbanks, AK:
1. Medical care | 116.20 | 40.96 | 47.60 | 31.24 | 36.30 | 24.27 | 28.20
2. Cash contributions:
Lower income | 114.97 | 16.63 | 19.12 |  |  |  |
Middle income | 114.84 |  |  | 16.27 | 18.68 |  |
Upper income | 114.69 |  |  |  |  | 16.01 | 18.36
3. Personal insurance/pensions | 100.00 | 41.44 | 41.44 | 51.24 | 51.24 | 58.27 | 58.27
4. Education | 20.41 | 0.98 | 0.20 | 1.26 | 0.26 | 1.45 | 0.30
Total weights |  | 100.00 |  | 100.00 |  | 100.00 |
Total indexes:
Lower |  |  | 108.36 |  |  |  |
Middle |  |  |  |  | 106.48 |  |
Upper |  |  |  |  |  |  | 105.13
Juneau, AK:
1. Medical care | 118.83 | 40.96 | 48.67 | 31.24 | 37.12 | 24.27 | 28.84
2. Cash contributions:
Lower income | 118.75 | 16.63 | 19.75 |  |  |  |
Middle income | 118.56 |  |  | 16.27 | 19.29 |  |
Upper income | 118.37 |  |  |  |  | 16.01 | 18.95
3. Personal insurance/pensions | 100.00 | 41.44 | 41.44 | 51.24 | 51.24 | 58.27 | 58.27
4. Education | 39.18 | 0.98 | 0.38 | 1.26 | 0.49 | 1.45 | 0.57
Total weights |  | 100.00 |  | 100.00 |  | 100.00 |
Total indexes:
Lower |  |  | 110.24 |  |  |
Middle |  |  |  |  | 108.14 |  |
Upper |  |  |  |  |  |  | 106.63
Nome, AK:
1. Medical care | 134.92 | 40.96 | 55.26 | 31.24 | 42.15 | 24.27 | 32.75
2. Cash contributions:
Lower income | 143.76 | 16.63 | 23.91 |  |  |  |
Middle income | 143.15 |  |  | 16.27 | 23.29 |
Upper income | 142.57 |  |  |  |  | 16.01 | 22.83
3. Personal insurance/pensions | 100.00 | 41.44 | 41.44 | 51.24 | 51.24 | 58.27 | 58.27
4. Education | 17.44 | 0.98 | 0.17 | 1.26 | 0.22 | 1.45 | 0.25
Total weights |  | 100.00 |  | 100.00 |  | 100.00 |
Total indexes:
Lower |  |  | 120.78 |  |  |  |
Middle |  |  |  |  | 116.90 |  |
Upper |  |  |  |  |  |  | 114.10
Honolulu, HI:
1. Medical care | 104.33 | 40.96 | 42.73 | 31.24 | 32.59 | 24.27 | 25.32
2. Cash contributions:
Lower income | 118.38 | 16.63 | 19.69 |  |  |  |
Middle income | 117.72 |  |  | 16.27 | 19.15 |  |
Upper income | 117.10 |  |  |  |  | 16.01 | 18.75
3. Personal insurance/pensions | 100.00 | 41.44 | 41.44 | 51.24 | 51.24 | 58.27 | 58.27
4. Education | 177.14 | 0.98 | 1.74 | 1.26 | 2.23 | 1.45 | 2.57
Total weights |  | 100.00 |  | 100.00 |  | 100.00 |
Total indexes:
Lower |  |  | 105.60 |  |  |  |
Middle |  |  |  |  | 105.21 |  |
Upper |  |  |  |  |  |  | 104.91
Hilo, HI:
1. Medical care | 99.48 | 40.96 | 40.75 | 31.24 | 31.08 | 24.27 | 24.14
2. Cash contributions:
Lower income | 114.12 | 16.63 | 18.98 |  |  |  |
Middle income | 113.08 |  |  | 16.27 | 18.40 |  |
Upper income | 112.09 |  |  |  |  | 16.01 | 17.95
3. Personal insurance/pensions | 100.00 | 41.44 | 41.44 | 51.24 | 51.24 | 58.27 | 58.27
4. Education | 173.58 | 0.98 | 1.70 | 1.26 | 2.19 | 1.45 | 2.52
Total weights |  | 100.00 |  | 100.00 |  | 100.00 |
Total indexes:
Lower |  |  | 102.87 |  |  |  |
Middle |  |  |  |  | 102.91 |  |
Upper |  |  |  |  |  |  | 102.88
Kailua Kona, HI:
1. Medical care | 99.97 | 40.96 | 40.95 | 31.24 | 31.23 | 24.27 | 24.26
2. Cash contributions:
Lower income | 117.91 | 16.63 | 19.61 |  |  |  |
Middle income | 117.02 |  |  | 16.27 | 19.04 |  |
Upper income | 116.19 |  |  |  |  | 16.01 | 18.60
3. Personal insurance/pensions | 100.00 | 41.44 | 41.44 | 51.24 | 51.24 | 58.27 | 58.27
4. Education | 135.21 | 0.98 | 1.33 | 1.26 | 1.70 | 1.45 | 1.96
Total weights |  | 100.00 |  | 100.00 |  | 100.00 |
Total indexes:
Lower |  |  | 103.33 |  |  |  |
Middle |  |  |  |  | 103.21 |  |
Upper |  |  |  |  |  |  | 103.09
Kauai County, HI:
1. Medical care | 96.07 | 40.96 | 39.35 | 31.24 | 30.01 | 24.27 | 23.32
2. Cash contributions:
Lower income | 124.36 | 16.63 | 20.68 |  |  |  |
Middle income | 122.97 |  |  | 16.27 | 20.01 |  |
Upper income | 121.70 |  |  |  |  | 16.01 | 19.48
3. Personal insurance/pensions | 100.00 | 41.44 | 41.44 | 51.24 | 51.24 | 58.27 | 58.27
4. Education | 132.28 | 0.98 | 1.30 | 1.26 | 1.67 | 1.45 | 1.92
Total weights |  | 100.00 |  | 100.00 |  | 100.00 |
Total indexes:
Lower |  |  | 102.77 |  |  |  |
Middle |  |  |  |  | 102.93 |  |
Upper |  |  |  |  |  |  | 102.99
Maui County, HI:
1. Medical care | 110.26 | 40.96 | 45.16 | 31.24 | 34.45 | 24.27 | 26.76
2. Cash contributions:
Lower income | 124.43 | 16.63 | 20.69 |  |  |  |
Middle income | 123.53 |  |  | 16.27 | 20.10 |  |
Upper income | 122.66 |  |  |  |  | 16.01 | 19.64
3. Personal insurance/pensions | 100.00 | 41.44 | 41.44 | 51.24 | 51.24 | 58.27 | 58.27
4. Education | 73.39 | 0.98 | 0.72 | 1.26 | 0.92 | 1.45 | 1.06
Total weights |  | 100.00 |  | 100.00 |  | 100.00 |
Total indexes:
Lower |  |  | 108.01 |  |  |  |
Middle |  |  |  |  | 106.71 |  |
Upper |  |  |  |  |  |  | 105.73
Guam:
1. Medical care | 124.85 | 40.96 | 51.14 | 31.24 | 39.00 | 24.27 | 30.30
2. Cash contributions:
Lower income | 120.36 | 16.63 | 20.02 |  |  |  |
Middle income | 120.33 |  |  | 16.27 | 19.58 |  |
Upper income | 120.28 |  |  |  |  | 16.01 | 19.26
3. Personal insurance/pensions | 100.00 | 41.44 | 41.44 | 51.24 | 51.24 | 58.27 | 58.27
4. Education | 242.12 | 0.98 | 2.37 | 1.26 | 3.05 | 1.45 | 3.51
Total weights |  | 100.00 |  | 100.00 |  | 100.00 |
Total indexes:
Lower |  |  | 114.97 |  |  |  |
Middle |  |  |  |  | 112.87 |  |
Upper |  |  |  |  |  |  | 111.34
Puerto Rico:
1. Medical care | 80.01 | 40.96 | 32.77 | 31.24 | 25.00 | 24.27 | 19.42
2.Cash contributions:
Lower income | 109.33 | 16.63 | 18.18 |  |  |  |
Middle income | 109.27 |  |  | 16.27 | 17.78 |  |
Upper income | 109.18 |  |  |  |  | 16.01 | 17.48
3. Personal insurance/pensions | 100.00 | 41.44 | 41.44 | 51.24 | 51.24 | 58.27 | 58.27
4. Education | 211.32 | 0.98 | 2.07 | 1.26 | 2.66 | 1.45 | 3.06
Total weights |  | 100.00 |  | 100.00 |  | 100.00 |
Total indexes:
Lower |  |  | 94.46 |  |  |  |
Middle |  |  |  |  | 96.68 |  |
Upper |  |  |  |  |  |  | 98.23
St. Croix, VI:
1. Medical care | 111.69 | 40.96 | 45.75 | 31.24 | 34.89 | 24.27 | 27.11
2. Cash contributions:
Lower income | 118.65 | 16.63 | 19.73 |  |  |  |
Middle | 118.70 |  |  | 16.27 | 19.31 |  |
Upper income | 118.75 |  |  |  |  | 16.01 | 19.01
3. Personal insurance/pensions | 100.00 | 41.44 | 41.44 | 51.24 | 51.24 | 58.27 | 58.27
4. Education | 245.79 | 0.98 | 2.41 | 1.26 | 3.10 | 1.45 | 3.56
Total weights |  | 100.00 |  | 100.00 |  | 100.00 |
Total indexes:
Lower |  |  | 109.33 |  |  |  |
Middle |  |  |  |  | 108.54 |  |
Upper |  |  |  |  |  |  | 107.95
St. Thomas, VI:
1. Medical care | 118.59 | 40.96 | 48.57 | 31.24 | 37.05 | 24.27 | 28.78
2. Cash contributions:
Lower income | 118.72 | 16.63 | 19.74 |  |  |  |
Middle income | 118.15 |  |  | 16.27 | 19.22 |  |
Upper income | 117.64 |  |  |  |  | 16.01 | 18.83
3. Personal insurance/pensions | 100.00 | 41.44 | 41.44 | 51.24 | 51.24 | 58.27 | 58.27
4. Education | 274.01 | 0.98 | 2.69 | 1.26 | 3.45 | 1.45 | 3.97
Total weights |  | 100.00 |  | 100.00 |  | 100.00 |
Total indexes:
Lower |  |  | 112.44 |  |  |  |
Middle |  |  |  |  | 110.96 |  |
Upper |  |  |  |  |  |  | 109.85
*Numbers might not add to 100 due to rounding.

Miscellaneous Expense Analysis—Composites
Location | Weights | Total Indexes: Lower income | Total Indexes: Middle income | Total Indexes: Upper income
Hilo, HI | 75.81 | 102.87 | 102.91 | 102.88
Kailua Kona, HI | 24.19 | 103.33 | 103.21 | 103.09
Total weight | 100.00
Hawaii County, HI | N/A | 102.98 | 102.98 | 102.93
St. Croix, VI | 48.26 | 109.33 | 108.54 | 107.95
St. Thomas, VI | 51.74 | 112.44 | 110.96 | 109.85
Total weight | 100.00
Virgin Islands | N/A | 110.94 | 109.79 | 108.93

Appendix 21—Component Expenditure Amounts

| Incomes | Indexes: CG&S | Indexes: Own | Indexes: Rent | Indexes: Transp | Indexes: Misc | Amounts: CG&S | Amounts: Own | Amounts: Rent | Amounts: Transp | Amounts: Misc
Reference Wts/Amts | 23,300 | 38.07 | 26.42 | 26.42 | 19.24 | 16.27 | $8,870 | $6,156 | $6,156 | $4,483 | $3,791
| 35,300 | 37.48 | 25.00 | 25.00 | 19.12 | 18.40 | 13,230 | 8,825 | 8,825 | 6,749 | 6,495
| 52,700 | 36.96 | 23.72 | 23.72 | 19.01 | 20.32 | 19,478 | 12,500 | 12,500 | 10,018 | 10,709
Anchorage, AK | Lower | 112.60 | 100.68 | 97.21 | 120.29 | 106.93 | 9,988 | 6,198 | 5,984 | 5,393 | 4,054
| Middle | 112.33 | 92.09 | 84.85 | 120.94 | 105.37 | 14,861 | 8,127 | 7,488 | 8,162 | 6,844
| Upper | 112.02 | 76.83 | 78.78 | 121.55 | 104.21 | 21,819 | 9,604 | 9,848 | 12,177 | 11,160
Fairbanks, AK | Lower | 114.97 | 98.72 | 98.77 | 129.03 | 108.36 | 10,198 | 6,077 | 6,080 | 5,784 | 4,108
| Middle | 114.84 | 91.58 | 94.03 | 130.12 | 106.48 | 15,193 | 8,082 | 8,298 | 8,782 | 6,916
| Upper | 114.69 | 74.40 | 75.07 | 131.12 | 105.13 | 22,339 | 9,300 | 9,384 | 13,136 | 11,258
Juneau, AK | Lower | 118.75 | 116.97 | 123.71 | 115.35 | 110.24 | 10,533 | 7,201 | 7,616 | 5,171 | 4,179
| Middle | 118.56 | 102.63 | 108.10 | 116.45 | 108.14 | 15,685 | 9,057 | 9,540 | 7,859 | 7,024
| Upper | 118.37 | 82.73 | 93.43 | 117.47 | 106.63 | 23,056 | 10,341 | 11,679 | 11,768 | 11,419
Nome, AK | Lower | 143.76 | 112.25 | 138.27 | 157.16 | 120.78 | 12,752 | 6,910 | 8,512 | 7,045 | 4,579
| Middle | 143.15 | 104.23 | 118.31 | 159.40 | 116.90 | 18,939 | 9,198 | 10,441 | 10,758 | 7,593
| Upper | 142.57 | 87.17 | 86.67 | 161.45 | 114.10 | 27,770 | 10,896 | 10,834 | 16,174 | 12,219
Honolulu, HI | Lower | 118.38 | 181.98 | 117.80 | 134.31 | 105.60 | 10,500 | 11,203 | 7,252 | 6,021 | 4,003
| Middle | 117.72 | 169.13 | 106.99 | 135.47 | 105.21 | 15,574 | 14,926 | 9,442 | 9,143 | 6,833
| Upper | 117.10 | 171.14 | 101.56 | 136.53 | 104.91 | 22,809 | 21,393 | 12,695 | 13,678 | 11,235
Hawaii County, HI | Lower | 115.04 | 117.65 | 88.71 | 137.08 | 102.98 | 10,204 | 7,243 | 5,461 | 6,145 | 3,904
| Middle | 114.03 | 108.41 | 81.96 | 138.72 | 102.98 | 15,086 | 9,567 | 7,233 | 9,362 | 6,689
| Upper | 113.08 | 89.13 | 66.08 | 140.24 | 102.93 | 22,026 | 11,141 | 8,260 | 14,049 | 11,023
Kauai County, HI | Lower | 124.36 | 145.54 | 101.12 | 138.48 | 102.77 | 11,031 | 8,959 | 6,225 | 6,208 | 3,896
| Middle | 122.97 | 132.32 | 85.32 | 140.12 | 102.93 | 16,269 | 11,677 | 7,529 | 9,457 | 6,685
| Upper | 121.70 | 108.23 | 70.22 | 141.63 | 102.99 | 23,705 | 13,529 | 8,778 | 14,188 | 11,029
Maui County, HI | Lower | 124.43 | 163.39 | 110.62 | 133.67 | 108.01 | 11,037 | 10,058 | 6,810 | 5,992 | 4,095
| Middle | 123.53 | 148.13 | 96.49 | 135.20 | 106.71 | 16,343 | 13,072 | 8,515 | 9,125 | 6,931
| Upper | 122.66 | 119.25 | 79.24 | 136.61 | 105.73 | 23,892 | 14,906 | 9,905 | 13,686 | 11,323
Guam (Local Retail) | Lower | 120.36 | 143.73 | 127.66 | 148.25 | 114.97 | 10,676 | 8,848 | 7,859 | 6,646 | 4,359
| Middle | 120.33 | 127.35 | 118.37 | 150.88 | 112.87 | 15,920 | 11,239 | 10,446 | 10,183 | 7,331
| Upper | 120.28 | 121.22 | 92.07 | 153.29 | 111.34 | 23,428 | 15,153 | 11,509 | 15,357 | 11,923
Guam (Comm.&Exch.) | Lower | 108.58 | 143.73 | 127.66 | 148.25 | 114.97 | 9,631 | 8,848 | 7,859 | 6,646 | 4,359
| Middle | 109.35 | 127.35 | 118.37 | 150.88 | 112.87 | 14,467 | 11,239 | 10,446 | 10,183 | 7,331
| Upper | 110.05 | 121.22 | 92.07 | 153.29 | 111.34 | 21,436 | 15,153 | 11,509 | 15,357 | 11,923
Puerto Rico | Lower | 109.33 | 78.32 | 104.60 | 130.57 | 94.46 | 9,698 | 4,821 | 6,439 | 5,853 | 3,581
| Middle | 109.27 | 77.94 | 96.08 | 130.96 | 96.68 | 14,456 | 6,878 | 8,479 | 8,838 | 6,279
| Upper | 109.18 | 78.55 | 93.78 | 131.32 | 98.23 | 21,266 | 9,819 | 11,723 | 13,156 | 10,519
Virgin Islands | Lower | 118.69 | 131.42 | 99.11 | 135.30 | 110.94 | 10,528 | 8,090 | 6,101 | 6,065 | 4,206
| Middle | 118.42 | 114.43 | 97.28 | 136.33 | 109.79 | 15,667 | 10,098 | 8,585 | 9,201 | 7,131
| Upper | 118.18 | 103.51 | 80.00 | 137.28 | 108.93 | 23,019 | 12,939 | 10,000 | 13,753 | 11,665

Appendix 22—Total Comparative Cost Indexes

| Income | Income weights | Own | Rent | Total | WDC | Index
| Lower | 23,300 | 37.96 | 62.04 |  |  |
| Middle | 35,300 | 47.26 | 52.74 |  |  |
| Upper | 52,700 | 60.70 | 39.30
Anchorage, AK | Lower | 27.02 | $25,633 | $25,419 | $25,500 | $23,300 |
| Middle | 30.64 | 37,994 | 37,355 | 37,657 | 35,300 |
| Upper | 42.34 | 54,760 | 55,004 | 54,856 | 52,700 |
|  | 100.00 |  |  | 41,654 | 39,425 | 105.65
Fairbanks, AK | Lower | 35.20 | 26,167 | 26,170 | 26,169 | 23,300 |
| Middle | 34.79 | 38,973 | 39,189 | 39,087 | 35,300 |
| Upper | 30.01 | 56,033 | 56,117 | 56,066 | 52,700 |
|  | 100.00 |  |  | 39,635 | 36,298 | 109.19
Juneau, AK | Lower | 18.91 | 27,084 | 27,499 | 27,341 | 23,300 |
| Middle | 29.77 | 39,625 | 40,108 | 39,880 | 35,300 |
| Upper | 51.32 | 56,584 | 57,922 | 57,110 | 52,700 |
|  | 100.00 |  |  | 46,351 | 41,960 | 110.46
Nome, AK | Lower | 23.96 | 31,286 | 32,888 | 32,280 | 23,300 |
| Middle | 45.51 | 46,488 | 47,731 | 47,144 | 35,300 |
| Upper | 30.53 | 67,059 | 66,997 | 67,035 | 52,700 |
|  | 100.00 |  |  | 49,655 | 37,737 | 131.58
Honolulu, HI | Lower | 33.01 | 31,727 | 27,776 | 29,276 | 23,300 |
| Middle | 31.19 | 46,476 | 40,992 | 43,584 | 35,300 |
| Upper | 35.80 | 69,115 | 60,417 | 65,697 | 52,700 |
|  | 100.00 |  |  | 46,777 | 37,568 | 124.51
Hawaii County, HI | Lower | 35.40 | 27,496 | 25,714 | 26,390 | 23,300 |
| Middle | 40.10 | 40,704 | 38,370 | 39,473 | 35,300;
| Upper | 24.50 | 58,239 | 55,358 | 57,107 | 52,700 |
|  | 100.00 |  |  | 39,162 | 35,315 | 110.89
Kauai County, HI | Lower | 27.23 | 30,094 | 27,360 | 28,398 | 23,300 |
| Middle | 32.59 | 44,088 | 39,940 | 41,900 | 35,300 |
| Upper | 40.18 | 62,451 | 57,700 | 60,584 | 52,700 |
|  | 100.00 |  |  | 45,731 | 39,024 | 117.19
Maui County, HI | Lower | 22.79 | 31,182 | 27,934 | 29,167 | 23,300 |
| Middle | 44.12 | 45,471 | 40,914 | 43,068 | 35,300 |
| Upper | 33.09 | 63,807 | 58,806 | 61,842 | 52,700 |
|  | 100.00 |  |  | 46,112 | 38,323 | 120.32
Guam (Local Retail) | Lower | 45.15 | 30,529 | 29,540 | 29,915 | 23,300 |
| Middle | 32.67 | 44,673 | 43,880 | 44,255 | 35,300 |
| Upper | 22.18 | 65,861 | 62,217 | 64,429 | 52,700 |
|  | 100.00 |  |  | 42,255 | 33,741 | 125.23
Guam (Comm.&Exch.) | Lower | 45.15 | 29,484 | 28,495 | 28,870 | 23,300 |
| Middle | 32.67 | 43,220 | 42,427 | 42,802 | 35,300 |
| Upper | 22.18 | 63,869 | 60,225 | 62,437 | 52,700 |
|  | 100.00 |  |  | 40,867 | 33,741 | 121.12
Puerto Rico | Lower | 39.89 | 23,953 | 25,571 | 24,957 | 23,300 |
| Middle | 37.34 | 36,451 | 38,052 | 37,295 | 35,300 |
| Upper | 22.77 | 54,760 | 56,664 | 55,508 | 52,700 |
|  | 100.00 |  |  | 36,520 | 34,475 | 105.93
Virgin Islands | Lower | 32.49 | 28,889 | 26,900 | 27,655 | 23,300 |
| Middle | 41.96 | 42,097 | 40,584 | 41,299 | 35,300 |
| Upper | 25.55 | 61,376 | 58,437 | 60,221 | 52,700 |
|  | 100.00 |  |  | 41,701 | 35,847 | 116.33

[FR Doc. 00-17570 Filed 7-14-00; 8:45 am]

BILLING CODE 6325-01-P